DEPARTMENT OF DEFENSE

Office of the Secretary

[Docket ID: DOD-2017-OS-0031]

Civilian Acquisition Workforce Personnel Demonstration (AcqDemo) Project; Department of Defense (DoD)

AGENCY: Office of the Deputy Assistant Secretary of Defense (Civilian Personnel Policy) (DASD (CPP)), DoD.

ACTION: Notice of consolidation, modification, and republication as amended of a personnel demonstration project plan.

SUMMARY: The DoD, with the approval of the Office of Personnel Management (OPM), received authority to conduct a personnel demonstration project within DoD's civilian acquisition workforce and among those supporting personnel assigned to work directly with it. The purpose of this notice is to publish the approval of the consolidation of the original AcqDemo project plan and, as appropriate, the still relevant interventions described in the six subsequent amendments and one notice of intent as listed in Appendix A into a single document for better understanding and ease of use; record the modifications made to existing demonstration project initiatives as a result of experience gained from their use; describe additional personnel management initiatives undertaken to generate further improvement of and increased efficiencies in support for the DoD acquisition workforce; and republish the AcqDemo Project Plan as amended and as updated for corrections, deletions, additions, and clarifications.

DATES: Implementation of this demonstration project plan will begin no earlier than November 1, 2017.

FOR FURTHER INFORMATION CONTACT: DoD: Scott Wortman, Program Manager, Civilian Acquisition Workforce Personnel Demonstration Project, 9820 Belvoir Road, Ft. Belvoir, VA 22060, 703-805-5050; DoD: Ms. Megan Maciejewski, Defense Civilian Personnel Advisory Service, Human Resources Operational Programs and Advisory Services, Staffing Policy Division, 4800 Mark Center Drive, Suite 05F16, Alexandria, VA 22350-1100, 571-372-1538.

SUPPLEMENTARY INFORMATION:

A. Background

The AcqDemo Project was established under the authority of the Secretary of Defense, with the approval of OPM. Subject to the authority, direction, and control of the Secretary, the Under Secretary of Defense for Acquisition, Technology, and Logistics (USD(AT&L)) carries out the powers, functions, and duties of the Secretary concerning the DoD acquisition workforce (AWF). Title 10 United States Code (U.S.C.) chapter 87 describes general authorities and responsibilities, defense acquisition positions, Acquisition Corps, education and training, and general management provisions applicable to the Defense AWF. The purpose of the AcqDemo, as stated in 10 U.S.C. chapter 87, section 1762, is “to determine the feasibility or desirability of one or more proposals for improving the personnel management policies or procedures that apply with respect to the acquisition workforce of the [DoD] and supporting personnel assigned to work directly with the acquisition workforce.”

This demonstration project was originally authorized under Section 4308 of the National Defense Authorization Act (NDAA) for Fiscal Year (FY) 1996 (Public Law 104-106, 110 Stat. 669; 10 United States Code Annotated (U.S.C.A.) 1701 note), as amended by section 845 of NDAA for FY 1998 (Pub. L. 105-85, 111 Stat.1845); Section 813 of NDAA for FY 2003 (Pub. L. 107-314, 116 Stat. 2609); and Section 1112 of NDAA for FY 2004 (Pub. L. 108-136, 117 Stat. 1634). The NDAA for FY 2004 authorized the National Security Personnel System (NSPS) and most AcqDemo employees converted to the NSPS in 2006. Section 1113 of NDAA for FY 2010 (Pub. L. 111-84, 123 Stat. 2190) repealed the NSPS and directed conversion of all NSPS employees to their previous pay system by January 1, 2012. All NSPS employees formerly in AcqDemo were transitioned back to AcqDemo during the month of May 2011. On January 7, 2011, the original demonstration project authority was repealed and codified at 10 U.S.C. 1762 pursuant to Section 872 of the Ike Skelton NDAA for FY 2011 (Pub. L. 111-383, 124 Stat. 4300, 4302). With the enactment of Section 872 of the Ike Skelton NDAA for Fiscal Year (FY) 2011, Public Law 111-383, Congress extended the authority for AcqDemo until September 30, 2017, and increased the total number of persons who may participate in the project from 95,000 to 120,000. Congress further extended the authority for AcqDemo to December 31, 2020, in Section 846 of NDAA for FY 2016 (Pub. L. 114-92). Through Section 867 of NDAA for FY 2017 (Pub. L. 114-328), Congress provided that the Secretary of Defense shall exercise the authorities granted to the OPM under 5 U.S.C. 4703 for purposes of the demonstration project.

OPM approved and published the final project plan for the AcqDemo on January 8, 1999, in 64 Federal Register (FR) 1426-1492. Since that time, six amendments have been approved and published, and one notice of intent to amend published by OPM. These are listed in Appendix A.

DoD recently published a seventh amendment under the Secretary's authority on July 11, 2017, in 82 FR 32056-32121, providing notice of the intent to consolidate, enhance, and clarify the provisions of the original FRN project plan. This amendment announced a 30-day public comment period during which comments would be accepted on the modifications to the demonstration project plan. DoD received comments from 35 individuals during the comment period which closed on August 10, 2017. Most commenters addressed several topics which in some cases were duplicated by other commenters so the total number of comments exceeds the number of individuals cited above. A number of comments provided insight and encouragement for the project; some requested clarification of policy and purpose of several interventions; many addressed procedural aspects of the flexibilities; and still others noted various places in the notice where formatting, grammatical, and/or typographical errors were found. All comments were carefully considered and adjudicated. In addition, relevant administrative edits were made as a result of further coordination throughout the Department. The following summary addresses the pertinent comments received, provides responses, and notes resultant changes to the original AcqDemo project plan.

B. Summary of Comments

(1) General Positive Comments

Two commenters addressed the necessity of implementing a personnel demonstration project for the Department's acquisition workforce and the supporting personnel assigned to work directly with the acquisition workforce. Another commenter touted that AcqDemo is intended to improve the evaluation process for Government employees, especially high performers constantly contributing above their position's expectations.

(2) Governance

Comment: One commenter questioned the level of delegated authority as it pertains to supervisory and team leader cash differentials used by Heads of Participating Organizations.

Response: The AcqDemo is designed to improve the local acquisition manager's ability and authority to manage the acquisition workforce effectively. As such, the project provides managers, at the lowest practical level, the authority, control, and flexibility they need to manage their workforce. Each participating organization has the authority to manage and oversee AcqDemo implementation and operation within the overarching USD(AT&L), HCI and/or AcqDemo Program Office policy and guidance.

(3) Classification

Five commenters had varying recommendations and suggestions pertaining to classification:

Comment: Commenter suggested to relocate the information on maximum broadband level, section II.A.5. to Recruitment and Staffing.

Response: The AcqDemo's maximum broadband level is synonymous with the full performance level for a position under the GS. Every AcqDemo position is given a maximum broadband level at the time it is classified even if the classification is at the maximum broadband level. This provides employees, supervisors, and human resource specialists with the information needed to determine if the position could qualify as a career ladder position to be competitively filled at a lower broadband level with potential to the maximum broadband level, e.g., an NJ-II broadband level position with potential to an NJ-IV broadband level. Recommendation not adopted.

Comment: A commenter recommended referencing the use of OPM classification standards when an organization is establishing control points as a compensation strategy.

Response: Recommendation has been adopted.

Comment: Commenter recommended that the word “appraisal” be changed to “assessments” in the first sentence of Appendix E.

Response: DoD agrees with this change.

Comment: Commenter suggested that in Section II.A.5., first sentence, that “appropriate career field and certification level for Acquisition positions” be added to the list of information items found in a Position Requirements Document (PRD).

Response: DoD agrees with adding the following acquisition position information: “critical acquisition position indicator; appropriate acquisition career field and certification level for an acquisition position.”

Comment: Commenter intimated that the Classification Authority and PRD policy sections, as written in the notice, do not establish standard procedures that enforce accountability for supervisors or the delegated PRD authority to ensure accuracy of PRDs.

Response: The DoD Instruction 1400.25-V511, dated May 28, 2015, is a key reference for the AcqDemo classification program as it contains direction for proper classification of positions, consistency of reviews, and appeals procedures. Other information regarding detailed processing under AcqDemo is reserved for operational guidance and will be considered for the updated Operational Guide.

(4) Recruitment and Staffing

Five commenters had a variety of concerns and proposed changes, as follows:

Comment: One commenter suggested in Section II.B.3.b and 4(f)3, to change the word “characteristics” to “qualifications” in various places and to remove the phrase “internal government hiring” under Section II.B.3.a.

Response: Suggestions have been adopted and made.

Comment: One commenter recommended changing the specific title, “Better Buying Power 3.0,” to “acquisition initiatives” for a more generic terminology and inquired how DoD will implement placing GS equivalent grade and step specific remarks on an SF 50 when an employee leaves AcqDemo.

Response: DoD made the change from “Better Buying Power 3.0” to “acquisition initiatives.” Regarding the use of a SF-50 to document an employee's equivalent GS grade and step upon his/her departure from AcqDemo, this is no longer a valid method. The requirement to add equivalent grade and step information is removed from the FRN and will be addressed, as appropriate, in the Operational Guide.

Comment: One commenter recommended to allow for non-competitive reassignment of a GS employee whose current position's grade is included in the AcqDemo broadband level of the position to be filled but has a lower maximum basic pay than the broadband level. The recommendation also provides the flexibility for a basic pay increase not to exceed the amount the employee has earned toward his or her next within-grade increase.

Response: The recommendation has been adopted and a waiver to 5 CFR 335.103(c) included.

Comment: One commenter had questions regarding various procedures in the recruitment and selection processes, such as the qualifications criteria, modified term appointment options, external hiring authorities, the streamlined AcqDemo DE-Category Rating process and the Expanded Detail and Temporary Promotion Authority.

Response: Detailed procedural information and guidance is more appropriately placed in Operational Guidance. Changes will be incorporated into the AcqDemo Operational Guide. DoD will utilize the questions posed to ensure information requested will be addressed.

(5) Pay Administration

Comment: One commenter suggested a change to Section II.C.5. that while on temporary promotion a pay increase may be applied to the temporary promotion basic pay.

Response: Basic pay changes resulting from contributions and performance based on the duties of the temporary promotion position apply to that position not a lower broadband level position that may not have any duties similar to those of the temporary promotion position. To do otherwise is against basic classification and pay principles. Any basic pay increase under the CCAS would be determined and applied to the temporary position based on the application of that system for the pay pool in which an employee is a member.

Comment: One commenter requested that the promotion language be clarified for the Human Resource community and the ACDP flexibility should be looked at as a recruiting tool for “hard to fill” positions.

Response: Recommendations adopted. Regarding the use of ACDP as a recruiting tool, this will be discussed in the revision of the Operational Guide. Revised promotion definitions are:

(1) AcqDemo Employees. A promotion occurs when an AcqDemo employee moves from his/her current broadband level to a higher broadband level within the same career path (e.g., NK-I to NK-II), or a different career path and broadband level in which the new broadband level has a higher maximum basic pay than the broadband level from which the employee is being moved (e.g., NK-II to NH-II).

(2) Non-AcqDemo Employee Entering the Demo. A promotion action occurs:

(a) When a current non-AcqDemo employee in a graded system is selected for an AcqDemo position in a broadband level which includes referenced grades with higher basic pay than the selectee's current grade, or

(b) When a current non-AcqDemo employee in a paybanded system is selected for a position in an AcqDemo broadband level which includes referenced GS grade(s) with higher basic pay than the highest referenced grade included in the current payband from which the selectee is moving.

(6) Compensation Strategy

Three comments were submitted with varying remarks and propositions:

Comment: One commenter stated that AcqDemo is not being implemented as intended in terms of its broadband structures and “control points” within those broadbands. It was intended that movement within the broadband was free from one end to another and would be based on performance.

Response: The AcqDemo Project requires a cost-disciplined approach to maintain cost control. Cost discipline requires a continued comparison with the Government-wide system to ensure an effective balance between cost, and personnel management benefits such as improved organizational communication, and greater recognition of higher contributors. This cost-disciplined approach also requires Participating Organizations to consider and implement a logical and effective compensation management strategy, aimed at providing the appropriate level of compensation for the contribution expended in accomplishing work at an assigned level. AcqDemo evaluation of the salary cost of AcqDemo over time indicated greater growth than the comparable GS comparison group. Based on this, greater emphasis is being placed on utilizing a cost-disciplined approach using compensation strategies suited to each Participating Organization's position management structure and mission.

Comment: One commenter stated that the compensation strategy is being modified to add stratification and pay ranges within broadbands, without establishing criteria for stratification, which effectively eliminates the benefits of broadbands without any checks and balances.

Response: Each Participating Organization will have the authority to manage and oversee the implementation of compensation strategies best suited to their position management structure, mission, and workforce requirements. A Participating Organization is responsible for implementing this regulation within overarching USD(AT&L), HCI, and/or AcqDemo Program Office policy and guidance and conducting periodic evaluations to determine compliance with the cost-disciplined approach.

Comment: One Commenter expressed concern about hard base pay ceilings placed on NH-4 positions.

Response: Broadbands are used in AcqDemo to provide flexibility in hiring, assignment, and basic pay growth; however, not all positions in a broadband will have duties with the level of complexity, scope, and difficulty commanding contribution at the top level of the broadband. Some positions only have duties that provide growth through part of the broadband. These limits are based on the scope, difficulty, and value of the position to the organization of the work expected to be done in the position.

Comment: One commenter recommended the deletion of the requirement for copies of an organization's internal pay setting guidance to be provided to the AcqDemo Program Management Office located in Section II.C.1.

Response: Recommendation is adopted. However, the requirement will be retained and published in an Operational Guide. This promotes transparency to all.

(7) Contribution-Based Compensation and Appraisal (CCAS)

There were thirteen comments, as follows:

Comment: One commenter intimated that AcqDemo is another “good old boy” personnel system.

Response: AcqDemo establishes a structured, group review process to assess employees contributions to the mission and quality of performance. This process is designed to reduce favoritism and promote fairness. Specifically, the use of pay pool panels ensures that an individual supervisor's ratings are reviewed by his/her peers (i.e., by other raters in the same pay pool) and by the supervisor of all raters in that pool. In addition, rated employees are rank-ordered by the entire pay pool panel. The intent here is not so much to require ranking per se as to ensure that inflation or deflation by any rater will be identified and corrected via the normal operation of the panel process. Finally, the pay pool manager (who is generally at a higher organizational level than all of the above-mentioned supervisors) oversees and approves the results of the group review process.

Comment: One commenter requested 3 check blocks be added per factor to improve visibility so that the pay pool won't miss the written intent of the supervisor's rating.

Response: The software that supports AcqDemo will have a section that the supervisor will use to record the performance appraisal level appropriate for each factor, e.g., a 1—Unacceptable, 3—Fully Successful, or 5—Outstanding, so that the supervisor's intent is clear.

Comment: One commenter lamented that too much time is wasted on preparing an appraisal's written justifications.

Response: This demonstration establishes a structured, group review process to assess employee contributions to the mission and quality of performance. The group reviews the written assessments to ensure that ratings are consistent across the pay pool. They also may provide supplemental guidelines and requirements for preparation of the written assessments to best suit their review process.

Comment: Another commenter praised the AcqDemo program and its intent to improve the evaluation process for Government employees, especially high performers constantly contributing above their position's expectations, but added that AcqDemo must evaluate Agencies' methods for executing the process to ensure the AcqDemo objectives are being accomplished;

Response: The demonstration project authorizing legislation found in 5 U.S.C. 4703 mandates evaluation of the demonstration project to assess the effects of project features and outcomes. This FRN includes a section covering the types of evaluations to be used.

Comment: One commenter noted an error in II.D.3.c.(2) NPR, lines 9-13 and recommended a change from ” ±8.0 scores” to “approximately 8.0 scores”;

Response: DoD agrees and this change has been made.

Comment: One commenter requested more clarification on rendering an appraisal within 15 months of entering on duty under CCAS.

Response: The wording surrounding the 15-month rating period has been changed as follows: The first CCAS appraisal for an employee who enters AcqDemo during the period July 3 through September 30 must be rendered within 18 months of when the employee entered AcqDemo during this period.

Comment: One commenter stated that the pay pool part of the FRN needs to be revisited because some organizations raise the decisions on pay increases much too high in the organization—far away from the people who actually supervise or manage the workers being appraised.

Response: AcqDemo Participating Organizations are delegated the authority to place the review and approval of CCAS actions at the organizational levels that best work within their organizational structure.

Comment: One commenter praised the establishment of the supervisory differential and suggested making it standard for all AcqDemo supervisory positions.

Response: Supervisory and team leader differentials are subject to controls per Section II.C.12 of the FRN. Participating Organizations are delegated the authority to develop guidance on its use within the parameters of these controls. To require the differential to be standard for all AcqDemo supervisory positions would limit an organization's ability to decide how and when to use it within the guidance provided.

Comment: One commenter recommended numerous changes in Sections II.D.1 that provide additional clarity on the pay pool panel process, to include a requested change to Table 2, Broadband 1, Categorical Scores from Medium High to Medium.

Response: DoD agreed with all the changes, which have been made.

Comment: One commenter also recommended adding numerous details in Section II. D. 4, 5 & 6 to include mention of reduction to broadband level, add OCS and supervisor assessment to items grieveable and delete CCAS pay determinations, to name a few.

Response: Changes made as appropriate, but the overall level of procedural detail recommended is not appropriate for inclusion nor required in the FRN and will be addressed, as appropriate, in the AcqDemo Operational Guide and training material.

Comment: One commenter was happy to see the number of factors reduced from 6 to 3; but wanted to see more details on the execution process addressed in the FRN.

Response: This level of detail is not required in the FRN and will be addressed, as appropriate in the AcqDemo Operational Guide and training material.

Comment: One commenter suggested the use of DAWDF monies be set aside to supplement the pay pool awards funding.

Response: DAWDF cannot be used for supplementing pay pool awards funding above applicable caps.

Comment: One commenter requested that Guest Rater details be included in Section D.

Response: The CCAS process and CAS2Net automated system accommodate other roles, such as guest raters, and guidance will be included, as appropriate, in the Operational Guide and the CAS2Net Users Guide.

Comment: One commenter concurred with the criteria for determining when an employee should be placed on a CIP. The previous FRN guidance regarding the mid-point level of the next lower broadband was harder to quantify.

Response: DoD agrees with the commenter. The new FRN provides clearer guidance and the CIP process will be included in the AcqDemo Operational Guide.

(8) Employee Development

Comment: One commenter recommended Classification, Staffing, and Pay Setting training courses for Human Resource Professionals.

Response: DoD agrees with this commenter. The AcqDemo Program Office offers initial implementation training to Human Resources Specialists in classification, staffing, pay setting, and the CCAS. In addition, the Program Office provides an in-depth Operational Guide covering the AcqDemo processes and procedures.

(9) Evaluation Plan

Comment: One commenter stated that AcqDemo should be abandoned and resources reinvested in improving the GS system and that pay banding fundamentally inflates costs, with employees commonly earning well above the market rate for the skills/duties required of their positions.

Response: Title 5 U.S.C. 4703 mandates evaluation of demonstration projects to assess the effects of its features and outcomes. The AcqDemo Project requires a cost disciplined-approach to maintain cost control. Cost discipline requires a continued comparison with the Government-wide system to ensure an effective balance between salary cost, value of position, and personnel management benefits. This ensures there are checks and balances throughout AcqDemo's processes while continuing to provide the flexibilities outlined in this regulation.

(10) Administrative Corrections

Comment: Five commenters made note of various places in the FRN where formatting, grammatical, and or typographical errors were found.

Response: DoD has made the appropriate changes and corrections.

C. Overview

The project was initially designed in the 1997-1999 timeframe by a Process Action Team under the authority of then-Under Secretary of Defense for Acquisition, Technology, and Logistics with the participation of and review by DoD and the OPM. The purpose of the project is to enhance the quality, professionalism, and management of the DoD acquisition workforce through improvements in the efficiency and effectiveness of the human resources management system. The project interventions strive to support DoD's efforts to “create a professional, agile, and motivated workforce that consistently makes smart business decisions, acts in an ethical manner, and delivers timely and affordable capabilities to the warfighter.” ¹

¹ DoD Directive 5000.52, January 12, 2005, Subject: Defense Acquisition, Technology, and Logistics Workforce Education, Training, and Career Development Program.

The original AcqDemo Project Plan included streamlined hiring and appointment authorities; a Voluntary Emeritus Program; broadbanding; simplified classification; combined classification and appraisal criteria into six factors; revised reduction-in-force procedures; a contribution-based compensation and appraisal system; academic degree and certification training; and sabbaticals. A number of new initiatives have been added and clarifications made to this updated project plan based on experience gained with the original processes and procedures since implementation in January 1999; feedback from participants at all AcqDemo organizational levels; changes in title 5 U.S.C. and title 5 Code of Federal Regulations (CFR); changes in legislative language impacting AcqDemo employee/organization coverage and project evaluation; environmental conditions such as a weak economy, government downsizing, and sequestration; and concerns with the relationship between position management, Contribution-based Compensation and Appraisal System (CCAS) scoring; compensation management; and appropriate pay. The new or modified initiatives and/or topics include target broadband level; reduction of the six classification and appraisal factors to three factors; direct hire authority; modified expedited hiring authority; rule of many; expanded supervisory probationary period; expanded detail and temporary promotion authority; revised reduction-in-force procedures basing order of retention primarily on individual employee performance; compensation management; clarification of various pay setting procedures for conversions, new hires, employee movement within AcqDemo, and employees voluntarily joining AcqDemo; supervisory and team leader cash differentials; accelerated compensation for developmental positions; student intern relocation incentive; overall assessment of the quality of performance; CCAS very high score methodology; and modified contribution improvement plan procedures. The text of the original FRN and its amendments have been realigned and rewritten, as necessary, to improve clarity, organize by topic, remove duplication, eliminate outdated and cancelled items, and include revisions to existing flexibilities and descriptions of new interventions. Consequently, the document needs to be read in its entirety to obtain the full scope of the modernized demonstration project.

D. Evaluation Results

Since its implementation in early 1999, the AcqDemo interventions have confirmed that a human resources system tailored to the mission and needs of the AWF increases workforce satisfaction with the personnel management system, while providing quality acquisition products to DoD customers as evidenced by the 2006 AcqDemo Summative Evaluation ² and periodic AcqDemo employee attitude surveys.

² Department of Defense (DoD) Civilian Acquisition Workforce Personnel Demonstration Project (AcqDemo), Summative Evaluation Report, June 2006, prepared by the AcqDemo Project Office, 2001 N. Beauregard Street, Suite 210, Alexandria, Virginia 22311.

The June 2006 Summative Evaluation Report stated: “AcqDemo had a positive impact on overall workforce quality by enabling managers to compete with the private sector for the best talent available and make timely job offers to potential employees. When AcqDemo procedures were fully implemented, hiring timeliness was significantly improved. AcqDemo succeeded in retaining `high contributors' and increasing the separation rates of `low contributors' without damaging employees' overall sense of fairness. AcqDemo resulted in high levels of customer satisfaction, and both employees and supervisors realized the benefits of AcqDemo flexibilities in responding to customer requirements quickly. Finally, a variety of data indicated that there was a positive shift in workforce satisfaction with the AcqDemo personnel management system.”

Since the return of employees from NSPS in May 2011, there continues to be strong evidence that the initiatives implemented under the AcqDemo are effective:

(1) Component acquisition leaders' feedback on effectiveness of AcqDemo programs on recruitment and retention has been positive.

(2) Senior Leader interviews were positive on the outcomes of programs but suggested processes may need to be tweaked, e.g., two recommended changes were (a) to decrease the number of classification and appraisal factors from six factors to three factors to further simplify position classification and streamline the CCAS appraisal process, and (b) add a very high score scheme to each of the three factors for contributions above the maximum score for each career path to provide more gradation and increase flexibility for assessment of different levels of contribution. Following receipt of the Senior Leader feedback, the workforce was polled on a draft proposal for three factors in 2014. Over 56% of the workforce was in favor of converting to the more concise language recommended by the Senior Leaders. Additionally, overwhelming support on the three-factor format was received during follow-on Senior Leader Interviews that were conducted as well as numerous requests for a very high score contribution appraisal structure for each of the factors as initially suggested. Therefore, the three new factors, each with their very high score scheme, are included in the updated AcqDemo Project Plan described in this FRN.

(3) Additional organizations are seeking to join AcqDemo.

(4) Analysis ³ provided evidence that people who entered the acquisition workforce and were covered by an AcqDemo pay plan (or any demonstration pay plan) were retained longer compared to those in the General Schedule (GS) plan. Retention was 24 percent higher for the AcqDemo pay plan than for the GS plan.

³ RAND Corporation, Retention and Promotion of High-Quality Civil Service Workers in the Department of Defense Acquisition Workforce, by Christopher Guo, Philip Hall-Partyka, Susan M. Gates; Copyright 2014; Chapter 4, Effects of Acquisition Demonstration Pay Plan on Retention, page 34, 1st partial paragraph; and Conclusion, page 36, 1st paragraph.

(5) Results from the 2015 OPM Federal Employee Viewpoint Survey (FEVS) indicated that 87% of the 2015 AcqDemo FEVS responses were better than the 2014 AcqDemo FEVS responses.

(6) Interview and survey data suggest that many aspects of AcqDemo are positively perceived, i.e., supervisory perceptions regarding the ability to hire people as needed and to reassign or reclassify employees in response to changing mission needs.

(7) Survey respondents reported being more optimistic about opportunities for promotion and were more likely to believe that their organization is retaining the highest-performing employees among their peers in the organizations selected for comparison.

(8) A 2016 independent research report ⁴ indicated that unionized employees have fared well in AcqDemo as compared to unionized employees in the GS system. AcqDemo provided higher starting salaries, paid higher salaries overall, and offered a more rapid increase in salaries. The annualized basic pay was $700 to $1,400 higher for bargaining union members compared to their GS counterparts. Unionized employees were more likely to receive promotions than nonunionized employees, while within the GS comparison group the reverse occurred. The four-year retention rate for AcqDemo unionized employees was 80.3 percent compared to a corresponding rate of 78.5 percent for the weighted GS control group.

⁴ RAND Corporation, 2016 Assessment of the Civilian Acquisition Workforce Personnel Demonstration Project, by Jennifer Lamping Lewis, Laura Werber, Cameron Wright, Irina Danescu, Jessica Hwang, Lindsay Daugherty; Copyright 2017; Report Number RR1783.

(9) The 2016 OPM FEVS Employee Engagement Index questions, which best exemplify “an employee's sense of purpose,” and the New Inclusive Intelligence (IQ) Index questions, which “center on behaviors that help create an inclusive environment,” show continued year after year improvement from 2014 through 2016 and consistently higher positive responses than the DoD and overall Federal workforce across all subcomponents. The top three AcqDemo 2016 positive items reflect a sense of pride in work and are shown below with their respective percentage of positive responses:

(a) When needed I am willing to put in the extra effort to get a job done. (95.2%)

(b) Pay raises depend on how well employees perform their jobs. (39.8%)

(c) How satisfied are you with your opportunity to get a better job in your organization? (37.9%)

This information is a testament to the success of AcqDemo as a valuable human resources management tool in the efforts of the USD(AT&L) to emphasize and achieve broader and stronger workforce professional and technical qualifications, abilities, and capabilities for all fifteen DoD acquisition career fields and one career path. With the extension of the AcqDemo authority until December 31, 2020, the Department now has an additional opportunity to better adjust AcqDemo to the emergent qualifications associated with the myriad, complex defense acquisition situations with timely workforce development and more efficient, agile, and effective processes and procedures. New as well as modified flexibilities in human resources management activities can be tested and adjusted for maximum effectiveness in support of the USD(AT&L) “principle that continuous improvement is the best approach to improving the performance of the defense acquisition enterprise.” ⁵

⁵ Better Buying Power 3.0, White Paper, Office of the Under Secretary of Defense Acquisition, Technology and Logistics, Honorable Frank Kendall, 19 September 2014.

E. Notification Responsibilities

The DoD AcqDemo Program Office will post this amendment on the Program Office's Web site at http://acqdemo.hci.mil. In addition, Participating Organizations will be requested to notify employees, appropriate union officials, and other stakeholders of this FRN as well as their communication vehicles, e.g., Web site; letters to employees and union officials; consultation and negotiation with union officials; town halls; etc.; and the DoD Program Office Web site and information contained therein.

Dated: November 2, 2017.
Aaron Siegel,
Alternate OSD Federal Register Liaison Officer, Department of Defense.

Table of Contents

I. Introduction

A. Executive Summary

B. Governance

1. Management Oversight

2. Personnel Policy Boards

3. AcqDemo Project Plan Revisions

4. AcqDemo Internal Guidance

5. Legal Authority

C. Organization and Team Participation

1. Scope of Acquisition Organizations

2. Request To Participate in AcqDemo

3. Calls for Additional Participation

4. Eligibility Requirements

5. Application Process

D. Eligible Organizations

E. Workforce Coverage

1. Covered Workforce

2. Current Participating Employees

F. Bargaining Requirements

1. Written Agreements

2. Subsequent Negotiations

II. Personnel System Interventions

A. Classification

1. Broadbanding

2. Occupational Series, Titles, and Classification Standards

3. Classification Level and Appraisal Factors

4. Classification Authority

5. Position Requirements Document

6. Fair Labor Standards Act

7. Maximum Broadband Level

8. Classification Appeals

B. Recruitment and Staffing

1. Appointment Authorities

a. Competitive and Excepted Appointing Authorities

b. Modified Term Appointment Option

2. Targeted Recruitment and Outreach

3. Qualifications and Assessments

4. External Hiring Authorities

a. General Principles

b. Direct Hire Appointments for the Business and Technical Management Professional Career Path

c. Veteran Direct Hire Appointments for the Business and Technical Management Professional and Technical Management Career Paths

d. Acquisition Student Intern Appointments

e. Scholastic Achievement Appointment

f. Simplified Hiring Processes

5. Expanded Initial Probationary Period

6. Staffing Within AcqDemo

a. Expanded Supervisory and/or Managerial Probationary Periods

b. Internal AcqDemo Assignment Process

c. Expanded Detail and Temporary Promotion Authority

d. Exceptions to Competition

e. Reduction in Force

C. Pay Administration

1. Introduction

2. Compensation Strategy

3. Aggregate Limitation on Basic Pay

4. Special Rates

5. Promotions

a. Definitions

b. Setting Pay

c. Temporary Promotion Basic Pay Adjustment Guidelines

6. Retained Pay

7. General Pay Increase

8. Locality Pay

9. Hires From Outside the AcqDemo

10. Internal AcqDemo Employee Movements

11. Accelerated Compensation for Developmental Positions

12. Supervisory and Team Leader Cash Differentials

13. Highest Previous Rate

14. Recruitment, Relocation, and Retention Incentives

15. Non-CCAS Awards

D. Contribution-Based Compensation and Appraisal System

1. Overview

2. CCAS Appraisal Process

3. Integrated Pay Schedule

4. Compensation Adjustments

5. Contribution Improvement Plan

6. CCAS Grievance Procedures

E. Employee Development

1. Academic Degree and Certificate Training

2. Sabbaticals

3. Student Intern Relocation Incentive

F. Movement Into and From AcqDemo

1. Management-Directed Conversion Into the Demonstration Project

2. Non-AcqDemo Federal Employee Voluntarily Joins AcqDemo

3. Movement From the Demonstration Project

G. Training for AcqDemo

1. Introduction

2. Roles and Responsibilities

3. Conversion Training

III. Evaluation Plan

A. Internal

B. External

C. Purpose

IV. Project Duration

V. Demonstration Project Costs

VI. Automation Support

VII. Required Waivers to Law and Regulations

A. General

B. Waivers to title 5, U.S.C.

C. Waivers to title 5, CFR

Appendix A. History of Legislative Provisions and Federal Register Notices DoD Civilian Acquisition Workforce Personnel Management Demonstration Project

Appendix B. Tables of Eligible Organizations

Appendix C. Series Included in the DoD Acquisition Workforce Personnel Demonstration Project

Appendix D. Definitions of Career Paths and Corresponding Broadband Levels

Appendix E. Classification Level and Appraisal Factors

Appendix F. Intervention Impact Evaluation Model

Appendix G. AcqDemo Sample Master Retention List (RIF Effective Date July 2017), Competitive Area: Local Commuting Area; Fort Husky, Virginia; Supply Directorate; Business Management and Technical Management Career Path (NH)

I. Introduction

A. Executive Summary

AcqDemo is an acquisition-based alternative human resource management pay and personnel system that provides managers and organizations with increased flexibilities in recruitment, staffing, classification, performance management, compensation, and employee development. The purpose of the project is to enhance the quality, professionalism, and management of the DoD AWF through improvements in the efficiency, effectiveness, and agility of the human resources management system. This project not only provides a system that retains, recognizes, and rewards employees for their contributions, but also supports their personal and professional growth as acquisition specialists and professionals. In addition, this demonstration project provides managers, at the lowest practical level, the authority, control, and flexibility they need to achieve effective workforce management, quality acquisition processes, and superior products.

B. Governance

1. Management Oversight

The AcqDemo Project was established under the authority of the Secretary of Defense (SECDEF), with the approval of OPM. Subject to the authority, direction, and control of the SECDEF, the USD(AT&L) carries out the powers, functions, and duties of the SECDEF concerning the DoD AWF. The USD(AT&L) is authorized to establish policies and procedures, in coordination with the Under Secretary of Defense for Personnel and Readiness (USD(P&R)), for the effective management of the acquisition, technology, and logistics workforce in the DoD, which includes management and oversight of the DoD AcqDemo. To assist in this endeavor, the USD(AT&L) chartered the DoD Civilian Acquisition Workforce Personnel Demonstration Project Program Office in September 1999. The Office of Human Capital Initiatives was chartered by the USD(AT&L) in November 2015, and the Director designated as the senior official responsible for the AcqDemo program. The Director, Human Capital Initiatives, is responsible for oversight, policy, direction, design and centralized management of the AcqDemo. Subject to the authority, direction, and control of the Director, Human Capital Initiatives, the AcqDemo Program Manager is responsible for the centralized management of the DoD AcqDemo Project. The Program Manager also has authority to establish and chair an Executive Council comprised of a representative from each DoD Component, Agency, and Field Activity with organizations and/or teams participating in the AcqDemo Project (hereafter referred to as Participating Organizations) plus USD(P&R) and/or USD(AT&L) representatives serving in an advisory role as appropriate. Each Participating Organization has authority to manage and oversee AcqDemo implementation and operation within overarching USD(AT&L), HCI, and/or AcqDemo Program Office policy and guidance.

2. Personnel Policy Boards

It is envisioned that each Participating Organization, to include subordinate AcqDemo participating organizations and/or teams, shall establish a Personnel Policy Board (PPB). The PPB is the body to manage, evaluate, and make policy and procedural changes for its respective organization within the parameters of the AcqDemo Project Plan published in the Federal Register notice 64 FR 1426-1492, DoD AcqDemo Program Office guidance, and Department of Defense Instructions (DoDIs). The Executive Director, members, and staff of the Board are designated by the Head of the Participating Organization. Should any Participating Organization elect not to establish a PPB, the charter of an existing group within the respective organization must be modified to include the duties detailed in Section I.B.2(a) through (i). In either case, the Board is tasked, at a minimum, with the following:

(a) Overseeing the civilian pay budget;

(b) Addressing issues associated with two or more pay systems (e.g., AcqDemo, GS, and other pay banded systems);

(c) Determining the composition of the CCAS pay pool in accordance with the established guidelines and statutory constraints;

(d) Reviewing operation of the organization's CCAS pay pools;

(e) Providing guidance to pay pool managers;

(f) Administering funds to CCAS pay pool managers;

(g) Reviewing hiring and promotion salaries;

(h) Monitoring award pool distribution by organization and acquisition workforce (AWF) employees vs. non-AWF employees; and

(i) Assessing the need for and making changes to local demonstration project procedures and policies when needed to further define specific interventions to ensure standard application across the participating AcqDemo organization(s) and/or team(s).

3. AcqDemo Project Plan Revisions

Modifications to the AcqDemo Project Plan must be made from time to time as experience is gained, results are analyzed, and conclusions are reached on how the various flexibilities are working individually and within the overall project. Minor policy and procedural modifications of this published AcqDemo project plan within already existing waivers may be made by the Director, Human Capital Initiatives, with delegation to the Program Manager, and published in internal issuances and AcqDemo Memorandums and/or at http://acqdemo.hci.mil to inform stakeholders such as USD(P&R); AcqDemo Executive Council; Defense Civilian Personnel Advisory Service; Participating Organizations; employees; Unions; and/or other interested parties as appropriate. New waivers from law or regulation must be approved by the USD(AT&L) in coordination with the USD(P&R) and published in a Federal Register notice.

4. AcqDemo Internal Guidance

The DoD AcqDemo Program Office is responsible for preparing and/or issuing implementation, operational, sustainment, and other internal guidance such as AcqDemo Memoranda, Operating Procedures, and/or DoDIs regarding the AcqDemo provisions to Participating Organizations. This internal guidance, which can be found at http://acqdemo.hci.mil, supplements with additional details the general guidelines and parameters established through legislation and Federal Register notices. Participating Organizations may issue additional internal guidance to ensure standard application across AcqDemo participating subordinate organizations and teams. All personnel laws, regulations, and guidelines not waived by the AcqDemo Project Plan will remain in effect. Basic employee protections and entitlements such as grievance, merit system principles, equal opportunity, leave, insurance, annuities, etc., are unchanged by AcqDemo and remain applicable.

5. Legal Authority

For actions taken under the auspices of the demonstration project, the legal authority code Z2W, Public Law 111-383, will be used. For all other actions, the nature of action codes (NOAC) and legal authority codes prescribed by OPM and/or DoD will continue to be used unless revised or new codes are developed for specific AcqDemo interventions. Information and guidance on codes specific to AcqDemo will be published in internal implementing issuances.

C. Organization and Team Participation

1. Scope of Acquisition Organizations. The DoD has numerous civilian acquisition organizations and teams in the Departments of the Army, the Navy (including the Marine Corps), and the Air Force as well as several Defense agencies and field activities. These organizations and teams are located not only across the United States but also in various foreign countries. Various elements of these organizations may be included in AcqDemo if they request to participate in AcqDemo, meet the eligibility requirements, are coordinated with the USD(P&R), and approved by the USD(AT&L).

2. Request to Participate in AcqDemo. As a demonstration project, AcqDemo is subject to audit, evaluation, and reporting requirements as Department leaders consider expanding participation in AcqDemo and the merits of undertaking modified and installing new initiatives. Therefore, to assist in the effective management of the project, it is necessary to establish and utilize a formal application and approval process for organizations and teams desiring to participate in AcqDemo. The broad parameters of this process are described below with finite content requirements to be issued by the DoD AcqDemo Program Office using various internal DoD issuances such as AcqDemo Memorandum, AcqDemo Operating Procedures, and/or DoDIs. As experience is gained using this process, analysis is conducted, and conclusions reached, minor modifications may be made by the DoD AcqDemo Program Office.

3. Calls for Additional Participation. The AcqDemo Program Office may establish a regular schedule or periodically announce opportunities for interested acquisition organizations to apply for approval to participate in AcqDemo. Out-of-cycle participation requests will be reviewed on a case-by-case basis. During the demonstration project authority period, limited expansion of the project may be determined valuable by the USD(AT&L). In these cases, plans for such expansion will be coordinated with the USD(P&R) prior to execution.

4. Eligibility Requirements. Organizational and team participation in AcqDemo is voluntary. For an interested organization or team to be approved to participate, the following conditions must be met:

(a) At least one-third of the workforce selected to participate in the demonstration project consists of members of the acquisition workforce (civilian employees occupying positions coded as meeting the requirements of the Defense Acquisition Workforce Improvement Act (DAWIA) of 1990 as amended);

(b) At least two-thirds of the workforce participating in the demonstration project consists of members of the acquisition workforce and supporting personnel assigned to work directly with the acquisition workforce;

(c) Positions are classified to an approved occupational series; and

(d) The organization or team request is coordinated through the chain of command, to include the USD(P&R), for approval by USD(AT&L) for participation in the AcqDemo Project. Following receipt of appropriate coordination and approvals for the requesting organization to participate in AcqDemo, the AcqDemo Program Office staff will initiate appropriate notification to the requesting Military Department or DoD Component and USD(P&R). In addition, any organization approved to participate will notify affected employees, labor organizations, and other appropriate stakeholders.

5. Application Process. The organization or team seeking approval to participate in AcqDemo would follow the process steps listed below:

(a) Complete the following preliminary activities:

(1) Review the AcqDemo design with the Participating Organization's DoD AcqDemo Executive Council Representative, if applicable, and DoD AcqDemo Program Office officials;

(2) Informally coordinate concurrence of their participation within its component leadership for any enterprise planning impacts; and

(3) Assess the acceptance level of the workforce with participation, views of stakeholders such as local bargaining union leadership (if applicable), and consider any other local climate and/or operational issues that would impact effective implementation of the project.

(b) Gather and include the required information described below in an application packet:

(1) Complete DoD Component, DoD Agency, or DoD Field Activity address.

(2) Identification of the acquisition-related mission of the population requesting participation, including a brief discussion of the major functions performed.

(3) Requesting organizations are encouraged to provide any applicable local workforce challenges being encountered that are not covered in 64 FR 1426-1492 and indicate how it is anticipated that AcqDemo could help address such challenges.

(4) Workforce Demographic Data.

(5) Identification of occupational series that need to be added.

(6) A statement of confirmation that applicable Within-Grade Increase (WGI) buy-in conversion costs, if applicable, have been estimated and do not present an adverse financial impact on payroll budgeting and execution.

(7) Communication plan, as available.

(8) Desired conversion date for candidate population.

(c) Route the application package through its command channels to the Service Acquisition Executive and the Assistant Secretary for Manpower and Reserve Affairs (M&RA) for the Military Departments or the appropriate equivalent authority for other DoD components for appropriate review and endorsement to the DoD AcqDemo Program Manager. The AcqDemo Program Office staff will review the application package for compliance with required information and eligibility requirements and facilitate coordination of eligibility with USD(P&R), Defense Civilian Personnel Advisory Services (DCPAS) and participation approval with USD(AT&L). The AcqDemo Program Manager will then ensure the approval decisions are implemented, with quarterly updates provided to USD(P&R) and USD(AT&L).

D. Eligible Organizations

Appendix B provides two tables containing lists of organizations that have been determined to be eligible to participate. Table 1 of Appendix B provides a list of those organizations that were determined to be eligible to participate as of July 1, 2002. Table 1A of Appendix B contains a list of new or realigned organizations whose eligibility to participate in AcqDemo was approved by the DoD in calendar year 2014 and by OPM in calendar year 2015.

E. Workforce Coverage

1. Covered Workforce. Section 872 of the Ike Skelton NDAA for FY 2011 increased the number of employees who may participate in AcqDemo from 95,000 to 120,000 at any one time. The scope of AcqDemo workforce coverage for the DoD-wide critical acquisition function gives primary consideration to the number and diversity of occupations within (1) the acquisition workforce; and (2) the supporting personnel assigned to work directly with the acquisition workforce. This coverage encompasses acquisition-related duties and positions in fifteen acquisition career fields and one career path: auditing; business-cost estimating; business-financial management; contracting; facilities engineering; information technology; life cycle logistics; production, quality, and manufacturing; program management; industrial property; purchasing; science and technology management; engineering; test and evaluation; small business; and the career path of international acquisition, with all but two career fields considered critical acquisition career fields. This position management structure reflects the structure described in Appendix 1 of the April 2010 DoD Strategic Human Capital Plan (SHCP) Update for the Defense Acquisition Workforce as well as in the Defense Acquisition Workforce update for the 2016 DoD SHCP. The occupational series for this collection of duties and associated positions included in the AcqDemo are listed in Appendix C.

Additionally, in determining the scope of the demonstration project, DoD human resources management design goals and priorities for the entire civilian workforce were considered. While the intent of this project is to provide DoD activities with increased control and accountability for their covered workforce, the decision was made to restrict development efforts initially to positions in the GS and GM pay plans. Employees covered under the Performance Management and Recognition System Termination Act (pay plan code GM) are GS employees and are covered under the demonstration project. The AcqDemo currently includes employees who previously held positions under the GS or GM pay plan codes or under one of the National Security Personnel System pay plan codes or under other pay systems. Employees and positions in other personnel systems and pay plans may be converted into AcqDemo as a result of reorganizations, restructuring, realignment, consolidation, Base Realignment and Closure decisions, legislative dictates, or other organizational changes as determined appropriate by the AcqDemo Program Manager. Students and recent graduates hired through the Pathways Programs may be included as determined by Participating Organizations. Excluded from coverage of this project at this time are Senior Executive Service, Senior Level, Scientific and Technical, Federal Wage System, and Administratively Determined positions. Also excluded from the project are (1) positions allocated to a Physicians and Dentist Pay Plan, either GP or GR; (2) positions covered by the Defense Civilian Intelligence Personnel System (10 U.S.C. chapter 83); (3) positions covered by or to be included in one of the Science and Technology Reinvention Laboratory (STRL) personnel demonstration projects (Section 342(b) of the NDAA for FY 1995, Pub. L. 103-337 (10 U.S.C. 2358), as amended); (4) primary or secondary law enforcement officer (LEO) positions (5 U.S.C. 5541(3)); and (5) administrative law judge positions. To determine if an organization and series are included, locate the organization in Appendix B, either in Table 1 or Table 1A, and then find the job series in Appendix C.

2. Current Participating Employees. Table 1 provides a breakout of the AcqDemo actual population as of July 29, 2016, by Participating Organizations including number of employees by career path, broadband level, and bargaining unit representation. Of the 33,639 employees, 6.45% or 2,171 are represented by labor unions. The American Federation of Government Employees and the National Federation of Federal Employees represent the largest number of employees. The International Association of Fire Fighters, International Federation of Professional and Technical Engineers, and Laborers' International Union of North America represent the remainder of AcqDemo bargaining unit employees.

F. Bargaining Requirements

1. Written Agreements. Employees within a unit to which a labor organization is accorded exclusive recognition under chapter 71 of title 5, U.S.C., shall not be included as part of the demonstration project unless the exclusive representative and the agency have entered into a written agreement covering participation in and implementation of this project. In order to ensure that the integrity of the acquisition demonstration project is maintained, parties may not change the design and intent of any of the project initiatives during negotiations. DoD has authority to operate only ONE project with the initiatives applying to all Participating Organizations. Revisions to initiatives may only be made in accordance with Section I.B.3 of this project plan.

The parties may use mediation or any other mutually acceptable means to resolve disputes over the implementation of the project with respect to unit employees. Neither party may request the assistance of the Federal Service Impasses Panel to resolve such disputes. Either labor or management may unilaterally withdraw from negotiations over the application of this demonstration project to bargaining unit members at any time up until final agreement approval, without such action being considered an unfair labor practice under Section 7116 of title 5, U.S.C., for refusing to negotiate in good faith.

Written agreements addressing the initial implementation of the demonstration project to bargaining unit members of Participating Organizations are subject to agency head review and approval within DoD prior to implementation. Thus, agreements will be reviewed as provided in 5 U.S.C. 7114(c).

2. Subsequent Negotiations. Once a written agreement is reached and approved allowing for the local implementation of the project, all subsequent negotiations during the life of the project shall be subject to binding impasse procedures under Section 7119 of title 5, U.S.C.

II. Personnel System Interventions

A. Classification

1. Broadbanding

a. The broadbanding system replaces the current GS fifteen-grade structure. The fifteen GS grades are arranged into three or four broadband levels within a career path in accordance with recognized advancement expected within the occupations assigned to the career path. Broadband level pay ranges were derived from base pay rates under 5 U.S.C. 5303 of the banded GS grades. The lowest basic pay rate of any given broadband level is that for step 1 of the lowest GS grade in that broadband level. Likewise, the highest basic pay rate of any given broadband level is that for step 10 of the highest GS grade in that broadband level. There is a natural overlap in basic pay ranges in the GS grades that also occurs in the broadband system. Once employees move into the demonstration project, GS grades as well as WGIs and quality step increases will no longer apply and promotions will be less frequent. Movement through a broadband level will be based on employee appraisals under the CCAS; movement to a higher broadband level will be by competitive or non-competitive promotion; and voluntary or involuntary movement to a lower broadband level by a change to a lower broadband level personnel action.

b. There are three distinct career paths where AcqDemo occupations with similar characteristics are grouped together to facilitate advancement, pay progression, and more competitive recruitment of quality candidates at differing rates. The career paths are designated as Business Management and Technical Management Professional, Pay Plan NH; Technical Management Support, Pay Plan NJ; and Administrative Support, Pay Plan NK. The occupations placed within each of these career paths are listed in Appendix C. The three career paths and their associated broadband levels compared to GS grades are shown in Figure 1, Career Paths and Broadband Structure.

c. The broadband levels represent basic pay only and will be labeled I, II, III, or IV. Comparison to the GS base pay table is used in setting the minimum and maximum basic pay limits of the broadband levels. As the rates of the GS are increased for any annual across-the-board GS pay increase, the minimum and maximum basic pay rates of the broadband levels will also increase. Basic pay rates for employees are established within the minimum and maximum basic pay range for their position's broadband level. Section C, Pay Administration, offers more detail on how to set pay within a broadband level.

Since employees' pay progression through a broadband level depends on their contribution to the organization's mission and accomplishment of higher level, broader scope, and/or more difficult work assignments, there will be no scheduled WGIs or scheduled across-the-board GS increases for employees covered by the broadbanding system. Advancement to a higher broadband level is typically through merit promotion or competitive recruitment procedures. Movement to a lower broadband level may be voluntary or involuntary. Special salary rates will no longer be applicable to demonstration project employees. Employees will be eligible for the locality pay of their geographical area with the exception of those employees stationed at an overseas location.

2. Occupational Series, Titles, and Classification Standards

The AcqDemo Project will continue to use the occupational series designators and position titles consistent with those authorized by DoD and/or OPM to identify positions. The current AcqDemo occupational series will be placed into appropriate career paths as shown in Appendix C. Appendix C has been updated to remove those series cancelled by OPM, to provide current series titles, to include additional series, and to move existing series to different or additional career paths. Other occupational series may be added or current series revised or deleted as a result of fluctuations in mission requirements or future DoD or OPM modifications to occupational series. Titling practices consistent with those established by DoD or OPM classification standards will be used to determine the official title of positions. References to the grade criteria in the position classification standards may be useful in developing compensation strategies such as control points within a broadband level but not necessarily for determining the broadband level of an AcqDemo position. Rather, the AcqDemo provides definitions for each of the career paths and corresponding broadband levels within them as described in Appendix D.

3. Classification Level and Appraisal Factors

a. General. Under the demonstration project, a standard set of three classification level and appraisal factors has been developed for each career path—Factor 1. Job Achievement and/or Innovation; Factor 2. Communication and/or Teamwork; and Factor 3. Mission Support. These factors comprised of expected contribution criteria and broadband level descriptors and discriminators, as aligned to the three career paths and their broadband levels, will be used for broadband level classification and employee contribution assessment. The employee contribution assessment includes both a determination of an Overall Contribution Score (OCS) and a performance appraisal level for each factor. While the basic classification and appraisal factors, descriptors, and discriminators cannot be changed, the factors with the addition of an employee's contribution plan are fundamental to the success of an acquisition organization and capture the critical content and expectations for positions in the three career paths—Business Management and Technical Management Professional, Technical Management Support, and Administrative Support.

b. Expected Contribution Criteria. The AcqDemo utilizes baseline expected contribution criteria prepared for each of the three factors. These criteria are applicable to all contributions at all broadband levels under the appropriate factor. The criteria form the basis from which specific contribution expectations, standards, goals, or objectives are developed for an employee's contribution plan for the classification level of work in the employee's position. These criteria may only be modified by the DoD AcqDemo Program Office.

c. Factors. The factors are derived from the Office of Personnel Management, Introduction to the Position Classification Standards, Appendix 3, Primary Standard, and represent the primary type of work and contribution typically found in positions classified to a specific career path and broadband level.

(1) Descriptors. Descriptors are narrative statements that are written at increasing levels of complexity, scope, and value of position and employee contribution. They are meant to correspond with the broadband levels, and their associated ranges of basic pay, for classification and appraisal purposes. While the descriptors indicate a position classification and/or contribution level appropriate at the upper end of each broadband level, a broadband may actually contain an array of positions with varying levels of work, responsibilities, and value. These attributes range from just above the upper end of the next lower broadband level to an employee's position to the upper end of the employee's broadband level as defined by an organization's position management structure needed to accomplish its mission. Descriptors are not to be used individually to determine position classification or assess contributions, but rather are to be considered as a group to derive a single evaluation of each factor.

(2) Discriminators. The discriminators refine the descriptors. For example, the Communication and/or Teamwork factor has four discriminators (oral, written, contribution to team, and effectiveness), which are the same for all broadband levels. The discriminators help to define the type and complexity of work; degree of responsibility; and scope of contributions that need to be ultimately accomplished to reach the highest basic pay potential within a broadband level for an employee's position and contributions. The discriminators are often times included in the duties portion of the Position Requirements Document to clarify the generic descriptors as to type and level of work, and in contribution expectations, standards, goals, and/or objectives included in an employee's contribution plan to foster contributions at the appropriate level and value for the position within its broadband level and to support the organization's strategic goals and objectives needed to meet its mission.

(3) Summary. The three factor evaluations when taken as a whole result in either a classification determination of the broadband level for the position or an OCS and performance appraisal for an employee's contribution assessment depending on the action being addressed. This structure in turn would be used to set the stage for determination of position classification, contribution assessment, and ultimately compensation decisions. The definitions for the career paths and corresponding broadband levels within them are found in Appendix D. The classification levels with descriptors, discriminators, and appraisal factors can be found in Appendix E.

4. Classification Authority

Under the AcqDemo, Heads of Participating Organizations (or equivalent) will have delegated classification authority and may re-delegate this authority to subordinate management levels to a level not lower than one management level above the first-line supervisor of the position under review, except in the case of those employees reporting directly to the Head of the Participating Organization or equivalent. First-line supervisors will provide classification recommendations. Individuals knowledgeable and experienced in classification methodology, to include Human Resources Specialists, may provide ongoing consultation and guidance to managers and supervisors throughout the classification process.

5. Position Requirements Document

Under the demonstration project's classification system, a PRD combines the position information; staffing requirements; factors, descriptors, and discriminators; expected contribution criteria for the assigned broadband level; critical acquisition position indicator; appropriate acquisition career field and certification level for an acquisition position; and position evaluation statement into a single document. The information contained in the PRD is mandatory and must be provided. The AcqDemo Program Office has developed fillable templates for each career path broadband level to aid supervisors in producing a PRD. These templates may be found on the AcqDemo Web site at: http://acqdemo.hci.mil/PRD.html. Participating Organizations may use an alternative automated system and PRD format to support AcqDemo classification as needed as long as the mandatory information is included. The objectives in developing the new PRD are to: (a) Simplify the descriptions and the preparation process through automation; (b) provide more flexibility in work assignments; and (c) provide a more useful tool for other functions of personnel management, e.g., recruitment, assessment of contribution, employee development, and reduction in force.

6. Fair Labor Standards Act

Fair Labor Standards Act (FLSA) exemption or non-exemption determinations will be made consistent with criteria found in 5 CFR part 551. All employees are covered by the FLSA unless they meet criteria for exemption. Positions will be evaluated as needed by comparing the duties and responsibilities assigned, the broadband level descriptors for each broadband level, and the 5 CFR part 551 FLSA criteria.

7. Maximum Broadband Level

Each position under the demonstration project will have a designated maximum broadband level. This maximum broadband level will be identified as the top broadband level within a career path for a particular position and the broadband level to which an incumbent, selected competitively or through merit promotion for a lower broadband level, may be advanced without further competition, e.g., incumbent selected for an NJ-II position with potential to an NJ-IV position. These broadband levels will be based upon the full performance levels of positions before conversion into AcqDemo. After conversion a newly created or re-described AcqDemo position may be assigned a different maximum broadband level based on the AcqDemo organization's position management structure, change in mission, reorganization, and similar factors. Maximum broadband levels may vary based upon occupation or career path. An employee's basic pay will be capped at the maximum rate for the designated broadband level until the employee has been promoted into the next higher broadband level.

8. Classification Appeals

An employee may appeal the occupational series, title, or broadband level of his or her own position at any time. An employee may not appeal the accuracy of the position requirements document; the demonstration project classification criteria; the pay-setting criteria; the propriety of a salary schedule; or matters grievable under an administrative or negotiated grievance procedure or an alternative dispute resolution procedure.

An employee must formally raise the areas of concern to supervisors in the immediate chain of command, either orally or in writing. If an employee is not satisfied with the supervisory response, he/she may appeal to the Head of his/her organization. If the employee is not satisfied with the supervisory response, he/she may then appeal to his/her organization's Component or Agency level in accordance with their instructions. If the employee is not satisfied with the Component or Agency decision, the employee may appeal to the DoD appellate level. Appellate decisions rendered by DoD will be final and binding on all administrative, certifying, payroll, disbursing, and accounting officials of the Department. The evaluation of classification appeals under this demonstration project is based upon the demonstration project classification criteria. Case files will be forwarded for adjudication through the civilian personnel/human resources office providing personnel service and will include copies of appropriate demonstration project criteria. Time periods for case processing under 5 CFR 511.605 apply.

B. Recruitment and Staffing

One of the goals of the DAWIA Program is to create well-trained, multi-skilled professionals who can effectively manage multi-million-dollar programs. Hiring restrictions and complex processes unduly increase hiring timelines, exhaust valuable resources, and unnecessarily detract attention from the acquisition mission. Managers must be able to compete with academia and the private sector for the best talent and be able to make timely job offers to potential employees who display the experience, education, competencies, knowledge, skills, abilities, and motivation to be successful in the highly dynamic DoD acquisition environment. The program has statutory and regulatory requirements necessitating substantial education, training and experience, special certifications, and continuous learning designed to create a cadre of highly skilled acquisition professionals ready for assignment to the DoD's most senior acquisition positions.

The position management structure for the DAWIA Program contains three categories of AWF members and positions that may be found in each of the acquisition career fields. The largest category is comprised of persons assigned to developmental and mid-level acquisition positions. The next category encompasses Critical Acquisition Positions which are senior acquisition positions with significant responsibility, primarily involving supervisory or management duties in acquisition systems. The top level of positions, Key Leadership Positions, require special USD(AT&L) attention, have significant leadership responsibilities, are held by personnel in the most demanding acquisition positions, and are critical to the success of the DoD acquisition program.

To maintain an adequate complement of trained AWF members in each of the position categories and career fields, the DoD establishes hiring strategies and goals that are published in its biennial Human Capital Strategic Workforce Plan. A recent Government Accountability Office (GAO) ⁶ review of the results from the goals expressed in the DoD 2010 acquisition workforce plan and to be achieved by 2015, indicated that DoD did not reach the growth targets for six acquisition career fields by about 4,400 personnel. This includes four critical career fields, i.e., contracting; business; production, quality, and manufacturing; and engineering along with two non-critical career fields, i.e., property and purchasing. This shortfall in reaching essential growth targets illustrates the need for more efficient, agile, and effective hiring flexibilities to provide consideration of a broader spectrum of candidates from which to quickly acquire and steadfastly maintain a high quality acquisition workforce and its direct support personnel for each of the sixteen acquisition career fields.

⁶ United States Government Accountability Office, Report to Congressional Committees, Defense Acquisition Workforce, Actions Needed to Guide Planning Efforts and Improve Workforce Capability, December 2015, GAO-16-80.

1. Appointment Authorities

a. Competitive and Excepted Appointing Authorities. Under this demonstration project, there are two primary tenure existing competitive service appointment options used in the competitive service and excepted service: Permanent and temporary time-limited (which includes temporary and term (or term-like in the excepted service)). The permanent option consists of the existing career-conditional and career appointments (and equivalent appointments in the excepted service). The temporary limited option may be used to fill a short-term position, i.e., one that is not expected to last longer than one year and is filled on a temporary basis. However, if warranted, the temporary limited appointment may be extended not to exceed two additional years for a total of 3 years of service pursuant to 5 U.S.C. 9902. As appropriate under the provisions of this demonstration project, Participating Organizations may use other competitive service or excepted service appointing authorities and assignment mechanisms including the Veterans' Recruitment Appointment, Pathways Programs, and Appointment for Individuals with Disabilities for appointments into AcqDemo. While authorities such as Expert and Consultant and Intergovernmental Personnel Act appointments are not covered by the FRN, Participating Organizations may use them.

b. Modified Term Appointment Option

(1) The modified term option is based on the existing term appointment. A modified term appointment is expected to last longer than one year but not to exceed five years unless a one-year extension is locally approved for a total not to exceed six years when the need for an employee's service is not permanent. Reasons for making a modified term appointment include, but are not limited to, carrying out special project work; staffing new or existing programs of limited duration; filling a position in activities undergoing review for reduction or closure; replacing permanent employees who have been temporarily assigned to another position, are on extended leave, or have entered military service; and hiring college students for the Acquisition Student Intern Program. Most selections for modified term appointments will be made under the competitive examining processes or by using direct-hire procedures. However, an AcqDemo Participating Organization may give a noncompetitive modified term appointment to a selectee who is qualified for the position and is eligible for one of the categories listed in 5 CFR 316.302(b), items (1) through (8).

(2) Reassignment. A Participating Organization may place a modified term employee in any other modified term position provided the employee meets the qualifying requirements of that position. However, such reassignment will not serve to extend the appointment beyond the original term appointment time period. The minimum eligibility requirements for the position will be determined according to OPM's Operating Manual “Qualifications Standards for General Schedule Positions” and applicable DAWIA requirements. DAWIA requirements may be used as quality ranking factors. Both sets of eligibility requirements do provide waivers by an appropriate authority.

(3) Conversion to Career-Conditional Appointment. Employees hired under the modified term appointment authority are in a temporary status but may be eligible for conversion to career-conditional appointments or career appointments if applicable. To be converted, the employee must: (a) Have been selected for the term position under competitive procedures, with the announcement specifically stating that the individual(s) selected for the term positions(s) may be eligible for conversion to career-conditional appointment at a later date; (b) have served two years of continuous service in the term position; and (c) have been considered to have adequate contributions for two appraisal cycles (including the current appraisal cycle) immediately preceding conversion. Service under a modified term appointment immediately prior to a permanent appointment shall count toward the probationary period requirements described in 10 U.C.S. Section 1599e.

(4) Benefits and Appeal Rights. Benefits and appeal rights are the same as those currently afforded term employees.

2. Targeted Recruitment and Outreach

Hiring managers of Participating Organizations are encouraged to use a variety of sources for their targeted recruitment and outreach efforts for both permanent and time-limited positions in the competitive and excepted services, including: Colleges/universities with degree programs that meet acquisition position requirements, job fairs, virtual career fairs, professional organizations, alumni associations, USAJOBS and non-Federal employment Web sites, employee referrals, contractors, and separating or retiring military members. Short-term or long-term job announcements may be posted for current and/or projected vacancies, multiple vacancies, broadband levels, and/or geographic locations as appropriate based upon the availability of qualified candidates and the type of position being filled. Hiring managers have, in consultation with their Human Resources Offices, the option of making on-the-spot tentative job offers at job fairs and other recruiting events when using a noncompetitive or direct hiring authority. These offers are contingent upon meeting appropriate public notice requirements, clearing local priorities to include Priority Placement Program, Reemployment Priority List, and Interagency Career Transition Assistance Plan, and meeting any other requirements (e.g., security clearances, certifications).

3. Qualifications and Assessments

An applicant's basic eligibility for a position will be determined using OPM's Operating Manual, “Qualifications Standards for General Schedule Positions,” and DAWIA requirements as appropriate. Experience gained in both permanent and time-limited competitive and excepted service positions as well as external government positions may be considered as appropriate.

a. Qualifications. Minimum eligibility requirements will be those corresponding to the lowest GS grade referenced in the broadband level of the position being filled. Qualifying experience is defined as one year at the next lower broadband level in AcqDemo or an equivalent career path and broadband level in a different pay banding system; or one GS grade or equivalent level lower than the lowest GS grade referenced in the AcqDemo broadband level of the position being filled; or a combination of both this AcqDemo and GS experience.

b. Assessments. For assessment purposes, selective placement factors may be established in accordance with OPM's Operating Manual “Qualifications Standards for General Schedule Positions” when judged to be critical to successful job performance. Selective factors identify any qualifications that are required when a selectee starts the job. Based on his/her characteristics, if an applicant does not meet a selective factor, he/she is ineligible for further consideration. Quality ranking factors are experience, competencies, knowledge, skills, abilities, and DAWIA certifications required that are expected to enhance performance in a position and focus on the level of proficiency the selectee brings to the job. Unlike selective factors, quality ranking factors are not used to “screen out” applicants but to focus on the level of proficiency applicants would bring to the position. Both the selective factors and/or quality ranking factors, when used for applicant assessment, will be communicated to applicants via a vacancy announcement or public notice when such is required.

4. External Hiring Authorities

a. General Principles. When exercising the AcqDemo external hiring authorities, Participating Organizations will adhere to all applicable authorities and the following principles:

(1) A highly qualified workforce is critical to the Department's acquisition mission.

(2) Recruitment efforts should be designed to attract diverse candidates who are representative of all segments of society.

(3) Merit factors shall be the basis for selecting individuals for positions. All personnel programs and practices shall be administered in accordance with DoD Directive 1020.02E, “Diversity Management and Equal Opportunity in the DoD”.

(4) The criteria in 5 U.S.C. 2108 and 5 U.S.C. 2108a for determining the preference eligibility of each applicant shall apply to AcqDemo without change. DoD AcqDemo Program Office and Participating Organizations' procedures shall ensure that, at a minimum:

(a) Selecting officials treat veterans' preference eligibility as a positive factor when making a selection from external recruitment sources or where veterans' preference is otherwise applicable. The detailed definition of “positive factor” rests with participating organizations and is expected to be described in internal issuances and on vacancy announcements. The AcqDemo Program Office guidance is stated generally to keep veterans' preference as a highlighted item to define how it will be addressed in external recruiting and to provide maximum flexibility to Participating Organizations in developing their policy.

(b) When making final selections, any candidates with veterans' preference should be considered for appointments if they are found to best meet mission requirements.

(c) If a non-preference eligible candidate is selected over a veteran considered to best meet mission requirements, the reasons for non-selection of any veteran considered to best meet mission requirements must be documented in writing. Non-selection documentation must be made part of the permanent selection record. Reasons for non-selection will be provided to the veteran candidate by the servicing human resources office if requested by the veteran. Participating Organizations may establish a higher level review and/or approval process above the selecting official if appropriate.

(5) Displaced employee procedures shall be adhered to when using this authority.

(6) Participating Organizations must ensure transparency, accountability, and auditability in hiring processes.

b. Direct Hire Appointments for the Business and Technical Management Professional Career Path. The Head of a Participating Organization may appoint qualified candidates possessing at least a baccalaureate degree required by OPM or DoD qualification standards covering acquisition positions and/or qualified candidates for those positions involving 51% or more of time in direct support of acquisition positions in a critical acquisition career field classified to the Business and Technical Management Professional, NH, career path, without regard to the provisions of 5 U.S.C. chapter 33, subchapter I (other than sections 3303, 3308, and 3328 of such title).

c. Veteran Direct Hire Appointments for the Business and Technical Management Professional and Technical Management Career Paths. The Head of a Participating Organization may appoint qualified veteran candidates to acquisition positions in a critical acquisition career field and to those positions involving 51% or more of time in direct support of an acquisition position classified to either the Business and Technical Management Professional, NH, career path or to the Technical Management Support, NJ, career path, without regard to the provisions of 5 U.S.C. chapter 33, subchapter I (other than sections 3303 and 3328 of such title). The term “veteran” has the meaning given that term in 38 U.S.C. 101.

d. Acquisition Student Intern Appointments. The Head of a Participating Organization, without regard to the provisions of 5 U.S.C. chapter 33, subchapter (other than sections 3303 and 3328 of such title), may appoint candidates enrolled in a program of undergraduate or graduate instruction at an institution of higher education leading to either:

(1) A baccalaureate degree in a course of study required by OPM or DoD qualification standards for an acquisition position in a critical acquisition career field; or

(2) A degree the completion of which (including any additional essential credit hours or related experience in an acquisition-related field as defined by DoD internal issuances) provides competencies, knowledge, skills, etc., directly linked to an acquisition position's requirements (selective placement or quality ranking factors) for one of the critical acquisition career fields.

An “institution of higher education” for this purpose has the same meaning as that term is defined in Section 101 and 102 of the Higher Education Act of 1965 (20 U.S.C. 1001). Appointments under this authority may be made using a term appointment authority or the Pathways appointment authority.

e. Scholastic Achievement Appointment. This demonstration project establishes a Scholastic Achievement Appointment that provides the authority to appoint candidates with degrees to acquisition positions with positive education requirements without regard to the provisions of subchapter I of chapter 33 of title 5, U.S.C. (other than sections 3303 and 3328 of such title). This authority allows for competitive appointment to acquisition positions classified to either the NH-II or NH-III broadband level of the Business and Technical Management Professional career path. Candidates may be appointed under this procedure if:

(1) They have at least a baccalaureate degree required by OPM or DoD qualification standards, or a degree the completion of which (including any additional essential credit hours or specialized experience in an acquisition-related field as identified by DoD internal issuances) provides competencies, knowledge, skills, etc., directly linked to an acquisition position's requirements for one of the critical acquisition career fields plus any selective factors, quality ranking factors, and/or DAWIA certification requirements stated in a vacancy announcement;

(2) the candidate has a cumulative grade point average (GPA) of 3.25 or better (on a 4.0 scale) in those courses in those fields of study that are specified in the OPM Qualification Standards for the occupational series and an overall undergraduate GPA of at least 3.0 on a 4.0 scale; and

(3) the appointment is into a permanent or term position at a pay level within the NH-II broadband level basic pay range. Appointments may also be made to the NH-III broadband level on the basis of graduate education and/or experience, but with the requirement of a GPA of at least 3.5 on a scale of 4.0 for graduate courses in the field of study required for the occupation.

f. Simplified Hiring Processes. The goal of the simplified hiring processes is to enable AcqDemo Participating Organizations to expedite the hiring and appointment of qualified persons to acquisition positions as well as to direct support positions in any of the fifteen acquisition career fields using the approaches described below:

(1) A name request may be submitted to expedite the appointment of a qualified candidate identified through a Participating Organization's targeted recruitment actions.

(2) A certificate of eligibles may be developed from qualified applicants to a vacancy announcement who have been evaluated or rated under an appropriate assessment methodology such as the Administrative Careers with America examination, USA Hire, or OPM category rating procedures.

(3) This demonstration project established a streamlined AcqDemo Delegated Examining-Category Rating process. This process may be used to fill both acquisition positions and those in direct support of acquisition positions covered by this demonstration project.

An applicant's basic eligibility will be determined using OPM's Operating Manual “Qualifications Standards for General Schedule Positions” and any DAWIA requirements as needed. Minimum eligibility qualification requirements will be those corresponding to the lowest GS grade referenced in the broadband level of the position being filled. Qualifying experience is defined as one year at the next lower broadband level in AcqDemo or an equivalent career path and broadband level in a different pay banding system; or one GS grade or equivalent level lower than the lowest GS grade referenced in the AcqDemo broadband level of the position being filled; or a combination of both this AcqDemo and GS experience. Selective placement factors may be established in accordance with OPM's Operating Manual “Qualifications Standards for General Schedule Positions” when judged to be critical to successful job performance and become part of the minimum qualification requirements for the position being filled. Selective placement factors identify any qualifications that are required when a selectee starts the job. Based on the applicant's characteristics, if an applicant does not meet a selective factor, he/she is ineligible for further consideration. Quality ranking factors are experience, competencies, knowledge, skills, abilities, and DAWIA certifications required that are expected to enhance performance in a position and focus on the level of proficiency the selectee brings to the job. Unlike selective factors, quality ranking factors are not used to “screen out” applicants but to focus on assessing the level of proficiency applicants would bring to the position. Both the selective factors and/or quality ranking factors, when used for applicant assessment, will be communicated to applicants via a vacancy announcement, public notice, or job announcement when such notice is required.

Candidates who meet the basic minimum eligibility qualifications will be further evaluated based on knowledge, skills, and abilities which are directly linked to the positions(s) to be filled. Based on this assessment, candidates will be placed in one of the quality groups, i.e., Superior, Highly Qualified, or Basically Qualified. The process for listing names within each specific category is to be determined by the Participating Organization.

Selecting officials should be provided with a reasonable number of qualified candidates from which to choose. All candidates in the highest group will be certified. If there is an insufficient number of candidates in the highest group, candidates in the next lower group may then be certified; should this process not yield a sufficient number, groups will be certified sequentially until a selection is made or the qualified pool is exhausted. When two or more groups are certified, candidates will be identified by quality group (i.e., Superior, Highly Qualified, or Basically Qualified). Veterans' preference eligibility will be determined when making final selections. When making final selections, any candidates with veterans' preference should be considered for appointments if they are found to best meet mission requirements.

(4) Rule of Many. When there are no more than 25 applicants for an acquisition position or a direct support position in any career field, all eligible applicants regardless of veterans' preference may be referred. Veterans' preference eligibility will be determined when making final selections. When making final selections, any candidates with veterans' preference should be considered for appointments if they are found to best meet mission requirements.

(5) Voluntary Emeritus Program.

(a) Eligibility and Program Criteria. Under the demonstration project, Heads of Participating Organizations have the authority to offer voluntary assignments in Participating Organizations and to accept the gratuitous services of the following individuals:

1—AcqDemo retired or separated civilian employees who served in either DAWIA-covered positions or positions in direct support to DAWIA-coded positions (for the Voluntary Emeritus Program, hereinafter referred to as AcqDemo employees) and

2—Non-AcqDemo DoD retired or separated civilian employees and former military members who worked in DAWIA-covered positions.

Voluntary Emeritus Program assignments are not considered employment by the Federal Government (except as indicated below). Thus, such assignments do not affect a former civilian employee's entitlement to buy-outs or severance payments based on earlier separation from Federal Service. This program may not be used to replace or substitute for work performed by civilian employees occupying regular acquisition positions required to perform the mission of the Participating Organization.

The Voluntary Emeritus Program will ensure continued quality acquisition by allowing experienced, former civilian and military DoD acquisition professionals who served in DAWIA-covered positions and former AcqDemo employees to accept retirement incentives with the opportunity to retain a presence in the acquisition community. The program will be beneficial during manpower reductions as program managers, engineers, other skilled acquisition professionals and former AcqDemo employees who provided direct support to acquisition professionals to accept retirement and return to provide a continuing source of corporate knowledge and valuable on-the-job training or mentoring to less experienced employees.

To be accepted into the Voluntary Emeritus Program, a volunteer must be recommended to the decision-making authority by one or more acquisition managers familiar with the skills that the volunteer offers to the organization. Acquisition managers at any level may initiate the decision process, however the decision-making documentation must be routed through the senior acquisition manager of the organization where the volunteer will be assigned, enroute to the Head of the Participating Organization making the decision. No one who applies is entitled to an emeritus position. The decision-making authority must document the decision process for each applicant (whether accepted or rejected) and retain the documentation throughout the assignment. Documentation of rejections will be maintained for two years.

To ensure success and encourage participation, the volunteer's Federal retirement pay (whether the retirement pay is based upon military or civilian service) will not be affected while the volunteer is serving in emeritus status. Retired or separated AcqDemo employees, non-AcqDemo DoD civilian employees and military members who served in DAWIA-coded positions may accept an emeritus position without a “break in service” or mandatory waiting period.

Voluntary Emeritus Program volunteers will not be permitted to monitor contracts on behalf of the Government but may participate on any contract if no conflict of interest exists. The volunteer may be required to submit a financial disclosure form annually and will not be permitted to participate on any contracts where a conflict of interest exists. The same rules that currently apply to source selection members will apply to volunteers.

(b) Agreement Requirements. An agreement will be established among the volunteer, the decision-making authority, and the Human Resources Office. The agreement must be finalized before the assumption of duties and shall include:

1—A statement that the service provided is gratuitous, does not constitute an appointment in the Civil Service, is without compensation or other benefits except as provided for in the agreement itself, and that, except as provided in the agreement regarding work-related injury compensation, any and all claims against the Government because of the service are waived by the volunteer;

2—A statement that the volunteer will be considered a Federal employee for the purposes of:

a—Subchapter I of 5 U.S.C. chapter 81 (using the formula established in 10 U.S.C. 1588 for determination of compensation) (work-related injury compensation);

b—28 U.S.C. chapter 171 (tort claims procedure);

c—5 U.S.C. 552a (records maintained on individuals); and

d—18 U.S.C. chapter 11 (conflicts of interest).

3—The volunteer's work schedule;

4—Length of agreement (defined by length of project or time defined by weeks, months, or years);

5—Support provided by the activity (travel, administrative, office space, supplies, etc.);

6—A one-page statement of duties and experience;

7—A statement specifying that no additional time will be added to a volunteer's service credit for such purposes as retirement, severance pay, and leave as a result of being a member of the Voluntary Emeritus Program;

8—A provision allowing either party to void the agreement with ten days' written notice; and

9—The level of security access required by the volunteer (any security clearance required by the position will be managed by the Participating Organization and may or may not result in a delay in setting the volunteer's reporting date).

5. Expanded Initial Probationary Period. The original AcqDemo expanded initial probationary period covering periods of training beyond 1 year has been eliminated and replaced by the provisions of 10 U.S.C. 1599e (NDAA 2016 (Pub. L. 114-92), section 1105, Required Probationary Period for New Employees of the Department of Defense). 10 U.S.C. 1599e requires a two-year probationary period for “. . . any individual appointed to a permanent position within the competitive service at the Department of Defense . . .” Use of this provision will be required for Participating Organizations.

6. Staffing Within AcqDemo.

a. Expanded Supervisory and/or Managerial Probationary Periods. New supervisors, that is, those who have not previously completed a civil service supervisory probationary period, will be required to complete a one-year probationary period for the initial appointment to a supervisory position. An additional supervisory probationary period of one year may be required when an employee is officially assigned to a different supervisory position that constitutes a major change in supervisory responsibilities from any previously held supervisory position, e.g., moving from a journeyman level supervisory acquisition position to a Critical Acquisition Position or moving from a Critical Acquisition Position to a Key Leadership Position. If, during a supervisory probationary period, the decision is made to return the employee to a non-supervisory position for reasons related to supervisory contribution and/or performance, the probationary employee's supervisor will provide written notification subject to higher level management approval and the employee will be returned to a comparable position of no lower basic pay than the position from which promoted or reassigned.

b. Internal AcqDemo Assignment Process. Today's environment of downsizing and workforce transition mandates that the organization have maximum flexibility to assign individuals. The AcqDemo waivers to title 5 U.S.C. and title 5 CFR enable organizations to have the maximum flexibility under the broadbanding structure to assign an employee within broad descriptions, consistent with the needs of the organization and the individual's qualifications. Employees may receive subsequent organizational assignments to projects, tasks, or functions within their broadband level requiring the same occupational series, level and area of expertise, knowledge, skills, abilities, competencies, qualifications, and DAWIA certification, as appropriate, as their current position and typically without change in their rate of basic pay. For instance, a technical expert can be assigned to any project, task, or function requiring similar technical expertise. Likewise, a manager could be assigned to manage any similar function or organization consistent with that individual's qualifications. Assignments generally may be accomplished as Realignments using Nature of Action Code 790 and do not constitute a position change. However, if the assignment results in an occupational series change; broadband level change; change to competencies, knowledge, skills, or abilities; change in acquisition certification levels; change in official duty station; or change to a different agency, a different Nature of Action Code, an official SF-50, and/or Defense Civilian Personnel Data System (DCPDS) data field updates may be required by the OPM Guide to Processing Personnel Actions or internal guidance. Further guidance on documenting the assignment will be published in implementing issuances.

c. Expanded Detail and Temporary Promotion Authority. Current regulations require that temporary promotions and details for more than 120 days to higher broadband level positions than an employee currently holds or previously held must be made competitively. Under the demonstration project, AcqDemo Participating Organizations would be able to effect temporary promotions and details to higher broadband level positions than AcqDemo employees currently hold or previously held without competition as long as the temporary promotion, detail, or a combination of a detail and temporary promotion does not exceed one year within a 24-month period to positions within the demonstration project. If any detail and/or temporary promotion is needed beyond one year, competition is required. In addition, renewing the detail or temporary promotion in 120-day or other short-term renewals is waived under this demonstration project.

d. Exceptions to Competition. The following actions are exceptions from competitive procedures:

(1) Non-competitive Movements Involving Promotion:

(a) Promotion, re-promotion, reassignment, change to a lower broadband level, transfer, or reinstatement to an AcqDemo position in a broadband level having a referenced GS grade or level of work and no greater promotion potential than the GS grade or level of work and promotion potential of the position a reinstatement candidate held or an employee currently holds or previously held on a permanent basis in the competitive service.

(b) Promotion without current competition when the employee was appointed through competitive procedures to a position with a documented GS career ladder position or target pay band/broadband level or promotion potential equivalent to a referenced GS grade or level of work in a higher broadband level than the employee's current position.

(c) A temporary promotion or detail of an AcqDemo employee to a position in a higher broadband level not to exceed one year in a 24-month period.

(d) A promotion resulting from the correction of an initial classification error or the issuance of a new classification standard.

(2) Other Non-Competitive Movements

(a) Movement of a graded employee to a broadband level containing a referenced grade the same as the employee's current grade or grade previously held and pay setting rules the same as upon initial conversion of an organization. The pay setting rules provide an adjustment to an employee's basic pay for a WGI Buy-in, if eligible. Competition is normally required to set pay at a higher rate than the WGI Buy-in. In any case, the employee's basic pay shall not exceed the basic pay range of the new broadband level.

(b) Movement is to a position in a broadband level having a referenced GS grade or level of work equal to that of the employee's current position and no promotion potential. For example: Employee's current position is a GS-318-7 without promotion potential and the employee is moving to an NK-318-II position which contains the GS-7 as the highest grade and offers no promotion potential; or

(c) Movement is to a position in a broadband level having a referenced range of GS grades or levels of work containing that of the employee's current position with no potential to a higher broadband level. For example: Employee's current position is a GS-1102-12 with potential to a full performance level of GS-1102-13 and the employee is moving to an NH-1102-III position which contains both the referenced GS-12 and the referenced full performance level of GS-13 without further promotion potential to a higher referenced GS grade found in the NH-IV broadband level; or

(d) Referenced GS grade or level of work or potential of the new position is no greater than the GS grade or level of work of a position previously held by the employee on a permanent basis in the competitive service. For example: Employee held a competitive service GS-855-7 position with potential to GS-855-11 from May 1, 2012 to April 30, 2014 and is returned to an NH-855-II position on July 6, 2015 which contains the range of referenced GS grades (GS-7 through 11) and levels of work without potential to a higher referenced GS grade found in the NH-III broadband level; or

(e) Movement is to an AcqDemo position from a different pay banded demonstration project with referenced GS grades of selectee's current payband position split between two AcqDemo broadband levels without further promotion potential. For example: Employee's current position is an Engineering Technician, Pay Band DT-IV (includes referenced GS grades 11 and 12). Candidate being considered for either an AcqDemo NJ-802-III position containing referenced GS grades 9 and 11 or an NJ-802-IV position containing referenced GS grades 12 and 13. Candidate could be placed non-competitively in the NJ-802-III position but would need to compete for the NJ-802-IV as this broadband level includes a referenced GS grade which is higher than the highest referenced GS grade included in the payband from which the candidate is moving.

(3) A position change permitted by demonstration project reduction-in-force procedures.

(4) Consideration of a candidate not given proper consideration in a prior competitive promotion action under the demonstration project.

(5) Conversion of an AcqDemo employee from a modified term appointment to a permanent appointment in the same broadband level and occupational family as the modified term position.

(6) Addition of supervisory duties within the assigned broadband level.

(7) Reclassification to include impact of person in the job or an accretion of duty promotion.

(8) Any other non-competitive action as authorized under 5 CFR 335.103.

e. Reduction in Force

(1) Employee Separations Primarily on the Basis of Performance. For any RIF of civilians covered by the AcqDemo within DoD, the determination as to which employees will be separated from employment will be made primarily on the basis of performance.

(2) Title 10 U.S.C. Section 1597. AcqDemo Participating Organizations, in accordance with 10 U.S.C. 1597, may not implement any involuntary reduction or furlough of civilians and may not implement any substantial reduction of contract operations or contract employment (involving 100 or more people) during a fiscal year, until the expiration of the 45-day period beginning on the date that the Component for the Participating Organization submits to Congress a report setting forth the reasons such reductions or furloughs are required and a description of any change in workload or position requirements that will result from same.

(3) Coordination with the Office of the USD(P&R). DoD Components of Participating Organizations will coordinate with the Office of the USD(P&R) (ATTN: Office of the Deputy Assistant Secretary of Defense for Civilian Personnel Policy) regarding any proposed involuntary reduction or furlough of civilians or any substantial reduction of contract operations or contract employment (involving 100 or more people) during a fiscal year. The coordination process must occur before any notification to an employee or member of the public regarding such action, release of information to an employee or the public, or notification to a Member or Committee of Congress, or their staffs, or other executive branch agencies.

(4) Minimizing the need for RIF as a result of Workforce Reshaping. The Heads of Participating Organizations will consider and employ every reasonably available option, consistent with applicable policies and procedures, to mitigate the size of a proposed RIF, including job changes or retraining, the use of voluntary early retirement authority or voluntary separation incentive payments, hiring freezes, termination of temporary employees, reductions in work hours, curtailment of discretionary spending, and other pre-RIF placement activities for employees eligible for placement assistance and referral programs.

(5) RIF Procedures. If a RIF becomes necessary, RIF procedures will be used when an employee faces separation or downgrading due to lack of work, shortage of funds, reorganization, insufficient personnel ceiling, the exercise of re-employment or restoration rights, or furlough for more than 30 calendar or more than 22 discontinuous days. Generally, AcqDemo RIF shall be conducted according to the provisions of 5 CFR part 351, except as otherwise specified below:

(a) Competitive Areas. A competitive area establishes the boundaries within which employees compete for retention under AcqDemo RIF regulations. AcqDemo competitive areas may be refined beyond a given component or part of a component at a given geographic location. Generally, the geographic area of coverage will be the local commuting area. Once the geographic area is determined, additional factors will be introduced to ensure that there is sufficient flexibility within the competitive area to effect such reassignments and reallocations of work as necessary to carry out the mission of the organization with minimal disruptions. Typically, these additional factors could include such items as career path (pay plan), specific broadband level(s) within a career path, and occupational series. Additional factors may include lines of business, product lines, organizational units, funding lines, and/or functional area, or a combination of these elements and must include all AcqDemo project employees within the defined competitive area. For each defined RIF competitive area, AcqDemo and non-AcqDemo employees must be placed in separate RIF competitive areas. The RIF competitive areas will be established no fewer than 90 days in advance of any planned effective date of an AcqDemo RIF. All AcqDemo project employees within the AcqDemo defined competitive area must be included in that competitive area. Therefore, AcqDemo employees would not displace non-AcqDemo employees and vice versa.

(b) Master Retention List. Competitive service employees and excepted service employees are placed on separate Master Retention Lists which are established in accordance with this FRN. A Master Retention List contains the names and position information for all competing employees in the RIF competitive area ranked by tenure group category and within each category by three retention factors, i.e., average annual rating of record, veterans' preference, and RIF service computation date (SCD). The employees are listed within the tenure groups in the order of their relative retention standing with performance being the primary retention factor. For example, the employee with the highest average annual rating of record, i.e., a Level 5—Outstanding Rating, is at the top of a tenure group category list; an employee with no months of assessed performance would be at the bottom of the Tenure Group I—Less than 12 months of Assessed Performance category; and the employee who received an unacceptable performance appraisal as his/her most recent rating of record, i.e., a Level 1—Unacceptable Rating, is placed in Tenure Group I—Current Unacceptable Rating of Record category ranked by average annual rating of record. Further ranking occurs in each category using additional retention factors to accommodate veterans' preference and RIF service computation date. A sample Master Retention List is contained in Appendix G.

(c) Tenure Groups

1—Tenure Group Change. Tenure Groups I and II, as defined in 5 CFR 351.501(b) for competitive service and 5 CFR 351.502(b) for excepted service, have been combined into a new Tenure Group I for the competitive service and a new Tenure Group I for the excepted service. Tenure group III remains the same and will be listed below any Tenure Group I categories. Under AcqDemo, the conversion to permanent appointment of term employees (Tenure Group III) previously selected through competitive procedures, and who otherwise meet conditions required for such conversion, may be converted to permanent appointments (Tenure Group I), provided such conversions are effective not less than 90 days prior to the effective date of the RIF.

2—Tenure Group Categories

a—Competing employees within a competitive area are listed on a master retention list in one of two tenure groups: Tenure Group I includes all permanent career and career-conditional employees and Tenure Group III includes employees on Term Appointments. Tenure Group I is divided into three categories: Tenure Group I employees who have 12 months or more of assessed performance; Tenure Group I employees who have less than 12 months of assessed performance; and Tenure Group I employees who received an unacceptable performance appraisal as their most recent rating of record. Tenure Group III employees are also divided into three categories: Tenure Group III employees who have 12 months or more of assessed performance; Tenure Group III employees who have less than 12 months or more of assessed performance; and Tenure Group III employees who received an unacceptable performance appraisal as their most recent rating of record.

b—Periods of Assessed Performance. For purposes of AcqDemo RIF, employees are placed in one of two assessed performance categories: Employees with a period of assessed performance of less than 12 months and employees with a period of assessed performance of 12 months or more. An employee's period of assessed performance for RIF purposes will be the sum of the months of assessed performance associated with the employee's performance appraisals within the most recent four-year period preceding the “cutoff date” established for the RIF. Periods of time in a rating cycle for which an employee's performance was not assessed are not included in the employee's period of assessed performance. For example, if an employee receives a rating of record after serving 10 months of a 12-month appraisal cycle, the employee's period of assessed performance is “10 months” for that rating cycle.

(a) Retention Factors.

1—Average Annual Rating of Record. The average annual rating of record is the primary retention factor in determining which employees shall be separated from employment.

a—Rating of Record Criteria. A rating of record may be issued only in accordance with the AcqDemo appraisal cycle, other approved appraisal periods under AcqDemo, another DoD performance management program, or a performance management system used by another federal agency with which an employee was formerly employed. Ratings of record may not be issued solely for purposes of documenting performance in advance of a RIF. An employee's average annual rating of record for RIF purposes is the average of the ratings of record averages drawn from the two most recent annual CCAS ratings or other official ratings of record received by the employee within the four-year period preceding the “cutoff date” established for the RIF, except when the employee's most recent rating of record is “unacceptable.” When the most recent rating of record is “unacceptable,” only that rating of record will be considered for purposes of RIF. Other rating of record exceptions include the following situations:

i. Employees serving as fulltime union representatives or on a prolonged absence due to a work-related injury discussed in Section II.D.2(h)(5); and

ii. Employees who were absent for military service referred to in Section II.D.2(h)(6).

b—“Cutoff Date.” The “cutoff date” is the date after which no new rating of record will be considered for purposes of the RIF. The “cutoff date” established will be at least 60 days prior to the date of the issuance of RIF notices.

c—CCAS Ratings of Record. The CCAS average annual rating of record is the average of the averages obtained for each of the two most recent CCAS ratings of record (if less than two, the actual rating of record average) that determined the final performance appraisal level for each of the two most recent annual ratings of record in the four-year period preceding the “cutoff date” established for the RIF. The averages for the two CCAS ratings of record would be totaled and the sum divided by two to determine the average annual rating of record for RIF retention. The resulting quotient will be rounded to the nearest tenth of a decimal point. If the hundredths decimal is less than 0.05, the tenths decimal does not change. If the hundredths decimal is equal to or greater than 0.05, the tenths decimal is increased by “.1”.

d—Non-CCAS Ratings of Record. An employee may have a non-CCAS rating from another Federal organization as one or both of the two most recent ratings of record within the most recent four-year period preceding the RIF “cutoff date.” In this instance, the average annual rating of record will be determined by converting the employee's two non-CCAS ratings (if less than two, the actual rating) to the corresponding numeric rating, regardless of performance summary level pattern (for example: Highly Successful—Level 4; Pass—Level 3; Marginally Successful—Level 2; or Unacceptable—Level 1) provided by the summary level pattern used by the employee's former Federal organization, totaling the numeric ratings, and dividing by the actual number of ratings. If one of the two most recent ratings is a CCAS rating, add the average obtained for determination of the annual CCAS rating of record and the numeric rating of record level for the non-CCAS rating of record to obtain a total, and divide the sum by two. The resulting quotient, for either scenario, is rounded in the same manner as for two CCAS ratings as described in Section II.B.6.e(5)(d)1-a.

e—Employees without a Rating. Presumptive status ratings 1, 2, and 3 assigned pursuant to Section II.D.6.h will not be used for RIF purposes. In the event of a RIF, employees with less than 12 months of assessed performance within the most recent four-year period prior to a RIF “cutoff date” will be placed at the bottom of Tenure Group I—Less than 12 months of Assessed Performance.

f—CIP. Employees under a CIP are listed on the master retention list in their appropriate tenure group category until a decision is reached. If the decision is that the employees have improved to a fully successful level, the employees will continue to compete in their appropriate tenure group category with other employees whose average ratings of record are above unacceptable. If the decision results in an unacceptable rating of record, the employees are listed in Tenure Group 1—Current Unacceptable Rating of Record according to their retention standing and compete only within this tenure group

g—Unacceptable Ratings of Record. If an employee's most recent annual or other official rating of record, e.g., rating of record based on completion of a CIP, is “unacceptable,” the employee would compete only in Tenure Group I—Current Unacceptable Rating of Record with other employees who received a current unacceptable rating of record. If a position encumbered by an unacceptable employee is the best offer for an employee with a rating of record above unacceptable, the employee with the higher retention standing may be offered the position regardless of the retention standing of the unacceptable employee. If there is no other position listed in Tenure Group I—Current Unacceptable Rating of Record for which the unacceptable employee is qualified, the employee will be separated. The unacceptable employee has no further displacement rights.

2—Veterans' Preference. Competing employees are placed in a veterans' preference subgroup in accordance with the definitions in 5 CFR 351.501(c). The three veterans' preference subgroups are: AD (30% disabled veteran); A (a veteran who is eligible for veterans' preference for purposes of RIF, but is not eligible for placement in the AD category); and B (an employee not eligible for veterans' preference for purposes of RIF.)

3—Length of Service (DoD SCD-RIF). The DoD service computation date includes all creditable service under 5 CFR 351.503(a) and (b). Each AcqDemo Participating Organization is responsible for establishing the DoD SCD-RIF applicable to each employee competing for retention under this process. Additional service credit for outstanding and fully successful performance appraisals will not be calculated in the DoD SCD-RIF.

(e) Displacement. The AcqDemo RIF process has a single round of competition which replaces the traditional two-round (bump and retreat) process. Displacement is limited to an employee's current career path, broadband level, and one broadband level below that is within the employee's career path. Broadband level I employees would displace within their current broadband level I. Preference eligible employees with a compensable service connected disability of 30 percent or more may displace within the two broadband levels below their present broadband level within their career path not to exceed the equivalent of 5 GS grades below the employee's present GS grade-level equivalent. Broadband level I preference eligible employees with a compensable service connected disability of 30 percent or more can displace within their current broadband level. Offer of assignment shall be to the position that requires no reduction or the least possible reduction in broadband. Where more than one such position exists, the employee must be offered the position encumbered by the employee with the lowest retention standing.

(f) Qualifications for Assignment. An employee is qualified to displace another employee on the retention list if he or she meets the designated standards and requirements in 5 CFR 351.702, including DAWIA certification, if applicable, for the position. (However, statutory waivers shall continue to apply.) Recency of experience may be used, when appropriate, to determine an employee's proper placement. The “undue disruption” standard currently outlined in 5 CFR 351.203 will serve as the criteria to determine if an employee is fully qualified.

(g) Pay Retention. Employees covered by the demonstration are not eligible for grade retention. Pay retention will be granted to employees downgraded by reduction in force whose rate of basic pay exceeds the maximum basic pay range of the broadband level to which assigned. Such employees will be entitled to retain the rate of basic pay received immediately before the reduction, not to exceed 150% of the maximum salary of the lower broadband level.

(h) Appeals. Under the demonstration project, all employees affected by a reduction-in-force action, other than a reassignment, maintain the right to appeal to the Merit Systems Protection Board (MSPB) if they believe the process/procedures were not properly applied.

(i) Vacant Positions. Prior to RIF, employees may be offered a vacant position in the same broadband as the highest broadband available by displacement. Employees may also be offered placement into vacant positions for which management has waived the qualifications requirements. When an AcqDemo Participating Organization chooses to fill a vacancy with an employee who will be released from his/her position, the organization must consider the relative retention standing of all released employees. The vacant position must be offered to the released employee with the highest retention standing before offering a position to a released employee with a lower retention standing. If the employee is not placed into a vacant position and cannot be made an offer of assignment via displacement, the employee shall be separated.

(j) Interim RIF Process. In the event a RIF is necessary after the final FRN is published but before a rating of record with an average score can be established for employees in the competitive area pursuant to this FRN, the USD(P&R) may approve an interim RIF process.

C. Pay Administration

1. Introduction

AcqDemo inspires the use of a compensation strategy that utilizes all available and appropriate compensation tools to attract and retain an agile, highly-skilled, professional acquisition workforce and the supporting personnel assigned to work with that workforce. Organizations executing the DoD acquisition mission need talent with very specific skills, knowledge, and certifications. To be successful in this mission also demands a commitment to providing the warfighter with state-of-the-art effective and reliable weapon systems that yield equally effective and predictable results. AcqDemo's compensation philosophy insures equitable pay for the duties of the position, recognizes individual competency achievements, and rewards contribution to mission. To assist in this endeavor, AcqDemo provides a number of interventions and policies for special situations such as pay setting for new hires, reinstatement eligibles, and non-AcqDemo Federal civilian employees voluntarily accepting an AcqDemo position; promotions; buy-ins on voluntary permanent lateral transfers, reassignments, and realignments into AcqDemo; changes to lower career path, broadband level, and/or basic pay; supervisory and team leader cash differentials; accelerated compensation for developmental positions; and a contribution-based compensation system that aligns employees' pay to their contributions to the organization's mission and to the scope, difficulty, and value of their positions.

The DoD AcqDemo Program Office will issue policy and guidance on pay setting. Participating Organizations are encouraged, through their Personnel Policy Boards to issue internal guidance and/or criteria to further define their compensation policy and processes based upon funding levels; qualifications and experience of selectees; market conditions; difficulty of position; and organizational level of position to ensure standard application.

Modifications to the AcqDemo pay administration guidance, processes, and/or procedures may be made by the DoD AcqDemo Program Manager as experience is gained, economic conditions change, results are analyzed, and conclusions are reached. Any supplemental policies, guidance, and procedures on pay setting (and modifications to those policies, guidance, and procedures) issued by the DoD AcqDemo Program Office and Participating Organizations will adhere to the pay administration provisions and waivers in this Federal Register notice.

2. Compensation Strategy

A primary goal of AcqDemo is to compensate employees appropriately for their individual and organizational contribution to the mission of their organization and the value of their position. This goal promotes greater compensation for those who are the highest contributors; encouragement for the lowest contributors to improve; and appropriate compensation for all levels of contribution in between. Equal with the need to appropriately recognize and compensate employee contribution is the need to effectively manage the compensation levels of the AcqDemo organizational positions.

Upon initial mass conversion into the AcqDemo, an organization's position management structure rarely changes even though positions may be placed in a broadband level that indicates the availability of a higher maximum basic pay. For example, a GS-5 Mail Clerk full performance position may convert into the NK-II broadband level which contains referenced GS grades 5-7. However, depending upon an organization's position management structure and assessment of the difficulty, scope, and value of the position, the organization may develop a compensation strategy (e.g., a control point) that limits full performance Mail Clerk positions to a maximum basic pay equivalent to GS-5, Step 10, basic pay. Likewise, a contract specialist position under the organization's position management structure may have been considered to have the difficulty, scope, and value equivalent to the basic pay of a GS-12, step 10, position and the organization may want to maintain this value and set a control point at that basic pay.

Although each position contained within a broadband level could have access to the complete range of pay options, it does not mean that all jobs within that broadband level should be compensated at the top rate of basic pay of the broadband level. Instead, management decisions should be made about the appropriate compensation value of the organization's position management structure, based on factors such as level of effort, required skills and/or certifications, and labor market conditions. Once made, management should seek to maintain that level of compensation, unless changes occur in the stated compensation factors. Total pay set above or below the target basic pay is contingent upon the employee's overall contribution to the mission. This approach challenges the organization to consider the value identified for each position when determining an appropriate level and means of compensation (basic pay adjustment and/or award) for individual compensation.

Although broadbanding makes available a broader range of compensation choices, basic pay adjustments known within AcqDemo as Contribution Rating Increase (CRI) adjustments, are not the sole means to compensate employees, and in some cases are not the recommended means. As the compensation value of organizational positions are identified, managers should consider utilizing appropriate means to preserve those values. Compensation methodologies include the assignment of a maximum OCS, to coincide with the identified compensation value. A CRI resulting from the assignment of an OCS assumes the level of contribution, and associated basic pay, is expected to continue at least at that level and will be reflected in the employee's Contribution Plan for future assessment cycles. These scores or values should be identified against PRDs, and then considered during hiring actions and in determining compensation means to recognize contribution assessments. Means to preserve the identified compensation values may include the establishment of control points or pay ranges within a broadband level. When compared to their counterparts in other compensation systems, e.g., GS and STRL, these employees as a group should generally maintain equity with the normal pay progression scenarios in these systems. For example, for positions equivalent to GS-14 in value and level of difficulty, control points should be established based on the basic pay ranges of the lowest referenced GS grade in the appropriate broadband level, i.e., GS-14, step 10, for the NH-IV broadband level. These tools should be considered to, at a minimum, require a management decision to establish an appropriate compensation value or to increase an employee's basic pay above the identified compensation value. The use of such methodologies establishes compensation equity, consistency, and transparency for employees and supervisors alike throughout the organization. No matter what the compensation system, over time positions reach a plateau where salary growth levels off; some at the top of the pay scale and others at other points.

3. Aggregate Limitation on Basic Pay

The calendar year aggregate limitation on pay under 5 U.S.C. 5307 and 5 CFR part 530, subpart B, of the rate payable for level I of the Executive Schedule applies to employees. In addition, the maximum rate of basic pay for each broadband level will be limited to the maximum rate of basic pay for the highest referenced grade covered by the broadband. Other than where a retained rate applies, basic pay rates will be limited to the maximum rate of basic pay payable for each broadband level.

4. Special Rates

AcqDemo will not utilize OPM derived special rates. Employees on special rates at the time of conversion of their organization into AcqDemo will have their pay protected under the provisions of Section II.F of this notice. New hires, reinstatement eligibles, and non-AcqDemo Federal civilian employees entering an AcqDemo position not as the result of a conversion will have pay set in accordance with Section II.C.9 of this notice.

5. Promotions

a. Definitions.

(1) AcqDemo Employees. A promotion occurs when an AcqDemo employee moves from his/her current broadband level to a higher broadband level within the same career path (e.g., NK-I to NK-II) or a different career path and broadband level in which the new broadband level has a higher maximum basic pay than the broadband level from which the employee is being moved (e.g., NK-II to NH-II).

(2) Non-AcqDemo Employee Entering the Demo. A promotion action occurs:

(a) When a current non-AcqDemo employee in a graded system is selected for an AcqDemo position in a broadband level which includes referenced grades with higher basic pay than the selectee's current grade, or

(b) When a current non-AcqDemo employee in a paybanded system is selected for a position in an AcqDemo broadband level which includes referenced GS grade(s) with higher basic pay than the highest referenced grade included in the current payband from which the selectee is moving.

b. Setting Pay. When setting pay for a promotion action, either permanent or temporary, consideration must be given to both the value of the position and the selectee's expected level of contribution in the new position. The basic pay for a permanent or temporary promotion action will be set within the broadband level for the employee's new position, starting at 0% and not to exceed 20% of the employee's current basic pay. However, if the minimum rate of the employee's new broadband level is more than 20 percent greater than his/her current basic pay, then the minimum rate of the new broadband level is the new basic pay. The employee's basic pay shall not exceed the maximum basic pay range of the new broadband level.

c. Temporary Promotion Basic Pay Adjustment Guidelines.

(1) Upon Termination. When a temporary promotion is terminated, an employee's pay entitlements will be re-determined based on the employee's permanent position of record with appropriate adjustments to reflect any CCAS ratings, e.g., a presumptive rating and/or General Pay increases applicable to the permanent position during the period of the employee's temporary promotion. While on a temporary promotion, any basic pay adjustments to reflect a CCAS rating for contributions and General Pay increases occurring while on that temporary promotion will be applied to the temporary promotion basic pay and not the basic pay of the permanent position of record. If a temporary promotion of less than 1 year is extended so that the total time of the temporary promotion equals or exceeds 1 year, pay may be set in the permanent position based on a rate received under the temporary promotion, subject to the specific policies and rules established by the Head of the Participating Organization or Personnel Policy Board.

(2) When Made Permanent. If a temporary promotion is made permanent immediately after the temporary promotion ends, the temporary promotion is converted to a permanent promotion without a change in basic pay. If there is any period of time between the end of an employee's temporary promotion and the beginning of a permanent promotion, the employee must be returned to his/her permanent position and his/her permanent position's rate of basic pay recomputed as if the employee had never been temporarily promoted. Also, at the organization's discretion and if eligible, pay may be set in the permanent position based on a rate received under the temporary promotion if that would yield a higher basic pay rate. However, the higher basic pay rate may not exceed the basic pay range of the new broadband level. Whatever method is used, the resulting rate is the basis for any subsequent promotion.

6. Retained Pay

a. Calculation. Retained pay under AcqDemo is the combined basic pay and locality pay compared to the maximum rate of the highest applicable rate range that applies to the highest referenced GS grade included in the broadband level of an employee's new position. If the retained rate is greater than the maximum rate of the highest applicable rate range for the new position, an employee continues to be entitled to the existing retained rate. If the retained rate is equal to or less than the maximum rate of the highest applicable rate range for the new position, the payable rate of basic pay is converted to the employee's new AcqDemo basic pay rate and appropriate locality pay, and retained pay terminates.

b. Pay Adjustments. Employees on retained pay in the demonstration project are to be treated as GS employees and will receive pay adjustments in accordance with 5 U.S.C. 5363 and 5 CFR part 536 except under the following provisions: (1) Pay retention provisions do not apply to conversions from General Schedule special rates to demonstration project pay, as long as total pay is not reduced; (2) pay retention provisions do not apply to movements to a lower broadband level as a result of not receiving the general increase due to a contribution assessment, either annual or interim, of “Unacceptable” for the most recent contribution appraisal cycle; and (3) an employee on pay retention whose most recent annual or interim contribution assessment is “Unacceptable” may have the 50 percent of the amount of the increase in the maximum rate of basic pay payable for the broadband level of the employee's position reduced or denied. An employee receiving retained pay is not eligible for a CCAS contribution rating increase, since such increases are limited by the maximum basic pay rate for the employee's broadband level. Depending upon the employee's CCAS assessment, employees on retained pay may be eligible to receive a CCAS contribution award.

c. Promotion from Retained Pay. When an employee on retained pay is promoted to a higher broadband level, the employee's basic pay upon promotion will be set in the higher broadband level: (1) Not to exceed 20 percent of the maximum basic pay of the employee's existing broadband level as determined by AcqDemo internal policies, or (2) at the employee's existing retained rate, whichever is greater. The final basic pay should align with the position's value (its target basic pay) and the employee's expected contribution in the position.

d. Adverse Action or Contribution-based Reduction in Pay to Include Change to Lower Broadband Level and/or Change in Career Path. An employee may receive an involuntary reduction in broadband level with or without a reduction in basic pay; an involuntary reduction in basic pay within his/her existing broadband level and career path; and/or an involuntary move to a new position in a different career path due to an adverse or contribution-based action. Involuntary reductions in pay will result in a basic pay level consistent with an employee's demonstrated contribution level. For involuntary change to lower broadband level, the employee's basic pay will be reduced by a percentage determined by Participating Organizations, but will be set no lower than the minimum basic pay of the broadband level to which assigned. Employees placed into a lower broadband due to an adverse or contribution-based action are not entitled to pay retention.

e. Change to Lower Broadband Level/Change in Career Path, Other Than by Adverse or Contribution-Based Action. If an employee is subject to an involuntary change to a lower broadband level/change in career path by other than an adverse or contribution-based action, such as a reclassification of his/her position, the employee is entitled to pay retention if all conditions in title 5 U.S.C. 5363 and 5 CFR part 536, subparts A and C are met.

f. Reduction-in-Force (RIF) Action (Including Employees Who are Offered and Accept a Vacancy at a Lower Broadband Level or in a Different Career Path). The employee is entitled to pay retention in accordance with 5 U.S.C. 5363 and 5 CFR part 536, subpart A.

7. General Pay Increase (GPI)

The GS base rates may be adjusted each January under the provisions in 5 U.S.C. 5303. Under AcqDemo, the minimum and maximum basic pay rate of each broadband level will be adjusted at the same time as this GPI. The amount of the increase calculated for an organization's AcqDemo employees will be based on the amount of any GPI and is allocated for use in that organization's pay pool fund and disbursed to employees based upon their contribution assessments under the CCAS as described in Section II.D.2.d(2).

8. Locality Pay

All employees will be entitled to the locality pay authorized for their official worksite in accordance with 5 CFR part 531, subpart F, if eligible. In addition, the locality-adjusted pay of any employee may not exceed the rate for Executive Level IV. Geographic movement within the demonstration project will result in the employee's locality pay being recomputed using the newly applicable locality pay percentage, which may result in a higher or lower locality pay and thus, a higher or lower adjusted basic pay. This adjustment is not an adverse action.

9. Hires From Outside the AcqDemo

a. New Hires. For new hires who are receiving their first Federal government appointment as a civilian employee, initial basic pay will be set within the basic pay range for the broadband level of the position for which hired at a level consistent with the individual's qualifications and the level of work and contribution expected for the position at the time of hire. Other considerations in determining starting basic pay are available labor market conditions relative to special qualifications requirements, scarcity of qualified applicants, programmatic urgency, and education/experience of new selectees.

b. Reinstatement Eligible Hires. For reinstatement eligibles, initial basic pay will be set within the basic pay range for the broadband level of the position for which hired giving consideration to the various criteria mentioned for new hires from outside the AcqDemo. AcqDemo Highest Previous Rate (HPR) as defined in Section II.C.13 and AcqDemo internal guidance may provide an appropriate tool for establishing basic pay in this instance. Reinstatement eligibility refers to the ability for those individuals who previously held a career or career-conditional appointment to apply for jobs in the competitive Federal service open to status applicants.

c. Non-AcqDemo Federal Civilian Employees Voluntarily Joining AcqDemo. Federal employees entering into the AcqDemo from a graded system, e.g., GS or a pay banded system not as the result of a conversion will be moved into a career path and broadband level with basic pay set in accordance with AcqDemo guidance and reflective of the duties and responsibilities of the AcqDemo position and an individual's qualifications. AcqDemo HPR may provide an appropriate tool for establishing basic pay in this instance. The move will be described using the appropriate nature of action, e.g., promotion, reassignment, transfer, etc., as provided by the OPM's Guide to Processing Personnel Actions or AcqDemo Program Office guidance.

(1) Lateral Transfers, Reassignments, and Realignments

(a) Employees in Graded Systems. Individual employees in graded systems, (e.g., GS) who enter the project voluntarily by permanent lateral transfer, reassignment, or realignment to an AcqDemo position in a broadband level containing a referenced grade the same as the employee's current grade may be subject to the same pay setting rules as those GS employees entering the demonstration project upon initial conversion of their organization. These rules provide an adjustment to an employee's basic pay for a WGI Buy-in, if eligible. Competition is normally required to set pay higher than the WGI Buy-in. Eligibility criteria will be defined in implementing issuances. In any case, the employee's basic pay shall not exceed the basic pay range of the new broadband level.

(b) Non-GS Employees. Federal employees in other pay systems, e.g., a Science and Technology Reinvention Laboratory Personnel Demonstration Project, who do not have WGI eligibility under their current pay system, are not eligible for a WGI Buy-in when they move into the AcqDemo by lateral transfer, reassignment, or realignment. A Career Ladder Promotion Buy-in is not authorized for movement from a pay system other than the GS pay system to the AcqDemo pay system by a permanent lateral transfer, reassignment, or realignment.

(2) Temporary Reassignments Not To Exceed (NTE)

Current AcqDemo authorities do not provide authority for Temporary Reassignments NTE to, from, or within AcqDemo. However, if a Component or agency has established a Temporary Reassignment NTE Nature of Action Code, it may be used to move non-AcqDemo employees into AcqDemo, move AcqDemo employees out of AcqDemo to a non-AcqDemo organization, and move AcqDemo employees within AcqDemo, but no WGI Buy-in or Career Ladder Promotion Buy-in is authorized for any of these personnel actions.

10. Internal AcqDemo Employee Movements

a. Movement within a Broadband Level. The movement of an employee's basic pay in relation to the minimum and maximum basic pay range for his/her position's broadband level is determined by the assessment of the employee's contributions through the CCAS, Section II.D, or Accelerated Compensation for Developmental Positions (ACDP), Section II.C.11.

b. Change to Lower Broadband Level or Different Career Path. When an employee accepts a voluntary change to a lower broadband level or a different career path, basic pay may be set at any point within the broadband level to which assigned, except that the new basic pay will not exceed the employee's current basic pay or the maximum basic pay of the broadband level to which assigned, whichever is lower. Upon request for or acceptance of a change to a lower broadband level or different career path, the employee will be required to provide a written statement acknowledging voluntary acceptance and understanding of the effect of such a move on pay and benefits. This paragraph does not apply to promotion actions.

11. ACDP

a. AcqDemo will implement ACDP to provide recognition for employees in DAWIA-coded positions and those in positions requiring 51% or more of time in direct support of acquisition positions in a critical acquisition career field classified to Broadband Levels I, II, and III of the Business and Technical Management Professional Career Path who:

(1) Are participating in formal training programs, internships, or other developmental capacities; and

(2) Have demonstrated successful or better growth and development in the attainment of job-related competencies; and

(3) Have demonstrated effective accomplishment of a level of work higher than that represented by an AcqDemo employee's Expected Overall Contribution Score (set by current basic pay) under CCAS.

b. Standards by which ACDP increases will be provided and development criteria by which additional basic pay increases may be given will be established in combination with the CCAS and documented in internal business rules, policies, and procedures.

c. ACDPs may be awarded twice per CCAS appraisal cycle but not sooner than six months after the effective date of an ACDP for a basic pay increase ranging from 0% not to exceed a 10% increase and a growth in the employee's Overall Contribution Score. The amount of the ACDP increase may not cause the employee's basic pay to exceed the top of the employee's broadband level, the target pay for the employee's maximum broadband level, or compensation strategy set by internal business rules, policies, or procedures for both the position's value and employee contributions.

d. ACDPs will not be funded from pay pool allocations. A general O&M budget allocation or equivalent for civilian salaries, as appropriate, would be used to cover ACDP basic pay increases.

12. Supervisory and Team Leader Cash Differentials

a. Supervisory and team leader cash differentials may be used by Heads of Participating Organizations as an additional tool to incentivize and compensate supervisors and team leaders as defined by the OPM General Schedule Supervisory Guide or Leader Grade Evaluation Guide in situations where:

(1) Organizational level and scope, difficulty, and value of position warrants additional compensation;

(2) Supervisory and/or team leader positions are extremely difficult to fill; or

(3) Salary inequities may exist between the supervisor's or team leader's and non-supervisory/non-team leader subordinates' basic pay.

b. A supervisory cash differential may not exceed 10 percent of basic pay and a team leader cash differential may not exceed 5 percent of basic pay. A cash differential is not paid from pay pool funds; is not included as part of basic pay for entitlement calculations (e.g., retirement and Thrift Savings Plan); and is subject to the total aggregate limitation on pay. Because it is not part of basic pay, supervisors or team leaders who are at the maximum basic pay for their respective broadband level may still receive a supervisory cash differential. It is paid on a pay period basis with a specified not to exceed date of one year or less; reviewed every year at the same time as the CCAS annual assessment and may be terminated or reduced as dictated by fiscal limitations, changes in assignment or scope of work, and/or an employee's removal from the supervisory or team leader position regardless of cause. Termination or reduction of a cash differential is not an adverse action and is not subject to appeal or grievance. A signed statement by an employee receiving a cash differential acknowledging all of the stipulations will be required.

c. Payment criteria to be considered in determining the amount of the cash differential will be outlined in internal implementing issuances and will contain considerations such as the needs of the organization to attract, retain, and motivate high-quality supervisors and team leaders; budgetary constraints; years and quality of related experience and current level of compensation; length of the assignment and difficulty of the supervisory or team leader duties; organizational level of the position; and impact on the organization.

d. The cash differentials are not automatic by virtue of holding a supervisory or team leader position. They will be used selectively, not routinely, to compensate only those supervisors and/or team leaders who fully meet the criteria. The contribution of supervisors and team leaders to the mission of their organization will be assessed separately under the CCAS.

13. Highest Previous Rate (HPR)

AcqDemo HPR may be considered in setting pay in placement actions authorized under rules that are consistent with those found in 5 CFR 531.221 through 531.223 as described in AcqDemo internal policy and guidance. Use of AcqDemo HPR will be at the discretion of the Head of the Participating Organization and subject to policies established by the organization's senior leaders and/or Personnel Policy Board. AcqDemo HPR allows a Participating Organization to set pay for an AcqDemo employee at a rate above the rate that would be established using normal AcqDemo rules, based on a higher rate of basic pay the employee received previously in another Federal job. The AcqDemo HPR may be used for reemployment, transfer, reassignment, promotion, demotion, change in type of appointment, termination of a critical position pay authority under 5 CFR part 535, movement from a non-GS pay system, or termination of grade or pay retention under 5 CFR part 536.

14. Recruitment, Relocation, and Retention Incentives

The participating AcqDemo organizations may make full use of the recruitment, retention, and relocation incentive payments under 5 U.S.C. 5753 and 5754; OPM's regulations at 5 CFR part 575, subparts A through C; and any supplemental policy guidance.

15. Non-CCAS Awards

To provide additional flexibility in motivating and rewarding individuals and groups, some portion of a Participating Organization's award budget will be reserved for special acts and other categories as they occur. Awards may include, but are not limited to, special acts, patents, invention awards, suggestions, and on-the-spot. The funds available to be used for these traditional title 5 U.S.C. awards are separately allocated within the constraints of the organization's budget. The Service Acquisition Executives of AcqDemo Participating Organizations will have the authority to grant special act awards to covered employees not to exceed $25,000 in accordance with the criteria established by DoD, Component, or Agency instructions.

D. Contribution-Based Compensation and Appraisal System

1. Overview

The purpose of the CCAS is to provide an equitable and flexible method for appraising and compensating the DoD civilian acquisition workforce and its supporting personnel. It is central to the objectives of the DAWIA and acquisition initiatives which emphasize continuing efforts to increase the productivity, efficiency, and effectiveness of the Department's many acquisition, technology, and logistics efforts and the professionalism of the acquisition workforce. CCAS integrates classification, contribution, and compensation into a cohesive management system that recognizes level of difficulty, scope, and value of an employee's position; impact of contribution results on strategic goals, objectives, and organizational mission accomplishment; and appropriate compensation in recognition of the value of an employee's contribution and position. CCAS allows for more employee involvement in the contribution/performance appraisal process, increases communication between supervisors and employees, promotes a clear accountability of contribution by each employee, facilitates employee progression tied to organizational contribution, and provides an understandable basis for basic pay changes. Most of the funds previously allocated for performance-based awards will be reserved for distribution under the CCAS system based on employee contribution.

CCAS is a contribution-based appraisal system that goes beyond a performance-based rating system. That is, it emphasizes and measures the value and effectiveness of the employee's contribution to the mission and goals of the organization, rather than merely how well the employee performed a job as defined by a set of standards for the work to be accomplished. Past experience with the existing civilian performance appraisal system indicates that standards in performance plans are often tailored to the individual's level of previous performance. Hence, an employee may have been rewarded by basic pay step increases meeting standards of performance beneath those actually needed to achieve the expected organizational mission outcomes. Under CCAS, an employee's performance is a component of contribution that influences the employee's ultimate overall expectations and contribution assessment. CCAS promotes basic pay adjustment decisions made on the basis of an individual's overall annual contribution to the mission of the organization when compared to the classification and appraisal factors and an employee's contribution plan, expected results, and the scope, level of difficulty, and value of the employee's position. The three key components of CCAS are the appraisal process, the Integrated Pay Schedule as a mechanism to relate contribution to pay, and the compensation adjustment results.

2. CCAS Appraisal Process

a. Annual Cycle. The annual appraisal cycle begins on October 1 and ends on September 30 of the following year. In the event a management decision is made to terminate the demonstration project or the management of an AcqDemo Participating Organization directs conversion of its employees out of AcqDemo to a different pay and/or personnel system, the annual appraisal cycle may be condensed so that a closeout appraisal or a closeout appraisal and a payout may be completed as determined appropriate. Section II.F.3.b provides additional operating details for situations of this type.

b. Assessment Criteria. An employee's contribution is assessed by using the same set of three factors, descriptors, and discriminators used for classification of positions to appropriate broadband levels as discussed in Section II.A.3. Classification Level and Appraisal Factors. Taken together, these factors, descriptors, and discriminators capture the critical content of jobs in each career path that is relevant to the success of a DoD acquisition organization. Each factor has multiple levels of increasing contribution corresponding to the broadband levels. Each factor also contains descriptors and discriminators for each respective level within the relevant career path. The descriptors are written so that all factors are considered critical and are weighted equally. However, if pay pool panel members/managers agree that some factors are more important than others to effectively accomplish the organization's mission, they may adjust the factor weights. The factors, descriptors, and discriminators may not be modified. The three factors with their descriptors and discriminators are located in Appendix E. In conjunction with the contribution factor assessment is an overall assessment of the quality of performance in achieving contribution results. A set of generic performance appraisal quality levels is provided in Table 3. A written Contribution Plan containing an employee's goals, objectives, and expected contribution in relation to each factor should be developed collaboratively by the supervisor and the employee working together to have a clear understanding of what is needed for the employee to satisfactorily and effectively contribute to the organization's mission. The supervisor is responsible for ensuring completion of the plan.

c. Appraisal Eligibility. To be eligible for an appraisal, employees must be under CCAS on September 30 and have served in an AcqDemo position under CCAS for 90 calendar days or more immediately preceding September 30 before they may receive an annual contribution assessment. If on October 1, the employee has served in an AcqDemo position under CCAS for less than 90 calendar days immediately prior to the end of the cycle, the rating official shall wait for the subsequent annual cycle to assess the employee. The first CCAS appraisal for an employee who enters AcqDemo during the period July 3 through September 30 must be rendered within 18 months of when the employee entered AcqDemo during this period. Employees who have served under CCAS in an AcqDemo position for less than 90 calendar days immediately preceding the end of the rating cycle shall not receive contribution rating increases or contribution awards for that cycle. However, their basic pay shall be increased by the amount and at the time of the next General Schedule pay increase as adjusted by 5 U.S.C. 5303.

d. Beginning of Appraisal Cycle Activities. (1) Contribution Planning Meeting. At the beginning of the annual appraisal period, a supervisor and an employee plan how the employee will contribute to the mission of the organization during the appraisal cycle. This contribution planning meeting typically includes discussion of career path and broadband level, contribution factors, organizational mission, expected contribution criteria, Expected OCS (EOCS), contribution results, assessment of the quality of performance, and career development. Normally, new employees who join AcqDemo during an appraisal cycle should have their contribution plan established within 30 days, but will not have a CCAS OCS until after their first annual CCAS assessment process. However, until their contribution plan is formalized, they may determine their EOCS range by using the Expected Contribution Range (ECR) calculator found on the AcqDemo Web site at http://acqdemo.hci.mil/tools.html under the Tools tab. Future CCAS assessments may alter an employee's ECR. At this time, employees will be advised that all factors are critical and of any factor weights that have been established. Key terms such as “team” and “customer” will be defined or clarified.

(2) Pay Pool. (a) Composition. A pay pool is a group of employees among whom the funding allocated to CCAS is distributed. This might be all the employees in a division or directorate, or employees involved in the same type of work, e.g., supervisors. The pay pool structure and allocated funds are under the authority of the Head of a Participating Organization. The following minimal guidelines will apply. A pay pool:

1—Is based on the organizational structure and should include a range of salaries and contribution levels;

2—Should be large enough to constitute a reasonable size, i.e., not less than 35 individuals (when possible) or more than 300 individuals when sensible;

3—Should be large enough to include a second level of supervision, since the CCAS process uses a group of supervisors in the pay pool to determine OCS and recommended basic pay adjustments; and

4—May have the pay pool manager as a member of the pay pool. However, the pay pool manager shall not directly influence or participate in the determination of his/her own contribution assessments, recommend his/her own individual basic pay levels, or establish the amount of his/her own individual basic pay levels. Also, the supervisors within the pay pool shall not directly influence or participate in the determination of their own contribution assessments, recommend their own individual basic pay levels, or establish the amount of their own individual basic pay levels.

(b) Pay Pool Panel Process. The CCAS pay pool panel process is designed to validate the evaluation of contribution and performance against the three factors among a group of peer managers from across an organization. This process works to achieve fairness and standard application of the factor descriptors, expected contribution criteria, and performance appraisal levels. At the onset of each appraisal period, a Personnel Policy Board or equivalent board verifies the accuracy of the pay pool structure for the organization, develops and/or validates pay pool business rules, and administers funds to pay pool managers. The pay pool panel is typically composed of the pay pool manager and those who report directly to him/her. Their purpose is to share a common view of the organization mission, goals, and objectives in reviewing the contribution and performance of employees by subordinate supervisors and bring a common perspective to how employees are evaluated and, therefore, compensated and appraised.

(c) Funding. The funding allocation to be included in the pay pool will be computed based on the salaries of the employees in the pay pool as of the last calendar day of the CCAS appraisal period. The amount of funding available within a pay pool will be based on a balancing of appropriate factors, including the following: (1) General Pay Increase; (2) historical spending for WGI, quality step increases, and promotions between grades encompassed in the same broadband level; (3) awards (performance-based awards as defined in 5 U.S.C. 4505(a)); (4) labor market conditions and the need to recruit and retain a skilled workforce to meet the business needs of the organization; (5) the fiscal condition of the organization; and (6) guidance from the AcqDemo Program Office. The USD(P&R) may, at his/her discretion, adjust the minimum funding levels set forth in this paragraph to take into account factors such as the Department's fiscal condition, guidance from the Office of Management and Budget, and equity in circumstances when funding is reduced or eliminated for GS pay raises or awards. The pay pool funding allocation includes three forms of compensation:

1—General Pay Increase (GPI). The GPI is the across-the-board basic pay increase authorized by law or the President for the GS under 5 U.S.C. 5303. The funds allocated for the GPI that are not awarded may be transferred to either the CRI Fund or the Contribution Award (CA) Fund or divided among them barring any higher authority restrictions.

2—CRI Fund. The CRI fund includes what are WGIs, quality step increases, and promotions between grades encompassed in the same broadband level. The maximum CRI funding allocation will be set each year by the DoD AcqDemo Program Manager with a minimum funding of not less than 2.0 percent of the activity's total basic pay budget. This figure will be adjusted by the DoD AcqDemo Program Manager as necessary to maintain cost discipline over the life of the demonstration project. The amount of funding available to each pay pool is determined annually by the Personnel Policy Board, or equivalent. CRI funds not awarded may be transferred to the CA fund based on DoD AcqDemo Program Office Guidance. In the event of an out-of-cycle payout, this funding floor may be suspended.

3—CA Fund. The CA Fund includes what were formerly performance awards and will be used for awards given under the CCAS process. The CA funding allocation will be set at not less than 1.0 percent of an activity's total adjusted basic pay budget. A minimum of 10% of the CA fund is withheld to be used for other awards not related to the CCAS process, e.g., on-the-spot awards and group awards, which will continue to be encouraged by management to promote excellence in acquisition and attainment of organizational goals. CA funding not granted may not be transferred to other funding categories. In the event of an out-of-cycle payout, this funding floor may be suspended.

e. Feedback during the Appraisal Cycle. Ongoing supervisor (or designated rating official) and employee discussion during the appraisal cycle of specific work assignments, objectives, contribution expectations, strengths, weaknesses, and the employee's contribution results, and assessment of the quality of performance within the CCAS framework is essential. This must include discussion of any inadequate contribution and quality of performance in one or more of the factors. Approximately midway through each appraisal cycle, a midpoint assessment is conducted. The supervisor and employee will meet to discuss progress. The employee is highly encouraged to complete a midpoint assessment and the supervisor will complete a midpoint assessment. CAS2Net will contain a function to capture the midpoint assessments of both the employee (if provided) and supervisor.

f. Evaluation at the Conclusion of the Appraisal Cycle. The CCAS, using a holistic approach, provides a process that evaluates the scope of work, level of difficulty, value of position and contributions, performance rating levels, and quality of an employee's efforts in achieving contribution results. This methodology fosters consistency and equity in contribution assessments. It also offers the employee and supervisor an opportunity to address accomplishments from an all-inclusive approach. Employees are highly encouraged to complete an annual self-assessment. The supervisor will complete an annual assessment.

(1) Compensation Equity

(a) Contribution Scores. Rating officials use the Integrated Pay Schedule design to assess the contribution level of work against the employee's current compensation level indicated by the employee's EOCS. Each factor will receive two types of scores, the categorical score and a numerical score. At the end of the annual appraisal period, the rating official determines preliminary categorical and numerical scores. The categorical score is determined by comparing an employee's contribution results to the set of descriptors and discriminators for a particular factor and broadband level as a group and selecting the most appropriate categorical score level shown in Table 2 below. The numerical score is selected by a pay pool panel following further refinement and rank ordering of the categorical scores. The panel selects the numerical score from the range of scores associated with the specific categorical score selected as representative of an employee's overall contribution. The numerical scores that may be available for use in the assessment process depend upon the value of an employee's position as developed through the organization's position management structure and compensation strategy. Table 2 shows the structure for the broadband and very high score levels and their associated categorical scores and numerical score ranges for each career path. Very high scores are available to recognize an employee for exemplary contributions and overall quality of performance the results of which are substantially beyond what was expected and warrant a score exceeding the top score for the highest broadband level in the employee's career path. Very high scores for factors may only be assigned to employees holding a position in Level IV of the Business and Technical Management Professional Career Path, Level IV of the Technical Management Support Career Path, or Level III of the Administrative Support Career Path.

Table 2—Contribution Categorical Scores and Numerical Score Ranges by Career Path
Broadband and very high score levels | Categorical scores | Business and technical professional (NH): Numerical score range | Technical support (NJ): Numerical score range | Administrative support (NK): Numerical score range
Very High Score | High | 115 | 95 | 70
| Medium | 110 | 91 | 67
| Low | 105 | 87 | 64
IV | High | 96-100 | 79-83 |
| Med | 84-95 | 67-78 |
| Low | 79-83 | 61-66 |
III | High | 79-83 | 62-66 | 57-61
| Med | 67-78 | 52-61 | 47-56
| Low | 61-66 | 43-51 | 38-46
II | High | 62-66 | 47-51 | 42-46
| Med High | 51-61 | 41-46 |
| Med | 41-50 | 36-40 | 30-41
| Med Low | 30-40 | 30-35 |
| Low | 22-29 | 22-29 | 22-29
I | High | 24-29 | 24-29 | 24-29
| Med | 6-23 | 6-23 | 6-23
| Low | 0-5 | 0-5 | 0-5

(b) Contribution Scoring Process. The process for scoring a factor begins by assessing an employee's contributions and his/her results during the appraisal cycle in relation to his/her contribution plan, the factor descriptors, discriminators, and expected contribution criteria for the broadband level of the employee's position; and the assessment of quality of performance. At the end of the appraisal cycle, the rating official meets with his/her employees, requesting them to summarize the impact and quality of their contributions against the factor descriptions, expected contribution criteria, and the objectives and expectations described in their contribution plans. From employee input, customer feedback, his/her own knowledge, and other sources, the rating official assigns, from the appropriate career path broadband or very high score level for the employee's position, a preliminary categorical score. This step is repeated for each of the three factors.

During the pay pool panel process, panel members will assign a numerical score (or validate the preliminary numerical score) from the numerical score range appropriate for the chosen categorical score for each factor by considering contributions (documented and addressed by panel members) against the factor level descriptors and discriminators, expected contribution criteria, the contribution plan, the quality of performance criteria, and the impact of the contributions on the organization. If the employee's contributions are awarded a very high score, the score must be one of the three numerical scores assigned to the very high score level for the employee's career path. At the discretion of the Pay Pool Manager, different weights may be applied to the factors to produce a weighted average, provided that the weights are applied uniformly across the pay pool and employees are advised in advance, i.e., at the beginning of the rating period. Weighting may not result in any factor becoming zero. The preliminary numeric scores assigned for each of the three factors are totaled and the sum averaged to obtain an OCS. The OCS will be rounded to the nearest whole number. An OCS average with a decimal of less than 0.5 will be rounded down to the nearest whole number. Averages with 0.5 and higher will be rounded up to the nearest whole number.

(1) Quality of Performance

(a) Appraisal Criteria. 10 U.S.C. 1597(f) requires the determination of which DoD employees shall be separated from employment in a reduction in force to be made primarily on the basis of performance. In order to comply with 10 U.S.C. 1597(f), the CCAS has been modified to embrace the quality of performance an employee demonstrates in achieving his/her expected contribution results through an assessment of performance under each of the three contribution factors. Three performance appraisal levels are provided as shown in Table 3 below together with generic quality criteria. The performance level to be assigned to each contribution factor should reflect an employee's level of performance during the appraisal cycle as compared to the CCAS factor descriptors and discriminators, expected contribution criteria, an employee's contribution plan, and the impact of the quality of the contributions on the organization. A Participating Organization may supplement the generic criteria with additional standards that identify milestones, production, due dates, or other measureable aspects of success contributing to the accomplishment of the goals and objectives necessary to meet an organization's mission and are achievable during the appraisal cycle.

Table 3—Performance Appraisal Quality Levels
Performance appraisal level | Performance appraisal level quality criteria
Level 5—Outstanding | An employee's quality of performance exhibited in achieving his/her contribution results substantially and consistently surpasses the factor-specific expected contribution criteria and the employee's contribution plan goals and objectives.
Level 3—Fully Successful | An employee's performance consistently achieves, and sometimes exceeds, the factor-specific expected contribution criteria and his/her contribution plan goals and objectives.
Level 1—Unacceptable | An employee's performance fails to meet the expectations for quality of work and the required results for the goals and objectives set forth in his/her contribution plan for the appraisal cycle.

(b) Performance Appraisal Process. The quality of performance appraisal is conducted in conjunction with the contribution scoring process. As the rating official considers such items as the employee's self-assessment, feedback, and personal observations in preparation for assigning preliminary CCAS categorical scores, he/she will also assess the quality of the employee's performance in achieving his/her contribution results under each of the three contribution factors. A preliminary performance appraisal level of either Level 5—Outstanding, Level 3—Fully Successful, or Level 1—Unacceptable from Table 3 will be assigned by the rating official to each of the three contribution factors. The three performance appraisal levels are averaged to calculate the annual rating of record. The resulting quotient will be rounded to the nearest tenth of a decimal point. If the hundredths and thousandths places of the decimal reflect forty-nine or less, they are dropped and the tenths place does not change. If the hundredths and thousandths places of the decimal is fifty or more, they are dropped and the tenths place is increased by “.1”. The final average will then reflect the employee's overall job performance during the appraisal cycle based on the rating criteria outlined in Table 4.

Table 4—Rating Criteria
Rating of record | Rating criteria
Level 5—Outstanding | The average score of the three appraisal levels is 4.3 or greater, with no contribution factor being rated a “1” (Unacceptable), resulting in a rating of record that is a “5”.
Level 3—Fully Successful | The average score of the three appraisal levels is less than 4.3, with no contribution factor being rated a “1” (Unacceptable), resulting in a rating of record that is a “3”.
Level 1—Unacceptable | Any contribution factor rated as “1”.

During the pay pool panel process, panel members will review the preliminary performance appraisal level justifications for the contribution factors and rating of record for all pay pool members for consistency and equity of application within the pay pool population before final approval. The average raw score of the three appraisal levels and the approved annual rating of record will be recorded in the DCPDS. The annual rating of record will be recorded as a Level 5—Outstanding, Level 3—Fully Successful, or Level 1—Unacceptable.

g. Pay Pool Panel Responsibilities. The pay pool panel meets at key points in the assessment process, e.g., following assignment of preliminary categorical scores, numeric score ranges, and quality of performance levels; after assignment of preliminary OCS and ranking employees and their contributions; and/or following assignment of preliminary categorical scores and numeric score ranges; and/or following a final review of the OCS and the recommended compensation adjustments for employees of the pay pool. During the pay pool panel meetings, panel officials review contribution assessments to include employee feedback, rank order, contribution scores, compensation adjustments, performance appraisal levels, average raw score for the three levels, and performance rating of record for all employees, correcting any inconsistencies identified and making the appropriate adjustments.

The pay pool panel members are encouraged to include initial rating officials in the process to ensure equity and consistency in the scoring, ranking, and appraisal of all employees and establish local policies and procedures to guide the inclusion of these officials in a uniform manner. Together, with the Pay Pool Manager, the pay pool panel members determine a consistent approach to involving initial rating officials in the process.

Final approval of OCS, compensation adjustments, and ratings of record rests with the Pay Pool Manager, the individual within the organization responsible for managing the CCAS process. Rating officials will communicate the supervisor assessment, factor scores, OCS, quality of performance appraisal levels, average raw score, rating of record, and compensation adjustments to each employee and discuss the results after final approval by the Pay Pool Manager.

h. Special Circumstances affecting a CCAS Assessment. When an employee cannot be evaluated readily by the normal CCAS appraisal process due to special circumstances that take the individual away from normal duties or duty station (e.g., long-term fulltime training; active military duty; extended sick leave; qualified family and medical leave; fulltime union representation; leave without pay, etc.), the rating official will document the special circumstances on the appraisal form. The rating official will then determine which of the following five options to use, guided by local business rules and with consideration of any special legal entitlements such as the Uniformed Services Employment and Reemployment Rights Act (USERRA) which may affect that determination:

(1) Use available observations and documentation to prepare an assessment and determine a recommended OCS and an appropriate CCAS quality of performance appraisal level; or

(2) Assign a Presumptive—Status 1: New AcqDemo hires with less than the necessary time to receive an actual CCAS contribution assessment.

(3) Assign a Presumptive—Status 2: Presume the employee is contributing consistently with his/her EOCS representative of his/her basic pay level by recommending the EOCS for the OCS and Level 3—Fully Successful rating of record; or

(4) Assign a Presumptive—Status 3: Recommend the pay pool panel re-certify the employee's last contribution assessment OCS if greater than the current EOCS and the last CCAS rating of record if higher than the expected rating of record performance appraisal level. [Option (3) is not available (a) for first year AcqDemo assessments and/or (b) for employees who have changed broadband levels during the assessment period.]

(5) Assign a Presumptive—Status 4: Prolonged Absence Due to Work-related Injury or Fulltime Union Representation Duties. A Presumptive—Status 4 may be used as a rating of record for purposes of RIF for those periods in which an employee did not receive a performance appraisal due to a prolonged absence resulting from a work-related injury approved for compensation pursuant to an Office of Workers' Compensation Program or while performing the duties of a fulltime union representative. Presumptive—Status 4 is limited to only periods of time for which the employee has no rating of record under any performance management system within the four-year period preceding the “cutoff date” established for the RIF. A Presumptive—Status 4 presumes the employee is contributing consistently with his/her EOCS representative of his/her basic pay level by recommending the EOCS for the OCS and an overall Level 3—Fully Successful rating of record.

(6) Assign a Presumptive—Status 5: Employees Absent for Military Service. Employees who are absent for military service will receive a CCAS assessment and be assigned a rating of record provided they have performed work in an AcqDemo position under an approved CCAS contribution plan for a minimum of 90 calendar days. If an employee absent for military service has not performed work under an approved contribution plan for a minimum of 90 days and has no rating of record under any performance management system within the previous four-year period, the employee will be presumed to be contributing consistently with his/her EOCS representative of his/her basic pay level and will receive the rating of record most frequently given among the actual ratings of record in the same competitive area. Employees performing military service who do not meet the 90-calendar day requirement but have a rating of record under any performance management system within the four-year period preceding the RIF “cutoff date” will receive a CCAS rating of record consistent with this previous rating of record and will be assigned their most recent rating of record as the new CCAS rating of record for the appraisal cycle.

3. Integrated Pay Schedule. The CCAS Integrated Pay Schedule (IPS), Figure 2, is the foundation for the basic pay structure under the demonstration project. It provides a direct link between increasing levels of contribution and increasing basic pay. The IPS covers basic pay only and is the same for all AcqDemo employees, career paths, and positions regardless of geographical location. The appropriate locality pay is added following the determination of basic pay.

a. IPS Horizontal Axis. The horizontal axis of the IPS represents the OCS available through contribution appraisals. The OCS span from a score of zero to the maximum OCS of 100, with a notional “very high score” level containing three scores to accommodate “very high scores” as appropriate for those employees in the top broadband level of their respective career paths. The “very high scores” of 105, 110, and 115 are provided for employees in Broadband Level IV of the Business and Technical Management Professional career path; “very high scores” of 87, 91, and 95 are provided for employees in Broadband Level IV of the Technical Management Support career path; and “very high scores” of 64, 67, and 70 are provided for employees in Broadband Level III of the Administrative Support career path.

b. IPS Vertical Axis. The vertical axis of the IPS spans from the highest basic pay of GS-15, step 10. This encompasses the full basic pay range (excluding locality pay) available under AcqDemo.

c. Normal Pay Region (NPR). The goal of CCAS is to make basic pay consistent with the scope, level, and difficulty of an employee's position and the value of his/her contributions to the mission of the organization. Within the full basic pay range embodied in the IPS vertical axis, an NPR was developed around a Standard Pay Line (SPL) to provide a mechanism to determine appropriate compensation. The NPR represents the area of the IPS where basic pay and value and level of contributions and position are assumed to be properly related and appropriately compensated. This relationship is represented by the marker where an employee's basic pay and OCS intersect in relation to the NPR and the SPL, the reference line for OCS.

(1) SPL. The SPL begins at an OCS of zero and the basic pay of a GS-1, Step 1, and terminates at an OCS of 100 and the basic pay of a GS-15, Step 10. Changes in OCS correspond to a constant percentage change in basic pay along the SPL. The constant percentage change (or SPL factor) used to arrange OCS evenly along the SPL in 100 increments, where 100 is the range of OCS points can be thought of as approximately a +2 percentage change in basic pay associated with a one score change in the OCS. The SPL factor for calendar year 2017 can be computed from the GS-15, Step 10 pay and the GS-1, Step 1 pay. The SPL factor for calendar year 2017 is 1.0200426. The SPL factor normally changes on an annual basis with any General Schedule base pay increase granted to the Federal civilian workforce.

(2) NPR. Employees whose annual OCS plotted against their basic pay falls on or within the upper and lower rails of the NPR are considered to be in the “Normal Pay” Region for basic pay adjustments. The upper and lower rails encompass an area of approximately 8 scores, or +/−8.0% from the SPL in terms of basic pay or approximately+/−4.0 in terms of scores, relative to the SPL. Given these constraints, the formulae for the NPR SPL and upper and lower rails found in Figure 2 are:

Basic Pay Upper Rail = (GS-1, Step 1) * (1.0800) * (SPL factor) OCS

Basic Pay SPL = (GS-1, Step 1) * (SPL factor) OCS

Basic Pay Lower Rail = (GS-1, Step 1) * (0.9200) * (SPL factor) OCS

An example calculation is provided below for an OCS of 50 and 51 using calendar year 2017 basic pay for GS-1, Step 1. It indicates an approximate 2% in basic pay between OCS along the SPL.

d. Overcompensated Region. Employees whose annual OCS when plotted against their basic pay falls above the upper rail of the NPR into the “overcompensated” region are considered overpaid for their level of contribution and compensation adjustments, and “unacceptable” for their contribution assessment. Typically, employees who are scored above the upper rail into the overcompensated region are not meeting contribution and performance expectations and will be placed on a CIP.

e. Undercompensated Region. Employees whose annual OCS when plotted against their basic pay falls below the lower rail of the NPR into the “undercompensated” region are considered underpaid for their level of contribution and position, in the “Undercompensated” Category for compensation adjustments, and have either a Level 5—Outstanding or Level 3—Fully Successful rating of record as part of their contribution assessment. These employees may expect to receive greater basic pay increases than those eligible employees who fall within the normal pay region.

f. Relation to Career Paths. The IPS and the NPR are the same for all the career paths. What varies among the career paths are the beginnings and endings of the broadband levels. The minimum and maximum numerical OCS values and associated basic pay for each broadband level by career path are provided in Table 5. These minimum and maximum breakpoints represent the lowest and highest GS base pay for the grades banded together and, therefore, the minimum and maximum basic pay possible under AcqDemo for each broadband level.

Table 5—OCS and Basic Pay Ranges by Career Path and Broadband Level
[Calendar Year 2017]
Broadband and very high score levels | GS grades | Numerical score range | Basic pay range
Business Management and Technical Management Professional (NH)
I | 1-4 | 0-29 | $18,526-$33,164
II | 5-11 | 22-66 | $28,545-$68,025
III | 12-13 | 61-83 | $62,722-$96,958
IV | 14-15 | 79-100 | $88,136-$134,776
Very High Score | N/A | 105, 110, or 115 | N/A
Technical Management Support (NJ)
I | 1-4 | 0-29 | $18,526-$33,164
II | 5-8 | 22-51 | $28,545-$50,904
III | 9-11 | 43-66 | $43,251-$68,025
IV | 12-13 | 61-83 | $62,722-$96,958
Very High Score | N/A | 87, 91, or 95 | N/A
Administrative Support (NK)
I | 1-4 | 0-29 | $18,526-$33,164
II | 5-7 | 22-46 | $28,545-$45,970
III | 8-10 | 38-61 | $39,159-$61,922
Very High Score | N/A | 64, 67, and 70 | N/A

4. Compensation Adjustments. After the initial assignment into the CCAS, employees' yearly contributions and performance will be determined by the CCAS contribution assessment process described above, and their OCS versus their current rate of basic pay will be plotted on the IPS graph (Figure 3) to determine their compensation category. The marker at the intersection of the OCS vertical straight line with the current basic pay horizontal straight line respective to the Participating Organization's choice of target line, i.e., SPL, upper rail, or lower rail of the NPR, gives a relative measure of the compensation (basic pay) versus contribution (OCS) for pay adjustment and/or award determinations. The target line of the SPL, upper rail, or lower rail, or other target line is chosen by a Participating Organization to serve as a compensation strategy for CRI payouts and to determine the number of employees eligible to receive a CRI based on their position in the Normal Pay Region in relation to the target line. For instance, since the AcqDemo goal is to have employees' basic pay centered on the SPL, if the Lower Rail were used as the target line, fewer people would receive payouts, but those that did would receive larger payouts. Whereas, if the Upper Rail were used as the target line, more people would receive payouts, but each payout would be smaller. The SPL allows for something in between the upper and lower rail options.

a. Compensation Categories. Employees fall into one of the three compensation categories: Overcompensated, appropriately compensated, or undercompensated.

Depending on the category into which an employee's marker falls, he/she may be eligible for one to three forms of additional compensation. The pay pool panel has the option of awarding the employee up to and including the full General Pay Increase (as authorized by law or the President), a CRI (an increase in basic pay and/or a CRI carryover lump sum payment for the CRI basic pay amount that exceeds a control point in or the maximum basic pay of an employee's broadband level) and/or a contribution award (a lump sum payment that does not affect basic pay). In general, those employees whose marker plots in the undercompensated region of the IPS may receive greater percentage basic pay increases than those whose marker plots in the overcompensated region of the IPS. Employees on retained rate in the demonstration project will generally receive pay adjustments in accordance with 5 U.S.C. 5363 and 5 CFR part 536; however, the normal retained rate increase granted in connection with a general pay increase may be reduced or denied for an employee with an OCS above the upper rail and a performance appraisal of Level 1—Unacceptable. An employee receiving a retained rate is not eligible for a contribution rating increase, since such increases are limited by the maximum salary rate for the employee's broadband level. Over time, people will migrate closer to the standard pay line and receive basic pay appropriate for their level of contribution and position. An outline of compensation eligibility by contribution category is given in Table 6.

⁷ Basic pay plus locality pay may not exceed the rate payable for level IV of the Executive Schedule.

⁸ Also applies to employees on pay retention whose contribution and performance assessment is “Unacceptable”.

⁹ May not exceed upper rail of NPR for employee's OCS or maximum basic pay for current broadband level.

¹⁰ Pay pool manager approves up to $10,000 for a contribution award. Amounts exceeding $10,000 not to exceed $25,000 for a contribution award require Head of the Participating Organization approval.

¹¹ Over 20% requires approval of the Head of the Participating Organization.

¹² May not exceed 6% above the lower rail or the maximum basic pay for current broadband level.

Table 6—Compensation Eligibility Chart
Category | General pay increase | Contribution rating increase | Contribution award | Locality pay ⁷
Overcompensated | Could be reduced or denied ⁸ | No | No | Yes.
Appropriately Compensated | Yes | Yes ⁹—Up to 6 | Yes ¹⁰ | Yes.
Undercompensated | Yes | Yes—Up to 20% ¹¹ ¹² | Yes | Yes.

b. Local Policy. Each Pay Pool Manager will set the necessary guidelines for pay adjustments in the pay pool based on guidance received from the organization's Personnel Policy Board, Head of the Participating Organization, and/or Component. Decisions will be consistent within the pay pool, reflect cost discipline over the life of the demonstration project, and be subject to review by Components and the DoD AcqDemo Project Office.

c. Documentation. Basic pay adjustments and cash awards will be documented by a SF-50, Notification of Personnel Action. The performance appraisal level is uploaded into DCPDS at the same time as the pay adjustments and cash awards. For historical and analytical purposes, the CCAS Appraisal Form, to include the contribution plan, employee self-assessment, supervisor annual assessment, effective date of CCAS assessments, annual performance appraisal level, contribution rating level, actual basic pay increases, and applicable “bonus” amounts, will be maintained for each demonstration project employee. Each Participating Organization shall provide for maintenance of contribution-related records for their employees for a minimum of four years, as required in 5 CFR 293.402 and 404.

5. Contribution Improvement Plan

a. Regulatory Coverage. This section applies to reassignment, reduction in broadband level with or without a reduction in pay; reduction in pay with or without a reduction in broadband level; or removal of demonstration project employees based solely on inadequate contribution. Inadequate contribution is identified by the employee's annual CCAS contribution assessment resulting in an OCS falling above the upper rail of the NPR (which normally occurs at either a −3 or −4 OCS or greater negative number) and an unacceptable rating of record, or the deterioration of an employee's contribution during the appraisal year such that, if rated, the employee would receive an OCS score above the upper rail of the NPR and an unacceptable performance appraisal level on at least one of the three contribution appraisal factors; or by a combination of these results. An inadequate contribution assessment in any one contribution factor at any time during the appraisal period is considered grounds for the initiation of a CIP that may result in reassignment, reduction in broadband level, reduction in pay, or removal action, hereafter referred to as contribution-based actions. The following procedures replace those established in 5 U.S.C. 4303 pertaining to reductions in grade or removal for unacceptable contribution except with respect to appeals of such actions. As is currently the situation for contribution-based actions taken under 5 U.S.C. 4303, inadequate contribution-based actions shall be sustained if the decision is supported by substantial evidence and the Merit Systems Protection Board shall not have mitigation authority with respect to such actions. The separate statutory authority to take inadequate contribution-based actions under 5 U.S.C. chapter 75, as modified in the waiver section of this notice (Section VII), remains unchanged by these procedures.

b. CIP. When a supervisor determines during or at the end of the appraisal period that an employee is not completing work assignments adequately, the supervisor must make a determination as to whether the employee is contributing inadequately in one or more of the contribution factors and/or quality of performance levels. All contribution factors are considered critical elements. A determination of inadequate contribution must be made by comparing the employee's contribution to the expected contribution criteria in the appraisal factors as well as the contribution expectations established in the employee's CCAS Contribution Plan covering the factors and fully successful performance.

If an employee's annual CCAS assessment or a contribution assessment during the appraisal year results in the need for a CIP, the supervisor must inform the employee, in writing, that he/she will be placed on a CIP and that, unless the employee's contribution increases such that the OCS would be scored in the NPR, contribution would be considered fully successful, and this level of effort is sustained, he/she may be subject to one of the previously listed contribution-based actions. If an employee is placed on a CIP near the end of the appraisal cycle, the CIP may not extend past October 31, with a decision rendered no later than November 15.

When the rating official informs the employee of possible contribution-based actions that may occur, the rating official will afford the employee a reasonable opportunity to demonstrate acceptable contribution and/or performance with regard to identifiable factors. A CIP must provide the employee this opportunity to demonstrate adequate contribution. The CIP will state the preliminary factor scores above the upper rail, how the employee's contribution and/or performance are inadequate, what improvements are required, recommendations on how to achieve adequate contribution and/or performance, assistance that the agency shall offer to the employee in improving inadequate contribution, and consequences of failure to improve. Additionally, the CIP will normally include a clarification (or further clarification) of the meaning of terms used in the employee's specific responsibilities and assignments described under the appraisal factors.

Once an employee has been afforded a reasonable CIP opportunity to demonstrate adequate contribution and/or performance but fails to do so and receives an unacceptable rating of record based on the CIP, a reassignment, reduction in broadband level with or without a reduction in pay, reduction in pay with or without a reduction in broadband level, or removal action may be proposed in accordance with 5 U.S.C. 4303 and related OPM regulations under 5 CFR part 432. This unacceptable rating of record will be considered an official rating of record for RIF purposes whether it is issued during an appraisal cycle or as an annual rating of record. If it is an employee's most recent/current rating of record in the four-year period preceding a RIF, the employee would be listed on the Master Retention List in the category Tenure Group I—Current Unacceptable Performance Appraisal.

If the employee's contribution increases to an adequate level and is again determined to deteriorate in any factor within two years from the beginning of the opportunity period, actions may be initiated to effect a contribution-based action with no additional opportunity to improve. If an employee has contributed adequately for two years from the beginning of a CIP opportunity period, and the employee's overall contribution once again declines to an inadequate level, the employee will be afforded an additional opportunity to demonstrate adequate contribution before it is determined whether or not to propose a contribution-based action.

An employee who is subject to a proposed contribution-based action is entitled to a 30-day advance notice of the proposed action that identifies specific instances of inadequate contribution by the employee on which the action is based. The employee will be afforded a reasonable time to answer the notice of proposed action orally and/or in writing.

A decision to pursue a contribution-based action on an employee for inadequate contribution may be based only on those instances of inadequate contribution that occurred during the two-year period ending on the date of issuance of the proposed action. The employee will be issued written notice at or before the time the action will be effective. Such notice will specify the instances of inadequate contribution by the employee on which the action is based and will inform the employee of any applicable appeal or grievance rights.

c. Inadequate Contribution under 5 U.S.C. 7512. Employees may also be removed or reduced in broadband level based on inadequate contribution (which inherently addresses performance) under the provisions of 5 U.S.C. 7512.

d. Procedural and Appeal Rights. All procedural and appeal rights set forth in the applicable statute and related OPM regulations will be afforded to demonstration project employees reassigned, removed, reduced in pay or reduced in level for inadequate contribution.

e. Documentation. All relevant documentation concerning a contribution-based action that is based on a determination of inadequate contribution will be preserved and made available for review by the affected employee or a designated representative in accordance with the employee's DoD Component policy for records management. At a minimum, the records, in accordance with 5 CFR 432.107, will consist of a copy of the notice of proposed action; the written answer of the employee or a summary when the employee makes an oral reply; and the written notice of decision and the reasons thereof, along with any supporting material including documentation regarding the opportunity afforded the employee to demonstrate adequate contribution.

6. CCAS Grievance Procedures

a. Bargaining Unit Employees. Bargaining unit employees who are covered under a collective bargaining agreement may grieve the contribution assessment which includes the OCS and performance appraisal level received under the CCAS and supervisor assessment under the grievance-arbitration provisions of the applicable collective bargaining agreement. The negotiated grievance procedure shall be the sole and exclusive procedure for resolving such grievances. If an employee is in a bargaining unit in which grievances over appraisal scores have been excluded from the negotiated grievance procedure, the employee may use the administrative grievance procedure (5 CFR part 771) with supplemental instructions described in paragraph b below.

b. Administrative Grievance Procedures. Employees not included in a bargaining unit may grieve the contribution assessment which includes the OCS and performance appraisal level received under the CCAS and supervisor assessment using procedures established under the appropriate Administrative Grievance Procedures (5 CFR part 771). Under these procedures, the employee's grievance will first be considered by the rating official who reviews and submits a recommendation to the pay pool panel. The pay pool panel may accept the rating official's recommendation or reach an independent decision. In the event that the pay pool panel's decision is different from the rating official's recommendation, appropriate justification will be provided. The pay pool panel's decision is final unless the employee requests reconsideration by the next higher official to the Pay Pool Manager. That official would then render the final decision on the grievance.

E. Employee Development

1. Academic Degree and Certificate Training

Trained and educated personnel are a critical resource in an acquisition organization. This demonstration supports the concept that well-developed training and development programs are essential to improving the performance of AWF individuals and those employees in direct support positions to the AWF, thus raising the overall level of performance of the AWF as well as serving as a valuable tool for recruiting and retaining motivated employees. AWF members have a continuous learning (CL) requirement to ensure maintenance of currency in their career field. They must earn a minimum of 80 CL points every two years. Some have specific education and/or statutory requirements depending on their career field. In addition, all acquisition positions have certification requirements whereby AWF members must become certified in their primary career field at the level required within 24 months of assignment. Currently, DAWIA authorizes degree and certificate training for acquisition-coded positions. This demonstration extends that authority and expands its coverage to the acquisition direct support positions included in the project. It also provides authorization at the local level to administer and pay for these degree and certificate training programs. This authorization will facilitate continuous attainment of advanced, specialized knowledge essential to the AWF and its direct support employees. It also provides a capability to assist in the recruiting and retaining of personnel critical to the present and future requirements of the AWF.

A Participating Organization may require an employee who participates in training to continue to work in that organization for at least three times the length of the training period. The service obligation begins when the training is completed. Funding for this training, while potentially available from numerous sources (including the Defense Acquisition Workforce Development Fund) for employees in acquisition-coded positions), is the responsibility of the Participating Organization.

2. Sabbaticals

Organizations participating in the acquisition demonstration project will have the authority to grant sabbaticals without application to higher levels of authority. These sabbaticals will permit employees to engage in study or work experience that contributes to their development and effectiveness. The sabbatical provides opportunities for employees to acquire knowledge and expertise that cannot be acquired in the standard working environment. These opportunities should result in enhanced employee contribution. The spectrum of available activities under this program is limited only by the constraint that the activity contribute to the organization's mission and to the employee's development. The program can be used for training with industry or on-the-job work experience with public, private, or nonprofit organizations. It enables an employee to spend time in an academic or industrial environment or to take advantage of the opportunity to devote fulltime effort to technical or managerial research.

The acquisition demonstration project sabbatical program will be available to all demonstration project employees who have seven or more years of Federal service. Each sabbatical will be of three to twelve months' duration and must result in a product, service, report, or study that will benefit the acquisition community as well as increase the employee's individual effectiveness. Requests for a sabbatical must be made by the employee through the chain of command to the Participating Organization's management official, who has final approval authority and who must ensure that the program benefits both the acquisition workforce and the individual employee. Funding for the employee's salary and other expenses of the sabbatical is the responsibility of the Participating Organization.

Employees approved for a paid sabbatical must sign a service obligation agreement to continue in service in the covered organizations for a period of three times the length of the sabbatical. The service obligation begins when the training is completed. Sabbaticals approved prior to the effective date of this FRN are not subject to the service obligation requirement. If an employee voluntarily leaves the covered organizations before the service obligation is completed he/she is liable for repayment of expenses incurred by the covered organizations that are associated with training during the sabbatical. Expenses do not include salary costs. The delegated sabbatical approving management official of the Participating Organization has the authority to waive this requirement.

3. Student Intern Relocation Incentive. Recruitment of students is often limited to the local commuting area of the employing organization as college students frequently cannot afford to relocate to accept student intern job offers in a commuting area different from that of the college/university they are attending or their permanent home residence. To alleviate this barrier and to further Better Buying Power 3.0 initiatives to recruit the next generation of high performers to sustain and promote professionalism in the acquisition workforce, the Head of the Participating Organization may approve relocation incentives for new student interns and relocation incentives to student interns whose worksite is in a different geographic location than that of the college/university enrolled or their permanent home residence each time the student interns return to duty at their official worksites.

F. Movement Into and From AcqDemo

1. Management-Directed Conversion into the Demonstration Project

a. Conversion from the GS Pay System. An employee who is converted into AcqDemo with his/her organization will have an automatic conversion from his/her permanent GS grade rate of pay of record at time of conversion into the new broadband system. Initial entry into the AcqDemo for covered employees will occur through a full employee protection approach that ensures each employee's initial placement into a broadband level without loss of pay.

(1) WGI Buy-Ins. Rules governing WGIs within each Participating Organization will remain in effect until an employee's conversion date. Implementation of the AcqDemo broadbanding pay structure eliminates the WGI increments of the current GS pay structure. To facilitate conversion and employee acceptance of the new system, eligible employees will receive a basic pay increase for that portion of their next WGI corresponding to the weeks of service in-step they have completed up to the effective date of their conversion so that they will not feel they are losing pay or a pay entitlement accrued under the GS system.

Employees on a Performance Improvement Plan (PIP) will remain in their current system until the conclusion of the PIP and a decision is rendered. If the PIP results in a current rating of record of satisfactory performance or better, the employees will be eligible for a WGI buy-in upon conversion. Employees will not be eligible for the WGI buy-in if their current rating of record is unacceptable at the time of conversion. Employees at step 10, or receiving retained pay at the time of conversion will not be eligible for a WGI buy-in.

(2) Career-Ladder Promotion Buy-Ins. For those GS employees in career-ladder promotion programs who are scheduled to be promoted to a higher grade and whose performance is at least fully successful, basic pay will be increased by a prorated share of the current value of the next scheduled promotion increase based upon the actual number of weeks the employee has completed towards the next scheduled promotion as of the employee's conversion date. No WGI buy-in will be made if the employee's pay is adjusted for a promotion that would be effective before the next scheduled WGI.

(3) Special salary rates. Special salary rates will no longer be applicable to demonstration project employees. Employees on special salary rates at the time of conversion will receive a new basic rate of pay computed by dividing their highest adjusted rate of basic pay (i.e., special pay rate, or if higher, the locality rate) by the special pay rate factor or the locality pay factor for their area. All employees will be eligible for the future locality pay increases of their geographic area. When conversion into the demonstration project is accompanied by a simultaneous geographic move, the employee's GS basic pay entitlements (including any locality or special rate) in the new area will be determined before converting the employee's pay to the demonstration project basic pay system. A full locality adjustment will then be added to the new basic pay rate.

(4) Employees on Term and Temporary Appointments. (a) Employees serving under term appointments at the time of conversion to the demonstration project will be converted to a modified term appointment provided they were hired for their current positions under competitive procedures. These employees will be eligible for conversion to career or career-conditional appointments in the competitive service provided they:

1—Have served two years of continuous service in the term position;

2—Were selected for the term position under competitive procedures; and

3—Are contributing at an adequate contribution level, or meeting fully successful performance objectives, or their equivalent, in non-AcqDemo performance management systems.

Converted term employees who do not meet these criteria may continue on their term appointment up to the not-to-exceed date established under their current appointment. Extensions of term appointments for employees who do not meet the above criteria may be granted after conversion in accordance with the provision of this regulation.

(b) Employees serving under temporary appointments when their organization converts to the demonstration project will be converted and may continue on their temporary appointment up to their established, current not-to-exceed date. Extensions of temporary appointments after conversion not-to exceed a total of 3 years may be granted in accordance with 5 U.S.C. 9902.

(5) Probationary Periods.

(a) Initial Probationary Period. Employees who have completed an initial probationary period prior to conversion to AcqDemo will not be required to serve a new initial probationary period. Employees who are serving an initial probationary period upon conversion to AcqDemo will serve the time remaining on their initial probationary period and may have their initial probationary period extended in accordance with DoD and demonstration project regulations and implementing issuances.

(b) Supervisory Probationary Periods. Employees transitioning to AcqDemo who are serving a supervisory probationary period upon conversion to AcqDemo will serve the time remaining on their supervisory probationary period. Converting employees who have completed a supervisory probationary period in their current position prior to conversion to AcqDemo will not be required to serve a new supervisory probationary period in that position. However, an additional supervisory probationary period of one year may be required if the employee is officially assigned to a different supervisory position that constitutes a major change in supervisory responsibilities from any previously held supervisory position.

(6) Retained Pay. If the employee's rate of basic pay exceeds the maximum rate of basic pay for the broadband level corresponding to the employee's GS grade, the employee will remain at that broadband level and will receive a retained rate. The retained rate will be the total of the employee's basic pay and locality or special pay.

b. Conversion from Other Personnel Pay Systems. Employees who enter this demonstration project from other personnel pay systems (e.g., Defense Civilian Intelligence Personnel System or an STRL Demonstration Project) due to a reorganization, mandatory conversion, Defense Base Realignment and Closure process, or other directed action will be converted into the AcqDemo via movement of their positions using an appropriate Nature of Action Code. Employees' positions will be classified based upon the position classification criteria and broadband level definitions under the AcqDemo rules and their pay, upon conversion, maintained under AcqDemo pay setting rules. In addition, the provisions of Section II.F.1(a)(4), (5), and (6) are applicable to conversions from other personnel and pay systems.

2. Non-AcqDemo Federal Employees Voluntarily Joining AcqDemo. Federal employees entering into the AcqDemo from the GS or other pay systems not as the result of a conversion will be moved into a career path and broadband level with basic pay set in accordance with AcqDemo guidance and reflective of the duties and responsibilities of the AcqDemo position and an individual's qualifications. Highest previous rate as defined in Section II.C.13 and AcqDemo internal guidance may provide an appropriate tool for establishing basic pay in this instance. The move will be described using the appropriate nature of action, e.g., promotion, reassignment, transfer, etc., as provided by the OPM's Guide to Processing Personnel Actions; the AcqDemo specified NOAC; and the AcqDemo Legal Authority Code Z2W, Public Law 111-383.

3. Movement From the Demonstration Project

a. Effect of Reorganizations. 10 U.S.C. 1762(d) provides that an AcqDemo organization that loses, due to reorganization, the one-third, two-thirds personnel demographic eligibility required for continued inclusion in AcqDemo may continue to participate in the AcqDemo project. Continued participation may be contingent upon such items as the amount of reduction in the number and/or kinds of positions to be counted for the one-third, two-thirds demographic eligibility requirement; degree of personnel involvement in an organization with an acquisition mission to acquire necessary supplies, equipment, and services to support the warfighter and DoD support staff; scope of direct support to an acquisition workforce organization or closely related functional area; and/or the primary personnel system utilized by the gaining organization.

AcqDemo organizations affected by reorganization, realignment, consolidation, or other organizational changes that may impact the one-third, two-thirds personnel demographic eligibility requirement are to contact the AcqDemo Program Manager expeditiously to discuss the workforce changes in relation to continued AcqDemo participation. The AcqDemo Program Manager will decide the additional information that needs to be included in the organization's request for continued participation. The organization will submit a request for continued participation in accordance with the DoD AcqDemo Program Office's internal implementing guidance. The AcqDemo Program Office will review the rationale for and the data supplied in support of continued participation; conduct periodic audits of the participating organizations' populations as appropriate; and request additional details or formal documentation as needed. Based on an assessment of the information provided, the AcqDemo Program Manager will approve or disapprove the participation including any pertinent comments.

b. Conversion to a Different Pay and/or Personnel System. Prior to a management directed conversion of any AcqDemo organization and its employees to a different pay and/or personnel system, a CCAS closeout appraisal may be accomplished and an out-of-cycle payout may be made. CCAS closeout and payout procedures would be followed except that funding levels for out-of-cycle payouts may be reduced on a pro rata basis if the period between the previous CCAS payout and the out-of-cycle payout was less than one year. Funding that corresponds to the general pay increase shall not form part of the pay pools for any out-of-cycle payouts. After making the out-of-cycle payout, conversion of employees covered by this demonstration project to another pay and/or personnel system shall be accomplished in accordance with the gaining system's implementing issuances.

c. Employee returns to the GS System. If a demonstration project employee is moving to a GS position, or if the project ends and each project employee must be converted back to the GS system, the procedure in Section F.3.e below will be used to translate the employee's project broadband level to an equivalent GS grade and the employee's demonstration rate of pay to an equivalent GS rate of pay. The equivalent GS grade and GS rate of pay must be determined before movement or conversion out of the demonstration project and any accompanying geographic movement, promotion, or other simultaneous action. For conversions upon termination of the project and for lateral assignments, the equivalent GS grade and rate will become the employee's actual GS grade and rate after leaving the demonstration project (before any other action). For transfers, promotions, and other actions to the GS system, the equivalent GS grade and pay rate will be used by the gaining personnel office in applying the GS pay administration rules applicable in connection with the employee's movement out of the project (e.g., promotion rules, highest previous rate rules, pay retention rules) as if the GS-equivalent grade and pay rate were actually in effect immediately before the employee left the demonstration project. The losing organization will provide an employee's equivalent GS grade and pay rate to the gaining organization upon request or on receipt of the SF-75, Request for Preliminary Employment Data, by inserting the information in Part 1, Item 9, Additional Data Requested, and returning the form to the gaining organization.

d. Employee moves to a Non-GS System. An equivalent GS grade and pay rate is determined for an employee who leaves AcqDemo for a position in a non-GS system by the gaining organization using the same calculation in Section F.3.e below as when an employee moves to a GS position. The losing organization will provide an employee's equivalent GS grade and pay rate to the gaining organization upon request or on receipt of the SF-75, Request for Preliminary Employment Data, by inserting the information in Part 1, Item 9, Additional Data Requested, and returning the form to the gaining organization. It is the responsibility of the gaining organization to establish the level of the employee's new position and the appropriate pay under the pay system for that organization. The equivalent GS grade and pay information provided may assist in this process.

e. Determining an Equivalent GS Grade. Each broadband level in this demonstration project encompasses two or more grades. An employee is determined to have a GS-equivalent grade corresponding to one of those grades according to the following rules:

(1) The employee's adjusted rate of basic pay under the demonstration project, which includes any locality payment, is compared with the step four rate in the highest applicable GS rate range. For this purpose, a GS rate range includes a rate range in:

(a) The GS base schedule;

(b) The locality rate schedule for the locality pay area in which the position is located; or

(c) The appropriate special rate schedule for the employee's occupational series, as applicable. If the series is a two-grade-interval series, only odd-numbered grades are considered below GS-11.

(2) If the employee's adjusted demonstration project rate of pay equals or exceeds the applicable step four rate of the highest GS grade in the broadband, the employee is converted to that grade.

(3) If the employee's adjusted demonstration project rate of pay is lower than the applicable step four rate of the highest grade, the adjusted rate is compared with the step four rate of the second-highest grade in the employee's broadband. If the employee's adjusted rate equals or exceeds the step four rate of the second-highest grade, the employee is converted to that grade.

(4) This process is repeated for each successively lower grade in the broadband until a grade is found in which the employee's adjusted demonstration project rate of pay equals or exceeds the applicable step four rate of the grade. The employee is then converted at that grade. If the employee's adjusted rate of pay is below the step four rate of the lowest grade in the broadband, the employee is converted to the lowest grade.

(5) Exception: An employee will not be converted to a lower grade than the grade held by the employee immediately preceding a conversion, lateral assignment, or lateral transfer into the demonstration project, unless, since that time the employee has undergone a reduction in broadband level or reduction in pay based upon an adverse action, a contribution-based action, a reduction-in-force action, or a voluntary change to lower broadband level.

(6) Exception: If the employee's adjusted demonstration project rate exceeds the maximum rate of the grade assigned under the above-described step 4 rule but fits in the rate range for the next higher applicable grade (i.e., between step 1 and step 4), then the employee shall be converted to that next higher applicable grade).

f. Determining an Equivalent GS Rate of Pay. An employee's pay within the equivalent GS grade is set by converting the employee's demonstration project rate of pay to a GS rate of pay in accordance with the following rules:

(1) The pay conversion is done before any geographic movement or other pay-related action that coincides with the employee's movement or conversion out of the demonstration project.

(2) An employee's adjusted rate of basic pay under the demonstration project (including any locality payment) is converted to a GS rate on the highest applicable rate range for the converted GS grade. For this purpose, a GS rate range includes a rate range in:

(a) The GS base schedule,

(b) An applicable locality rate schedule, or

(c) An applicable special rate schedule.

(3) If the highest applicable GS rate range is a locality pay rate range, the employee's adjusted demonstration project rate is converted to a GS locality rate of pay. If this rate falls between two steps in the locality-adjusted schedule, the rate of pay must be set at the higher step. The converted GS unadjusted rate of basic pay would be the GS base rate corresponding to the converted GS locality rate (i.e., same step position).

(4) If the highest applicable GS rate range is a special rate range, the employee's adjusted demonstration project rate is converted to a special rate. If this rate falls between two steps in the special rate schedule, the rate must be set at the higher step. The converted GS unadjusted rate of basic pay will be the GS rate corresponding to the converted special rate (i.e., same step position).

g. Retained Pay. If an employee is receiving a retained rate under the demonstration project, the employee's GS-equivalent grade is the highest referenced grade encompassed in his/her broadband level. The employee's GS-equivalent rate of pay will equal the employee's retained rate.

h. WGI-Equivalent Increase Determination.

Service under the demonstration project is potentially creditable for WGI waiting period purposes under 5 CFR 531.405(b) upon conversion back to the GS pay system. An equivalent increase under 5 CFR 531.407(b) is considered to occur at the time of an AcqDemo:

(1) Promotion to a higher broadband level, including a zero basic pay increase (unless the promotion is cancelled and the employee's rate of basic pay is re-determined as if the promotion had not occurred), e.g., the termination of a temporary promotion.

(2) CCAS basic pay increase (including a zero increase). The date of the last equivalent increase, based on the opportunity to receive a CCAS basic pay increase, is the first day of the first pay period beginning on or after January 1.

(3) WGI buy-in and/or Career Ladder promotion buy-in granted immediately upon movement to the AcqDemo from another pay system.

(4) ACDP basic pay adjustment.

(5) Use of HPR when basic pay is set at a rate above the rate that would be established using normal AcqDemo pay setting rules.

i. Quality of Performance. The most recent CCAS annual or interim rating of record will be provided for use by the gaining activity.

G. Training for AcqDemo

1. Introduction

The key to the success or failure of the proposed demonstration project will be the training provided. This training provides not only the necessary knowledge and skills to carry out the proposed changes, but will also lead to participant commitment to the program.

2. Roles and Responsibilities

a. AcqDemo Program Office. Training for new organizations wishing to convert to the demonstration project will be provided by the DoD AcqDemo Program Office to supervisors, employees, and the administrative staff responsible for assisting managers in effecting the changeover and operation of the new system. The Program Office will be responsible for providing policy notifications as they occur.

b. Participating Organizations. Sustainment training will be the responsibility of the participating organization.

3. Conversion Training

a. Subject Matter. The elements to be covered in the orientation portion of this training will include:

(1) A description of the personnel system;

(2) How employees are converted into and out of the system;

(3) The pay adjustment and/or bonus process;

(4) The new position requirements document;

(5) The new classification system; and

(6) The Contribution-based Compensation and Appraisal System.

b. Target Audiences.

(1) Supervisors. The focus of this project on management-centered personnel administration, with increased supervisory and managerial personnel management authority and accountability, demands thorough training of supervisors and managers in the knowledge and skills that will prepare them for their new responsibilities. Training will include detailed information on the policies and procedures of the demonstration project, as well as skills training in using the classification system, position requirements document, and contribution evaluation software.

(2) Human Resources/Pay Pool Administrative Staff. Human Resources Specialists and Pay Pool Administrative Officers will play a key role in advising, training, and coaching supervisors and employees in implementing the demonstration project. This staff will receive training in the procedural and technical aspects of the project.

(3) Employees. In the months prior to implementation, the demonstration project team and Participating Organization training and career development offices will provide workforce training through various media. This training is intended to inform the workforce of project features and to prompt the development of local procedures and processes to implement the changes.

III. Evaluation Plan

A. Internal

Demonstration-authorizing legislation (5 U.S.C. 4703) mandates evaluation of the demonstration project to assess the effects of project features and outcomes. In addition, the project will be evaluated to determine the feasibility of application to other Federal Agencies. The overall Program Management evaluation will consist of two components—internal and external evaluation. The internal evaluation will be ongoing and accomplished by the staff of the AcqDemo Program Office, to include contracted resources, and the results reviewed by the Executive Council. The main purpose of the internal evaluation is to determine the effectiveness of the personnel system in meeting the needs of the Defense Acquisition Workforce.

B. External

External evaluations will be conducted on a regular basis as prescribed by the Secretary. The Secretary may designate an independent evaluator to conduct the external assessments with the results overseen by the Undersecretary of Defense (Acquisition, Technology & Logistics)/Human Capital Initiatives; and the Deputy Assistant Secretary of Defense (Civilian Personnel Policy).

C. Purpose

The evaluations are conducted to determine the effectiveness of the personnel system changes implemented. To the extent possible, strong direct or indirect relationships will be established between the demonstration project features, outcomes, mission-related changes, and personnel system effectiveness criteria. The evaluation approach uses an intervention impact model that specifies each personnel system change as an intervention, the expected effects of each intervention, the corresponding measures, and the data sources for obtaining the measures. Appendix F presents the Intervention Impact Evaluation Model to be used for this demonstration project for initiatives affecting title 5 U.S.C. and title 5 CFR.

IV. Project Duration

The Demonstration Project has been extended by statute three times as indicated below:

1. Section 813 of the Bob Stump NDAA for FY 2003 (Pub. L. 107-314, 116 Stat. 2609) extended the authority to conduct the AcqDemo until September 30, 2012;

2. Section 872 of the Ike Skelton NDAA for FY 2011 (Pub. L. 111-383, 124 Stat. 4300, 4302) extended the authority to conduct the AcqDemo Program until September 30, 2017; and

3. Section 846 of the NDAA for FY 2016 (Pub. L. 114-92) extended the termination date for the AcqDemo Project to December 31, 2020.

V. Demonstration Project Costs

The AcqDemo Project requires a cost-disciplined approach to maintain cost control. While this approach does not require cost neutrality, it does require a continued comparison with the Government-wide system to ensure an effective balance between cost, and personnel management benefits such as improved organizational communication, and greater recognition of higher contributors, leading to increased retention rates and savings in turnover costs and loss of skills. This cost-disciplined approach also requires Participating Organizations to consider and implement a logical and effective compensation management strategy, aimed at providing the appropriate level of compensation for the contribution expended in accomplishing work at an assigned level.

To promote cost accountability, project and pay pool managers are required to consider both the short-and long-term implications of pay-related decisions on payroll and benefit costs, including decisions regarding the size of pay pools and policies on developmental and promotion pay increases. To support decision making and evaluations, annual data will be collected on key cost-related matters, including spending on CRIs, developmental increases, and promotion pay increases (expressed as a percentage of total basic payroll, on both a project-wide and individual pay pool basis).

The funding parameters for contribution increases in the out-years will be determined as part of the annual project evaluation process, as well as giving consideration to any funding limitations impacting the Department. Annual funding guidance will then be reported by the Program Manager to the AcqDemo Executive Council. As part of the evaluation of the project by Participating Organizations, the AcqDemo Program Management Office, and DoD, the basic pay costs (including average basic pay, average starting salaries, overall and by employee subcategories) under the demonstration project will be tracked and compared to the basic pay costs under similar demonstration projects and under a simulation model that replicates GS spending. These evaluations will balance costs incurred against benefits gained, so that both fiscal responsibility and project success are given appropriate weight.

VI. Automation Support

One of the major goals of the demonstration project is to streamline the personnel processes to increase efficiency, effectiveness, agility, and cost discipline. Automation must play an integral role in achieving that goal. Without the necessary automation to support the interventions proposed for the demonstration project, optimal benefits cannot be realized. In addition, adequate information to support decision making must be available to managers if line management is to assume greater authority and responsibility for human resources management. Automation to support the demonstration project is required at the DoD level to facilitate processing and reporting of demonstration project personnel actions, and may be ultimately required by the Participating Organizations to assist in processing a variety of personnel-related actions in order to facilitate management processes, evaluation of interventions, and decision making. The DCPDS is the DoD's authoritative personnel data system of record and will be the primary system for personnel data used in dedicated electronic applications needed to process and evaluate a variety of actions associated with AcqDemo initiatives such as streamlined hiring and movement of employees; contribution-based appraisal compensation; accelerated compensation for developmental positions; supervisory and team leader cash differentials; staffing supplements; and sabbaticals.

VII. Required Waivers to Law and Regulations

A. General

In addition to the authorities granted by 10 U.S.C. 1762 and 5 U.S.C. 4703, the following are waivers of law and regulation that will be necessary for implementation and sustainment of the demonstration project. In due course, additional laws and regulations may be identified for a waiver request. The following waivers and adaptations of certain title 5 U.S.C. and title 5 CFR provisions are required only to the extent that these statutory and regulatory provisions limit or are inconsistent with the actions contemplated under this demonstration project. Nothing in this plan is intended to preclude the demonstration project from adopting or incorporating any law or regulation enacted, adopted, or amended after the original effective date, January 8, 1999, of this demonstration project.

B. Waivers to Title 5, U.S.C.

Chapter 5, Section 552a: Records maintained on individuals. This section is waived only to the extent required to clarify that volunteers under the Voluntary Emeritus Program are considered employees of the Federal Government for purposes of this section.

Chapter 31, Section 3111: Acceptance of volunteer service. This section is amended to allow for a Voluntary Emeritus Corps in addition to student volunteers.

Chapter 33, Subchapter I—Examination, Certification, and Appointment: Waived except for sections 3302, 3321, and 3328 to allow direct hire authority for (1) qualified candidates with bachelor's or advanced degrees required by OPM or DoD qualification standards to qualify for AWF positions in a critical acquisition career field classified to the Business and Technical Management Professional, NH, career path; (2) qualified veteran candidates for AWF positions in a critical acquisition career field classified to either the Business and Technical Management Professional, NH, career path or to the Technical Management Support, NJ, career path; (3) candidates enrolled in a program of undergraduate or graduate instruction at an institution of higher education leading to a baccalaureate degree or an advanced degree in a course of study required by OPM or DoD qualification standards or a degree the completion of which (including any additional essential credit hours in an acquisition-related field as appropriate) provides competencies, knowledge, skills, etc., directly linked to an AWF position's requirements (quality ranking factors) for one of the critical acquisition career fields; and (4) degreed candidates with superior scholastic achievement with a degree in a field of study directly linked to the qualifications, competencies, knowledge, skills, abilities, and DAWIA certifications for and duties of AWF positions in one of the critical acquisition career fields.

Chapter 33, Section 3308: Competitive service; examinations; educational requirements prohibited; exceptions to the extent necessary to accommodate the Scholastic Achievement Appointment's requirement for possession of a college degree, the completion of which provides qualifications, competencies, knowledge, skills, and abilities, directly linked to the requirements for and duties of an AWF professional position (quality ranking factors) in one of the acquisition career fields.

Chapter 33, Section 3317(a): Competitive service; certification from registers. Waived insofar as “Rule of Three” is eliminated under the demonstration project.

Chapter 33, Section 3318(a): Competitive Service, Selection from Certificate. Waived insofar as the “Rule of Three” is eliminated under the demonstration project and to provide a substitute selection process that when making final selections, qualified candidates with veterans' preference should be considered for appointments if they are found to best meet mission requirements.

Chapter 33, Section 3319: Alternative ranking and selection procedures. Waived to allow the continuation of the original AcqDemo Delegated Examining Authority published in 64 FR 1426-1492, Friday, January 8, 1999, as modified by the President's 2010 Memorandum requiring agencies to use category rating; to replace the use of veterans' preference points with “determining veterans' preference eligibility when the selecting official has identified the candidates under serious consideration for a job offer,” and to establish a process that when making final selections from the serious-consideration-for-a-job-offer group, any candidate with veterans' preference should be considered for appointments if they are found to best meet mission requirements.

Chapter 33, Section 3341: Details. Waived as necessary to extend the time limits for details.

Chapter 35, Section 3502: Order of retention. Waived as necessary to accommodate the reduction-in-force process described in this demonstration project with 3502(c) waived in its entirety.

Chapter 41, Section 4107(a): Academic degree training. Waived to the extent necessary to provide academic degree training as described for the demonstration project.

Chapter 41, Section 4108(a)-(c): Employee agreements; service after training. Waived to the extent necessary to require the employee to continue in the service of the covered organizations for the period of the required service and to the extent necessary to permit the organization to waive in whole or in part a right of recovery.

Chapter 43, Sections 4301-4305 except for 4303(e) and (f): Related to performance appraisal are waived in entirety. In turn, 4303(e) and (f) are waived only to the extent necessary to (1) substitute “broadband” for “grade” and (2) provide that moving to a lower broadband as a result of not receiving the full amount of a general pay increase because of inadequate contribution is not an action covered by the provisions of section 4303(a)-(d).

Chapter 45, Sections 4502(f): General Provisions. Waived to allow Service Acquisition Executives to approve cash awards for superior accomplishments not to exceed $25,000.

Chapter 51, Sections 5101-5113: Related to classification standards and grading. Waived in entirety except section 5104 to the extent needed to permit classification of broadband levels and factor descriptors and discriminators.

Chapter 53, Sections 5301; 5302 (8) and (9); and 5303-5305 and 5331-5336: Related to special pay and pay rates and systems. Sections 5301, 5302 (8) and (9), and 5304 are waived only to the extent necessary to allow demonstration project employees to be treated as General Schedule employees and to allow basic rates of pay under the demonstration project to be treated as scheduled rates of basic pay. Sections 5331-5336 waived to the extent necessary to allow: (1) Demonstration Project employees to be treated as GS employees; (2) to allow the provisions of this FRN pertaining to setting rates of pay; and (3) to waive sections 5335 and 5336 in their entirety.

Chapter 53, Section 5362: Grade retention. Waived in its entirety. Not applicable in the demonstration project.

Chapter 53, Section 5363: Pay retention. This waiver applies only to the extent necessary to: (1) Allow demonstration project employees to be treated as General Schedule employees; (2) provide that pay retention provisions do not apply to conversions from General Schedule special rates to demonstration project pay, as long as total pay is not reduced; (3) replace the term “grade” with “broadband level;” and (4) provide that an employee on pay retention whose contribution assessment is “Unacceptable” may have the 50 percent of the amount of the increase in the maximum rate of base pay payable for the pay band of the employee's position reduced or denied.

Chapter 53, Section 5371: Related to health care positions. This waiver applies only to the extent necessary to allow demonstration project employees to hold positions subject to Chapter 51 of title 5.

Chapter 55, Section 5545(d): Hazardous duty premium pay. Waived only to the extent necessary to allow demonstration project employees to be treated as General Schedule employees.

Chapter 57, Sections 5753, 5754, and 5755: Related to recruitment, relocation, and retention payments, and supervisory differentials. Waived to the extent necessary (1) to allow employees and positions under the demonstration project to be treated as employees and positions under the General Schedule; (2) allow management to offer a bonus to incentivize geographic mobility to a new student intern and to one whose worksite is in a different geographic location than that of the college enrolled or permanent home residence; and (3) authorize supervisory and team leader cash differentials as described for this demonstration project.

Chapter 59, Section 5941: Allowances based on living costs and conditions of environment; employees stationed outside the continental United States or Alaska. This waiver applies only to the extent necessary to provide that COLAs paid to employees under the demonstration project are paid in accordance with regulations prescribed by the President (as delegated to OPM).

Chapter 59, Section 5948: Related to physicians comparability allowances (only to the extent necessary to treat employees under the demonstration project as General Schedule employees).

Chapter 71, to the extent its provisions (e.g., 5 U.S.C. 7103(a)(12) and 7116) would prohibit management or the union from unilaterally terminating negotiations over whether the project will apply to employees represented by the union.

Chapter 71, Section 7119: To the extent it gives the Federal Service Impasses Panel jurisdiction to resolve impasses referred to it by either party or both parties during implementation of the demonstration project.

Chapter 75, Section 7512(3): Adverse actions. Waived to the extent necessary to exclude reductions in broadband level not accompanied by a reduction in pay and replace “grade” with “broadband level”.

Chapter 75, Section 7512(4): Adverse actions. Waived to the extent necessary to exclude conversions from a General Schedule special rate to demonstration project pay that do not result in a reduction in the employee's total rate of pay.

C. Waivers to Title 5, CFR

Part 300, Sections 300.601 through 300.605: Time-in-grade restrictions. Waived to eliminate time-in-grade restrictions in the demonstration project.

Parts 300-330 other than Subpart G of 5 CFR part 300: Employment. Waived to the extent necessary to allow direct hire authority for (1) qualified candidates with bachelor's or advanced degrees required by OPM or DoD qualification standards to qualify for AWF positions in a critical acquisition career field classified to the Business and Technical Management Professional, NH, career path; (2) qualified veteran candidates for AWF positions in a critical acquisition career field classified to either the Business and Technical Management Professional, NH, career path or to the Technical Management Support, NJ, career path; (3) candidates enrolled in a program of undergraduate or graduate instruction at an institution of higher education leading to a baccalaureate degree or an advanced degree in a course of study required by OPM or DoD qualification standards or a degree the completion of which (including any additional essential credit hours in an acquisition-related field as appropriate) provides competencies, knowledge, skills, etc., directly linked to an AWF position's requirements (quality ranking factors) for one of the critical acquisition career fields; and (4) degreed candidates with superior scholastic achievement in a field of study directly linked to the qualifications, competencies, knowledge, skills, abilities, and DAWIA certifications for and duties of AWF positions in one of the critical acquisition career fields.

Part 308, Volunteer service: Waived to allow volunteer service under the provisions of the Voluntary Emeritus Program described in this FRN.

Part 315, section 315.901: Statutory requirement. Waived to the extent necessary to replace “grade” with “broadband.”

Part 315, section 315.905: Length of the probationary period. Waived to the extent necessary to allow for an additional supervisory/managerial probationary period of one year when an employee is officially assigned to a different position that constitutes a major change in supervisory/managerial responsibilities.

Part 316, Section 316.301: Purpose and duration. Waived to the extent that modified term appointments may cover a maximum period of six years.

Part 316, Section 316.303: Tenure of term employees. Waived to the extent necessary to allow term employees to acquire competitive status.

Part 316, Section 316.305: Eligibility for within-grade increases. Waived in its entirety.

Part 332, Sections 332.401, Section 332.402, and Section 332.404: Order on Registers; Regular order of certification for appointment; and Order of Selection from Certificates. These sections are waived to the extent necessary to allow: (1) No rating and ranking when there are 25 or fewer qualified applicants; (2) the hiring and appointment authorities as described in this Federal Register notice; and (3) elimination of the “Rule of Three.” Veterans' preference final candidates are considered for appointments if they are found to best meet mission requirements.

Part 332, Section 332.404: Order of selection from certificates. Waived to the extent necessary to eliminate the requirement for selection using the “Rule of Three.”

Part 335, Section 335.103: Agency promotion programs. Waived to the extent necessary to extend the length of details and temporary promotions without requiring competitive procedures or numerous short-term renewals.

Part 335, Section 335.103(c): Agency promotion programs. Waived to the extent necessary to expand discretionary exemptions to agency promotion programs to include non-competitive reassignment to an AcqDemo broadband level with a maximum basic pay greater than that of a selectee's current graded position, e.g., GS, with a WGI Buy-in and/or a Career Ladder Promotion Buy-in as described in internal issuances.

Part 337, Subpart A, Section 337.101(a): Rating applicants. Waived to the extent necessary to allow referral without rating when there are 25 or fewer qualified candidates, applying veterans' preference when final candidates considered for appointments are found to best meet mission requirements.

Part 337, Subpart C, Sections 337.301 through 337.305: Alternative Rating and Selection Procedures. Waived to allow continuation of the original AcqDemo Delegated Examining Authority published in the Federal Register on Friday, January 8, 1999 (64 FR 1426-1492), as modified by the President's 2010 Memorandum requiring agencies to use category rating.

Part 340, Subpart A, Subpart B, and Subpart C: Other than fulltime career employment. These subparts are waived to the extent necessary to allow a Voluntary Emeritus Program.

Part 351, Sections 351.402 through 351.404: Competitive area, Competitive levels, and Retention register. Waived in their entirety.

Part 351, Section 351.501: Order of retention-competitive service. Waived (1) to allow no additional years of service based on contribution/performance; (2) to combine Tenure Groups I and II into one group, a new Tenure Group I for all permanent career and career-conditional employees; and (3) separate the new Tenure Group I into three categories: Tenure Group I for employees who have 12 or more months of assessed performance; Tenure Group I for employees with less than 12 months of assessed performance; and Tenure Group I—Current Unacceptable Rating of Record.

Part 351, Section 351.502: Order of retention-excepted service. Waived (1) to allow no additional years of service based on performance; (2) to combine Tenure Groups I and II into one group, a new Tenure Group I for all permanent employees; (3) separate the new Tenure Group I into three categories: Tenure Group I for employees with less than 12 months of assessed performance; and Tenure Group I—Current Unacceptable Rating of Record.

Part 351, Section 351.504: Credit for Performance. Waived in its entirety.

Part 351, Section 351.601: Order of Release from Competitive Level. Waived in its entirety.

Part 351, Section 351.701: Assignment rights involving displacement. Waived to the extent that the distinction between bump and retreat is eliminated and the placement of demonstration project employees is limited to an employee's current career path, current broadband level, and one broadband level below that is within an employee's current career path, except that a preference-eligible employee with a compensable service-connected disability of 30 percent or more may displace up to the two broadband levels below the employee's present position (or the equivalent of five General Schedule grades) below the employee's present level, and to limit the assignment rights of employees with an unacceptable performance appraisal to a position held by another employee with an unacceptable performance appraisal.

Part 362, Subparts A, B, and C: General Provisions, Internship Program, and Recent Graduates Program. Waived to the extent necessary to allow for an AWF Scholastic Achievement Appointment Authority and an AWF Student Intern Hiring Authority.

Part 410, Section 410.308(a): Training to obtain an academic degree. Waived to the extent necessary to allow the Head of a Participating Organization to provide academic degree and certificate training as needed for interns and employees holding positions allocated to acquisition career fields in order to meet AWF certification requirements.

Part 410, Section 410.309: Agreements to continue in service. Waived to the extent necessary to allow the Head of a Participating Organization to determine requirements related to continued service agreements.

Part 430, Subpart A and Subpart B: Performance Management and Performance appraisal for General Schedule, Prevailing Rate, and Certain Other Employees. Waived in its entirety including 430.208(a)(2) and (h) to accommodate CCAS and the AcqDemo RIF process.

Part 432, Sections 432.101 through 432.107: Related to performance based reduction in grade and removal actions, and definitions. Waived to the extent necessary to (1) substitute “broadband” for “grade;” (2) provide that moving to a lower broadband as a result of not receiving the full amount of a general pay increase because of inadequate contribution is not an action covered by the provisions of 5 U.S.C. 4303 and 5 CFR 432.105 and 5 CFR 432.106; (3) delete reference to critical element as all factors are critical; (4) waive section 432.105(a)(2) phrase “If an employee has performed acceptably for 1 year” to allow for “performed acceptably for 2 years from the beginning of a CIP;” (5) waive section 432.105(a)(3) to provide “within a two-year period ending on the date of the notice of proposed action”; and (6) modify to the extent that an employee may be removed, reassigned, reduced in broadband level with a reduction in pay, reduced in pay without a reduction in broadband level, and reduced in broadband level without a reduction in pay if performance does not improve to an adequate level during a reasonable improvement period.

Part 451, Subpart A, Sections 451.106(b): Agency and OPM Responsibilities. Waived to allow Service Acquisition Executives authority to grant special act awards for superior achievements to covered employees not to exceed $25,000.

Part 470, Subpart C, Section 470.315: Project modification and extension. Waived to the extent necessary to expand participation in the Voluntary Emeritus Program to allow former non-AcqDemo DoD civilian employees and former military members who served in DoD DAWIA covered acquisition positions to participate in the Program as well as former AcqDemo employees serving in DAWIA-covered acquisition positions.

Part 511, Subpart A; Subpart B; Subpart F; and Subpart G: Classification within the General Schedule. Waived in its entirety.

Part 530, Subpart C: Special Rate Schedules for Recruitment and Retention. Waived in its entirety. Demonstration project does not utilize special salary rates.

Part 531, Subpart B: Determining Rate of Basic Pay. Waived in its entirety.

Part 531, Subparts D and E: Within-grade Increases and Quality Step Increases. Waived in its entirety.

Part 531, Subpart F: Locality-Based Comparability Payments. Waived only to the extent necessary to allow demonstration project employees to be treated as General Schedule employees and to allow basic rates of pay under the demonstration project to be treated as scheduled rates of basic pay.

Part 536, Grade and Pay Retention: Waived to the extent necessary to provide that, for the purposes of applying pay retention provisions: (1) Grade retention is eliminated and there is no provision for broadband level retention allowed; (2) “grade” is replaced by “broadband level”; and (3) demonstration project employees are to be treated as General Schedule employees except under the following provisions: (a) Pay retention provisions do not apply to conversions from General Schedule special rates to demonstration project pay, as long as total pay is not reduced; (b) pay retention provisions do not apply to movements to a lower broadband level as a result of not receiving the general increase due to an annual contribution assessment of “Unacceptable”; and (c) provide that an employee on pay retention whose performance appraisal is “Unacceptable” may have the 50 percent of the amount of the increase in the maximum rate of base pay payable for the broadband level of the employee's position reduced or denied.

Part 550, Section 550.703: Severance Pay. Definition of “reasonable offer” is waived by replacing “two grade or pay levels” with “one broadband level” and “grade or pay level” with “broadband level.”

Part 550, Section 550.902: Hazard Pay. Definition of “employee” waived only to the extent necessary to allow demonstration project employees to be treated as General Schedule employees.

Part 575, Sections 575.103(a)(1), 575.203 (a)(1), and 575.303(a)(1), and Subpart D: Recruitment, relocation, and retention incentives, and supervisory differentials. Waived only to the extent necessary (1) to allow employees and positions under the demonstration project to be treated as employees and positions under the General Schedule; (2) allow management to offer a bonus to incentivize geographic mobility to a new student intern and to one whose worksite is in a different geographic location than that of the college enrolled or permanent home residence each time they return to duty at their official work site; and (3) to allow supervisory and team leader cash differentials as described for this demonstration project.

Part 591, Subpart B: Cost-of-Living Allowances and Post Differential-Non-foreign Areas. This waiver applies only to the extent necessary to allow demonstration project employees to be treated as employees under the General Schedule for the purposes of these provisions.

Part 752, Sections 752.401(a)(3) and 752.401(a)(4): Coverage. Waived to the extent necessary (1) to provide that adverse action provisions do not apply to reductions in broadband level not accompanied by a reduction in pay and (2) to replace “grade” with “broadband level.”

Part 752.401(a)(4): Coverage. Waived to the extent necessary to exclude conversions from a General Schedule special rate to demonstration project pay that do not result in a reduction in an employee's total rate of pay.

Appendix A

History of Legislative Provisions and Federal Register Notices DoD Civilian Acquisition Workforce Personnel Management Demonstration Project

A. Legislative Provisions

This demonstration project was originally authorized under section 4308 of the National Defense Authorization Act (NDAA) for Fiscal Year (FY) 1996 (Public Law (Pub. L.) 104-106, 110 Stat. 669; 10 United States Code Annotated (U.S.C.A.) 1701 note), as amended by section 845 of NDAA for FY 1998 (Pub. L. 105-85, 111 Stat.1845); section 813 of NDAA for FY 2003 (Pub. L. 107-314, 116 Stat. 2609); section 1112 of NDAA for FY 2004 (Pub. L. 108-136, 117 Stat.1634); and section 1113 of NDAA for FY 2010 (Pub. L. 111-84, 123 Stat. 2190) repealed the National Security Personnel System and directed conversion of all NSPS employees to their previous pay system by January 1, 2012. All NSPS employees formerly in AcqDemo were transitioned back to AcqDemo during the month of May 2011. On January 7, 2011, the original demonstration project authority was repealed and codified at 10 U.S.C. 1762 pursuant to section 872 of the Ike Skelton NDAA for FY 2011 (Pub. L. 111-383, 124 Stat. 4300, 4302). Through Section 867 of NDAA for FY 2017 (Pub. L. 114-328), Congress provided that the Secretary of Defense shall exercise the authorities granted to the OPM under 5 U.S.C. 4703 for purposes of the demonstration project.

B. Federal Register Notice and Subsequent Amendments

OPM approved and published the final project plan for the AcqDemo on January 8, 1999, in 64 FR 1426-1492. Since that time, six amendments have been approved and published, and one notice of intent to amend published by OPM:

1. 66 FR 28006-28007 (May 21, 2001): This amendment was published to (1) correct discrepancies in the list of occupational series included in the project and (2) authorize managers to offer a buy-in to Federal employees entering the project after initial implementation.

2. 67 FR 20192-20193 (April 24, 2002): This amendment was published to (1) make employees in the top broadband level of their career path eligible to receive a “very high” overall contribution score and (2) reduce the minimum rating period under the Contribution-based Compensation and Appraisal System (CCAS) to 90 calendar days.

3. 67 FR 44250-44256 (July 1, 2002): This amendment (1) contained a list of all organizations that are eligible to participate in the project and (2) made the resulting adjustments to the table that describes the project's workforce demographics and union representation.

4. 67 FR 63948-63949 (October 16, 2002): This notice of the intent to amend was published to propose a change in the method for determining and translating retention service credit. The proposal was overcome by the advent of the National Security Personnel System (NSPS), which was projected to replace the AcqDemo.

5. 71 FR 58638-58639 (October 4, 2006): This amendment was published to facilitate the transition of AcqDemo employees to NSPS by authorizing an out-of-cycle Contribution-based Compensation and Appraisal System payout and amending conversion-out procedures.

6. 80 FR 17109-17117 (March 31, 2015): This amendment announced the repeal and replacement of AcqDemo's original legal authorization and modified the project plan to include new provisions; updated the project plan to address changes resulting from new General Schedule regulations and operational experience; announced guidelines for a formal process for interested DoD civilian acquisition organizations to use to request approval to participate in AcqDemo; and provided notice of expansion of coverage to new or realigned organizations.

7. 81 FR 6902 (February 9, 2016): This document publishes three technical corrections to 80 FR 17109-17117 (March 31, 2015) to ensure access for the entirety of an organization to participate in AcqDemo.

Appendix B

Tables of Eligible Organizations

As a result of the success of the AcqDemo classification, contribution appraisal, and compensation strategies and the desire of the USD(AT&L) to increase participation to more evenly balance the workforce among Participating Organizations for evaluation, the organizations listed in Table 1A either applied in calendar year 2014 and have been approved to participate in the AcqDemo, or are currently in Table 1 but require an update to their listed organizational alignment.

Table 1—Eligible Organizations as of July 1, 2002
DOD component/DOD component major organizational subdivision | Organization/office symbol | Locations
DEPARTMENT OF THE AIR FORCE
Air Force Materiel Command (AFMC) | Aeronautical System Center (ASC) | Wright-Patterson AFB, OH and all other locations.
AFMC | Air Armament Center (AAC)(except comparison group at Eglin AFB, FL) | Eglin AFB, FL and all other locations.
AFMC | Air Force Flight Test Center (AFFTC) | Edwards AFB, CA and all other locations.
AFMC | Arnold Engineering Development Center (AEDC) | Arnold AFB, TN and all other locations.
AFMC | Electronic Systems Center (ESC) | Hanscom AFB, MA and all other locations.
AFMC | HQ AFMC | Wright-Patterson AFB, OH and all other locations.
AFMC | Ogden Air Logistics Center (OO-ALC) | Hill AFB, UT and all other locations.
AFMC | Oklahoma City Air Logistics Center (OC-ALC) | Tinker AFB, OK and all other locations.
AFMC | Warner Robins Air Logistics Center (WR-ALC) | Warner Robins AFB, GA and all other locations.
Air Force Space Command (AFSPC) | HQ AFSPC | Peterson AFB, CO and all other locations.
AFSPC | Space and Missile Center (SMC) | Los Angeles, CA and all other locations.
Miscellaneous Air Force | Contracting Organizations | All locations in the National Capital Region.
Secretary of the Air Force | Assistant Secretary of the Air Force (Acquisition) (SAF/AQ) and Space Acquisition Organization | Pentagon, Arlington, VA and all other locations.
DEPARTMENT OF THE ARMY
Army Acquisition Executive Support Agency (AAESA) | Headquarters, Research, Development, and Acquisition Information Systems Activity (RDAISA); Army Digitization Office (ADO); Acquisition Career Management Office; Contract Support Agency (CSA); Joint Simulations (JSIMS); Leavenworth Support; Management Support Pentagon Support; Training Group | Orlando, FL; Alexandria, VA; Ft. Belvoir, VA; Falls Church, VA; Pentagon, Arlington, VA; Radford, VA; and all other locations.
AAESA | Program Executive Office (PEO) Air and Missile Defense (See Note 1) | Huntsville, AL; Pentagon, Arlington, VA; and all other locations.
AAESA | Program Executive Office Ammo (See Note 1) | All locations.
AAESA | Program Executive Office Aviation (AVN) (See Note 1) | Huntsville, AL; Pentagon, Arlington, VA; and all other locations.
AAESA | Program Executive Office Chemical/Biological Defense (See Note 1) | All locations.
AAESA | Program Executive Office Command, Control, and Communication Systems (C3S) | Huntsville, AL; El Segundo, CA; Tallahassee, FL; Ft. Wayne, IN; Ft. Leavenworth, KS; Seoul, Korea; Yong San, Korea; Ft. Monmouth, NJ; White Sands Missile Range, NM; Ft. Sill, OK; Ft. Hood, TX; Ft. Bliss, TX: Ft. Belvoir, VA; McLean, VA; Pentagon, Arlington, VA; and all other locations.
AAESA | Program Executive Office CS/CSS (See Note 1) | All locations.
AAESA | Program Executive Office Ground Combat Support Systems (GCSS) (See Note 1) | Picatinny Arsenal, NJ; Warren, MI; Pentagon, Arlington, VA; Washington, DC; and all other locations.
AAESA | Program Executive Officer Intelligence, Electronic Warfare, and Sensors (IEW&S) (See Notes 1 and 2) | Ft. Monmouth, NJ; Ft. Belvoir, VA; and all other locations.
AAESA | Program Executive Office/Program Management (PM) Joint Simulation System (See Note 1) | Orlando, FL; and all other locations.
AAESA | Program Executive Office National Missile Defense Joint Program Office (See Note 1) | All locations.
AAESA | Program Executive Office Soldier (See Note 1) | All locations.
AAESA | Program Executive Office Standard Army Management Information Systems (STAMIS) (See Note 1) | Ft. Knox, KY; Ft. Monmouth, NJ; Ft. Belvoir, VA; Ft. Lee, VA; Ft. Monroe, VA; and all other locations.
AAESA | Program Executive Officer Tactical Missiles (See Note 1) | Huntsville, AL; Pentagon, Arlington, VA; Washington, DC; and all other locations.
AAESA | Program Management (PM) Chemical Demilitarization | Aberdeen Proving Ground, MD; Pentagon, Arlington, VA; Washington, DC; and all locations.
AAESA | Program Management (PM) Joint Program for Biological Defense | Aberdeen Proving Ground, MD; Ft. Detrick, MD; Ft. Ritchie, MD; Falls Church, VA; and all locations.
Army Materiel Command (AMC) | Headquarters—Acquisition | Alexandra, VA and all locations.
AMC | AMC Headquarters Staff Support Activities | Nahbohnch, Germany; Rock Island, IL; Yong San, Korea; Aberdeen Proving Ground, MD; Alexandria, VA; and all other locations.
AMC | Installations and Services Activity; Intelligence and Technology Security Activity; International Cooperative Program Activity; Logistics Support Activity; Schools of Engineering and Logistics; Separate Reporting Activities: Field Assistance in Science and Technology; Surety Field Activity; Systems Analysis Activity (See Note 2) | All locations.
AMC | Aviation and Missile Command (AMCOM) (See Note 3) | All locations.
AMC | Communications-Electronics Command (CECOM) (See Note 3) | All locations.
AMC | Operations Support Command (See Note 3) | All locations.
AMC | Security Assistance Command (See Note 2) | All locations.
AMC | Simulation, Training, and Instrumentation Command (STRICOM) (See Note 3) | All locations.
AMC | Soldier and Biological Chemical Command (SBCCOM) (See Note 3) | All locations.
AMC | Tank-Automotive and Armaments Command (TACOM) (See Note 3) | All locations.
Headquarters, Department of the Army (HQDA) | Office of the Auditor General; Office Surgeon General; G1; G2; G3; G4; G6; G8 | Pentagon, Arlington, VA.
HQDA | Army Contracting Agency | All locations.
Office of the Assistant Secretary of the Army (Financial Management and Comptroller) | Cost and Economic Analysis Center; SAFM-BUI | Falls Church, VA; Pentagon, Arlington, VA; and all other locations.
Office of the Assistant Secretary of the Army (Acquisition, Logistics, and Technology) | Director of Assessment and Evaluation (SARD-ZD); Deputy Assistant Secretary of the Army for Logistics (SARD-ZL); Deputy Assistant Secretary for Plans/Programs/Policy (SARD-ZR); Deputy Assistant Secretary of the Army for Procurement (SARD-ZP); Deputy Assistant Secretary for Research and Technology (SARD-ZT); Deputy for Systems Management (SARD-ZS); Management Support; SACO and associated offices | Ft. Belvoir, VA; Falls Church, VA; Pentagon, Arlington, VA; Radford, VA; and all other locations.
Medical Command (MEDCOM) | Healthcare Acquisition Activity, MEDCOM Acquisition Activity | Augusta, GA; Honolulu, HI; El Paso, TX; San Antonio, TX; Seattle, WA; Walter Reed Army Medical Center, Washington, DC; Landstuhl, Germany.
MEDCOM | Medical Research and Materiel Command (MRMC) (See Note 3) | Ft. Rucker, AL; Natick, MA; Aberdeen Proving Ground, MD; Ft. Detrick, MD; Washington, DC.
MEDCOM | Medical Department Activity | Ft. Greeley, AK; Ft. Richardson, AK; Ft. Wainwright, AK; Ft. Huachuca, AZ; Ft. Carson, CO; Heidelberg, Germany; Ft. Campbell, KY; West Point, NY; Ft. Jackson, SC; Ft. Hood, TX.
MEDCOM | Army Medical Centers | Honolulu, HI; Ft. Bragg, NC; San Antonio, TX; Tacoma, WA; Washington, DC.
MEDCOM | Center for Health Promotion and Preventive Medicine | Aberdeen Proving Ground, MD.
U.S. Army Eighth Army (EUSA) | Contracting Command Korea/EAKC | Seoul, Korea and all other locations.
EUSA | Troop Command | Seoul, Korea and all other locations.
U.S. Army Test and Evaluation Command (ATEC) | HQ, ATEC | Alexandria, VA.
ATEC | Operational Test Command (OTC) | Ft. Hood, TX and all other locations.
ATEC | Army Evaluation Center (AEC) | Alexandria, VA and all other locations.
ATEC | Developmental Test Command (DTC) | Aberdeen Proving Ground, MD and all other locations.
Headquarters, Department of the Army (HQDA) | Defense Supply Services Washington (DSSW)/Joint-DSSW | Alexandria, VA; Ft. Belvoir, VA; Falls Church, VA; Washington, DC.
National Guard Bureau (NGB) (See Note 4) | Program Executive Office/Program Management RCAS, NGB-RCS-RA | Arlington, VA.
Joint Activities | Information Management Support Center | Pentagon, Arlington, VA and all other locations.
Military Traffic Management Command (MTMC) | HQ, MTMC | Alexandria, VA.
MTMC | MTAQ | Falls Church, VA and all other locations.
MTMC | PM Global Freight Management System | Alexandria, VA.
MTMC | 598th Transportation Terminal Group; 599th Transportation Terminal Group; 836th Transportation Terminal Group Deployment Support Command. | Yokohama, Japan; Rotterdam, Netherlands; Oahu, HI; Fort Eustis, VA; and all other locations.
Space and Missile Defense Command (SMDC) | SMDC (See Note 1) | Huntsville, AL; Kwajalein Atoll, Marshall Islands; Colorado Springs, CO; White Sands Missile Range, NM; Arlington, VA; Fairfax, VA; all other locations.
Training and Doctrine Command (TRADOC) | Headquarters, TRADOC Acquisition Directorate and Small and Disadvantaged Business Utilization Office | Ft. Monroe, VA.
TRADOC | Directorate of Contracting and TRADOC Contracting Activity | Ft. Eustis, VA.
TRADOC | Directorate of Contracting and Mission Contracting Activity | Ft. Leavenworth, KS.
TRADOC | Directorate of Contracting and Mission Contracting Activity | Ft. Lee, VA.
TRADOC | Directorates of Contracting | McClellan, AL; Rucker, AL; Ft. Huachuca, AZ; Presidio at Monterey, CA; Ft. Benning, GA; Ft. Gordon, GA; Ft. Knox, KY; Ft. Leonard Wood, MO; Ft. Sill, OK; Carlisle Barracks, PA; Ft. Jackson, SC; Ft. Bliss, TX; Ft. Lee, VA.
Corps of Engineers (COE) | Headquarters | Washington, DC.
COE | Regional Headquarters | All locations.
COE | Division, Directorates of Contracting | All locations.
COE | District Contracting Offices | All locations.
COE | Transatlantic Programs Center, Directorate of Contracting | All locations.
COE | Humphreys Engineering Center Support Activity, Contracting Office | All locations.
COE | Marine Design Center | All locations.
Intelligence and Security Command | 704 Military Brigade, Headquarters and Headquarters Company; 718th Military Group; HQ, U.S. Army (USA) Intelligence Security Command; USA Element National Security Agency (NSA); USA Foreign Counter Intelligence (CI) Activity; USA Land Information Warfare; USA National Ground Intelligence Center (See Note 2) | All locations.
Criminal Investigation Command | Headquarters | Ft. Belvoir, VA and all other locations.
U.S. Army Europe and 7th Army (USAREUR) | Wiesbaden Contracting Center | Wiesbaden, Germany.
USAREUR | USA Contracting Command Europe | Brussels, Belgium; Bad Kreuznach, Germany; Grafenwohr, Germany; Seckenheim, Germany; Wiesbaden, Germany; Wuerzburg, Germany; Vicenza, Italy; and all other locations.
USAREUR | USA Transportation Management Center | Grafenwoehr, Germany.
USAREUR | Southern European Task Force | Vicenza, Italy.
USAREUR | 21st Theater Army Area Command | Kaiserslautern, Germany.
USAREUR | V Corps | Heidelberg, Germany.
USAREUR | 7th Army Training Command | Grafenwoehr, Germany.
USAREUR | 26th Support Group | Heidelberg, Germany.
Forces Command (FORSCOM) | U.S. Army Garrisons (USAGs) | Ft. Carson, CO; Ft. McPherson, GA; Ft. Stewart, GA; Ft. Riley, KS; Ft. Campbell, KY; Ft. Polk, LA; Ft. Bragg, NC; Ft. Hood, TX; Ft. Dix, NJ; Ft. Drum, NY; Ft. Lewis, WA; Ft. McCoy, WI.
FORSCOM | Reserve Command | All locations.
FORSCOM | Signal Command | Ft. Huachuca, Arizona and all other locations.
FORSCOM | First Army; Third Army; Fifth Army | All locations.
U.S. Military Academy | West Point (See Note 5) | West Point, NY.
Military District of Washington | 3rd U.S. Infantry; 12th Aviation Battalion; Army Signal Activity; Arlington National Cemetery; Joint Personal Property Shipping Office; U.S. Army Band; White House Transportation Agency | All locations.
U.S. Army National Guard Bureau (ANGB) | USPFO Activity (See Note 3) | All locations.
ANGB | State Area Command (See Note 3) | All locations.
Southern Command | U.S. Army Element, Headquarters Southern Command | Miami, FL and all other locations.
Recruiting Command | USA Recruiting Support Battalions | Fort Knox, KY and all other locations.
Military Entrance Processing Command (MEPCOM) | Headquarters, USA, MEPCOM | North Chicago, IL.
Total Army Personnel Command | Information System Agency, Army Reserve Personnel Center | St. Louis, MO.
U.S. Army Pacific (USARPAC) | HQ, USARPAC; and subordinate command/installations | All locations.
Office of the Secretary of the Army | Immediate Office of the Secretary of the Army | Pentagon, Arlington, VA and all other locations.
Office of the Secretary of the Army | Office of the Administrative Assistant to the Secretary of the Army | Pentagon, Arlington, VA and all other locations.
Office of the Secretary of the Army | Office of the Chief of Legislative Liaison | Pentagon, Arlington, VA and all other locations.
Office of the Secretary of the Army | Office of Small and Disadvantaged Business Utilization | Pentagon, Arlington, VA and all other locations.
Office of the Secretary of the Army | Office of Director, Information Systems for Command Control, Communications, and Computers | Pentagon, Arlington, VA and all other locations.
Field Operating Offices of the Office of the Secretary of the Army | Army Broadcasting Service | Alexandria, VA.
Field Operating Offices of the Office of the Secretary of the Army | Cost and Economic Analysis Agency | Arlington, VA and all other locations.
Field Operating Offices of the Office of the Secretary of the Army | Army Safety Center | Ft. Rucker, AL and all other locations.
Field Operating Offices of the Office of the Secretary of the Army | USA War College (See Note 5) | Carlisle Barracks, PA and all other locations.
Field Operating Offices of the Office of the Secretary of the Army | Communication Electronic Service Office | Alexandria, VA and all other locations.
Special Operations Command | Office of the Acquisition Executive and all associated PEOs and PMs | All locations.
Joint Activities | Army Visual Information Center | Pentagon, Arlington, VA and all other locations.
Joint Activities | Defense Acquisition University (DAU) (See Note 5) | Ft. Belvoir, VA.
DEPARTMENT OF THE NAVY
Navy
Assistant Secretary of the Navy (Research, Development, and Acquisition) | (ASN(RD&A)) | Arlington, VA.
Navy International Program Office (NIPO) | NIPO | Arlington, VA.
Naval Supply Systems Command (NAVSUP) | Fleet and Industrial Supply Center, Puget Sound | Bremerton, WA.
NAVSUP | Fleet and Industrial Supply Center | San Diego, CA.
Naval Sea Systems Command (NAVSEA) | TEAM CX (Surface Ship Directorate (SEA 91), Program Executive Office Aircraft Carriers, and Program Executive Office Expeditionary Warfare) | Arlington, VA.
Marine Corps
Marine Corps Systems Command (MARCORSYSCOM) | Amphibious Vehicle Test Bed (AVTB); Marine Corps Tactical Systems Support Activity (MCTSSA) | Camp Pendleton, CA.
MARCORSYSCOM | Headquarters, Marine Corps Systems Command (MARCORSYSCOM); CSLE; Program Support Section | Albany, GA; Rock Island, IL; Picatinny Arsenal, NJ; Warren, MI; Quantico, VA.
DEPARTMENT OF DEFENSE
Office of the Secretary of Defense Office of the Under Secretary of Defense for Acquisition, Logistics, and Technology (USD(AT&L)) | ATSD (NCB); DIR, Admin; DIR, API; DDR&E; DIR, DP; DSB; DUSD (ES); DUSD (AR); DUSD (AT); DUSD (IA&I); DUSD (I&CP); DUSD (L); DIR, S&TS; DIR, TSE&E; Spec Prog; SADBU | Pentagon, Arlington, VA.
Defense Advanced Research Projects Agency (DARPA) | All (See Note 5) | Arlington, VA.
Defense Logistics Agency | All | All locations.
Missile Defense Agency | All | Arlington, VA.
Defense Contract Management Agency (DCMA) | All | All locations.
Defense Threat Reduction Agency (DTRA) | All | Arlington, VA; Ft. Belvoir, VA.
Defense Information Systems Agency | PM DISN System Integration Project | Falls Church, VA.
Note 1: Includes all associated PMs and liaison representatives.
Note 2: Excludes Defense Civilian Intelligence Personnel System positions.
Note 3: Excludes positions covered by another demonstration project that is operating or under development within DoD.
Note 4: Only title 5 National Guard Bureau positions are eligible to be included in this demonstration.
Note 5: Excludes Administratively Determined pay plan employees.

Table 1A—Eligible Organizations Updated and Approved in Calendar Year 2015
DOD component/DOD component major organizational subdivision | Organization/office symbol | Locations
AIR FORCE
Air Force Materiel Command (AFMC) | Air Armament Complex (AAC) | Eglin AFB, FL and all other locations.
AFMC | Air Force Life Cycle Management Center | All locations.
AFMC | Air Force Test Center (AFTC) | Edwards AFB, CA and all other locations.
AFMC | Air Force Nuclear Weapons Center | Kirtland AFB, NM.
AFMC | Air Force Sustainment Center | All locations.
Air Force Operational Test and Evaluation Center (AFOTEC) | All | Kirtland AFB, NM and all other locations.
Miscellaneous Air Force | Contracting Organizations | All locations.
NAVY
Naval Sea Systems Command (NAVSEA) | Headquarters, Program Executive Office (PEO) Ships, PEO Subs, PEO LCS, PEO IWS and PEO Carriers | All locations.
Naval Air Systems Command (NAVAIR) | NAVAIR Headquarters and associated PEO workforce | All locations.
Space and Naval Warfare Systems Command | Headquarters and PEOs | All locations.
Strategic Systems Programs (SSP) | SSP | Washington, DC (WNY) and all locations.
DEPARTMENT OF DEFENSE
Defense Acquisition University (DAU) | Defense Acquisition University (DAU) ¹³ | All locations.
Missile Defense Agency (MDA) | All | All locations.
Defense Test Resource Management Center (DTRMC) | All | Arlington, VA.
Washington Headquarters Services (WHS) | Acquisition Directorate | Arlington, VA.
JOINT SERVICES
U.S. Special Operations Command | Office of the Acquisition Executive and all associated PEOs and PMs | All locations.
U.S. Transportation Command | Office of the Acquisition Executive and all associated PEOs and PMs | All locations.

Appendix C

Information as of August 25, 2016

¹³ Excludes administratively determined pay plan employees.

Series Included in the DoD Acquisition Workforce Personnel Demonstration Project
Occupational series number | Occupational series title
BUSINESS MANAGEMENT & TECHNICAL MANAGEMENT PROFESSIONAL (NH)
0011 | BOND SALES PROMOTION.
0017 | EXPLOSIVES SAFETY.
0018 | SAFETY AND OCCUPATIONAL HEALTH MANAGEMENT.
0020 | COMMUNITY PLANNING.
0023 | OUTDOOR RECREATION PLANNING.
0025 | PARK RANGER.
0028 | ENVIRONMENTAL PROTECTION SPECIALIST.
0030 | SPORTS SPECIALIST.
0050 | FUNERAL DIRECTING.
0062 | CLOTHING DESIGN.
0072 | FINGERPRINT IDENTIFICATION.
0080 | SECURITY ADMINISTRATION.
0089 | EMERGENCY MANAGEMENT.
0095 | FOREIGN LAW SPECIALIST.
0099 | GENERAL STUDENT TRAINEE.
0101 | SOCIAL SCIENCE.
0106 | UNEMPLOYMENT INSURANCE.
0110 | ECONOMIST.
0130 | FOREIGN AFFAIRS.
0131 | INTERNATIONAL RELATIONS.
0135 | FOREIGN AGRICULTURAL AFFAIRS.
0136 | INTERNATIONAL COOPERATION.
0140 | WORKFORCE RESEARCH AND ANALYSIS.
0142 | WORKFORCE DEVELOPMENT.
0150 | GEOGRAPHY.
0160 | CIVIL RIGHTS ANALYSIS.
0170 | HISTORY.
0180 | PSYCHOLOGY.
0184 | SOCIOLOGY.
0185 | SOCIAL WORK.
0188 | RECREATION SPECIALIST.
0190 | GENERAL ANTHROPOLOGY.
0193 | ARCHEOLOGY.
0199 | SOCIAL SCIENCE STUDENT TRAINEE.
0201 | HUMAN RESOURCES MANAGEMENT.
0241 | MEDIATION.
0243 | APPRENTICESHIP AND TRAINING.
0244 | LABOR MANAGEMENT RELATIONS EXAMINING.
0260 | EQUAL EMPLOYMENT OPPORTUNITY.
0299 | HUMAN RESOURCES MANAGEMENT STUDENT TRAINEE.
0301 | MISCELLANEOUS ADMINISTRATION AND PROGRAM.
0306 | GOVERNMENT INFORMATION.
0308 | RECORDS AND INFORMATION MANAGEMENT.
0340 | PROGRAM MANAGEMENT.
0341 | ADMINISTRATIVE OFFICER.
0343 | MANAGEMENT AND PROGRAM ANALYSIS.
0346 | LOGISTICS MANAGEMENT.
0360 | EQUAL OPPORTUNITY COMPLIANCE.
0391 | TELECOMMUNICATIONS.
0399 | ADMINISTRATION AND OFFICE SUPPORT STUDENT TRAINEE.
0401 | GENERAL NATURAL RESOURCES MANAGEMENT AND BIOLOGICAL SCIENCES.
0403 | MICROBIOLOGY.
0405 | PHARMACOLOGY.
0408 | ECOLOGY.
0410 | ZOOLOGY.
0413 | PHYSIOLOGY.
0414 | ENTOMOLOGY.
0415 | TOXICOLOGY.
0430 | BOTANY.
0434 | PLANT PATHOLOGY.
0435 | PLANT PHYSIOLOGY.
0437 | HORTICULTURE.
0440 | GENETICS.
0454 | RANGELAND MANAGEMENT.
0457 | SOIL CONSERVATION.
0460 | FORESTRY.
0470 | SOIL SCIENCE.
0471 | AGRONOMY.
0480 | FISH AND WILDLIFE ADMINISTRATION.
0482 | FISH BIOLOGY.
0485 | WILDLIFE REFUGE MANAGEMENT.
0486 | WILDLIFE BIOLOGY.
0487 | ANIMAL SCIENCE.
0499 | BIOLOGICAL SCIENCE STUDENT TRAINEE.
0501 | FINANCIAL ADMINISTRATION AND PROGRAM.
0505 | FINANCIAL MANAGEMENT.
0510 | ACCOUNTING.
0511 | AUDITING.
0512 | INTERNAL REVENUE AGENT.
0526 | TAX SPECIALIST.
0560 | BUDGET ANALYSIS.
0599 | FINANCIAL MANAGEMENT STUDENT TRAINEE.
0601 | GENERAL HEALTH SCIENCE.
0602 | MEDICAL OFFICER.
0603 | PHYSICIAN ASSISTANT.
0610 | NURSE.
0630 | DIETICIAN AND NUTRITIONIST.
0631 | OCCUPATIONAL THERAPIST.
0633 | PHYSICAL THERAPIST.
0635 | KINESIOTHERAPY THERAPIST.
0637 | MANUAL ARTS THERAPIST.
0639 | EDUCATIONAL THERAPIST.
0644 | MEDICAL TECHNOLOGIST.
0660 | PHARMACIST.
0662 | OPTOMETRIST.
0665 | SPEECH PATHOLOGY AND AUDIOLOGY.
0668 | PODIATRIST.
0669 | MEDICAL RECORDS ADMINISTRATION.
0671 | HEALTH SYSTEMS SPECIALIST.
0680 | DENTAL OFFICER.
0690 | INDUSTRIAL HYGIENE.
0699 | MEDICAL AND HEALTH STUDENT TRAINEE.
0701 | VETERINARY MEDICAL SCIENCE.
0799 | VETERINARY STUDENT TRAINEE.
0801 | GENERAL ENGINEERING.
0803 | SAFETY ENGINEERING.
0804 | FIRE PROTECTION ENGINEERING.
0806 | MATERIALS ENGINEERING.
0807 | LANDSCAPE ARCHITECTURE.
0808 | ARCHITECTURE.
0810 | CIVIL ENGINEERING.
0819 | ENVIRONMENTAL ENGINEERING.
0830 | MECHANICAL ENGINEERING.
0840 | NUCLEAR ENGINEERING.
0850 | ELECTRICAL ENGINEERING.
0854 | COMPUTER ENGINEERING.
0855 | ELECTRONICS ENGINEERING.
0858 | BIOMEDICAL ENGINEERING.
0861 | AEROSPACE ENGINEERING.
0871 | NAVAL ARCHITECTURE.
0880 | MINING ENGINEERING.
0881 | PETROLEUM ENGINEERING.
0890 | AGRICULTURAL ENGINEERING.
0893 | CHEMICAL ENGINEERING.
0896 | INDUSTRIAL ENGINEER.
0899 | ENGINEERING AND ARCHITECTURE STUDENT TRAINEE.
0901 | GENERAL LEGAL AND KINDRED ADMINISTRATION.
0904 | LAW CLERK.
0905 | GENERAL ATTORNEY.
0950 | PARALEGAL SPECIALIST.
0958 | EMPLOYEE BENEFITS LAW.
0965 | LAND LAW EXAMINING.
0967 | PASSPORT AND VISA EXAMINING.
0987 | TAX LAW SPECIALIST.
0991 | WORKERS' COMPENSATION CLAIMS EXAMINING.
0993 | RAILROAD RETIREMENT CLAIMS EXAMINING.
0996 | VETERANS CLAIMS EXAMINING.
0999 | LEGAL OCCUPATIONS STUDENT TRAINEE.
1001 | GENERAL ARTS AND INFORMATION.
1008 | INTERIOR DESIGN.
1010 | EXHIBITS SPECIALIST.
1015 | MUSEUM CURATOR.
1016 | MUSEUM SPECIALIST.
1020 | ILLUSTRATOR.
1035 | PUBLIC AFFAIRS.
1040 | LANGUAGE SPECIALIST.
1056 | ART SPECIALIST.
1060 | PHOTOGRAPHY.
1071 | AUDIOVISUAL PRODUCTION.
1082 | WRITING AND EDITING.
1083 | TECHNICAL WRITING AND EDITING.
1084 | VISUAL INFORMATION.
1099 | INFORMATION AND ARTS STUDENT TRAINEE.
1101 | GENERAL BUSINESS AND INDUSTRY.
1102 | CONTRACTING.
1103 | INDUSTRIAL PROPERTY MANAGEMENT.
1104 | PROPERTY DISPOSAL.
1109 | GRANTS MANAGEMENT.
1130 | PUBLIC UTILITIES SPECIALIST.
1140 | TRADE SPECIALIST.
1144 | COMMISSARY MANAGEMENT.
1145 | AGRICULTURE PROGRAM SPECIALIST.
1146 | AGRICULTURAL MARKETING.
1147 | AGRICULTURAL MARKET REPORTING.
1150 | INDUSTRIAL SPECIALIST.
1160 | FINANCIAL ANALYSIS.
1163 | INSURANCE EXAMINING.
1165 | LOAN SPECIALIST.
1169 | INTERNAL REVENUE OFFICER.
1170 | REALTY.
1171 | APPRAISING.
1173 | HOUSING MANAGEMENT.
1176 | BUILDING MANAGEMENT.
1199 | BUSINESS AND INDUSTRY STUDENT TRAINEE.
1210 | COPYRIGHT.
1220 | PATENT ADMINISTRATION.
1221 | PATENT ADVISER.
1222 | PATENT ATTORNEY.
1223 | PATENT CLASSIFYING.
1224 | PATENT EXAMINING.
1226 | DESIGN PATENT EXAMINING.
1299 | COPYRIGHT AND PATENT STUDENT TRAINEE.
1301 | GENERAL PHYSICAL SCIENCE.
1306 | HEALTH PHYSICS.
1310 | PHYSICS.
1313 | GEOPHYSICS.
1315 | HYDROLOGY.
1320 | CHEMISTRY.
1321 | METALLURGY.
1330 | ASTRONOMY AND SPACE SCIENCE.
1340 | METEOROLOGY.
1350 | GEOLOGY.
1360 | OCEANOGRAPHY.
1370 | CARTOGRAPHY.
1372 | GEODESY.
1373 | LAND SURVEYING.
1380 | FOREST PRODUCTS TECHNOLOGY.
1382 | FOOD TECHNOLOGY.
1384 | TEXTILE TECHNOLOGY.
1386 | PHOTOGRAPHIC TECHNOLOGY.
1397 | DOCUMENT ANALYSIS.
1399 | PHYSICAL SCIENCE STUDENT TRAINEE.
1410 | LIBRARIAN.
1412 | TECHNICAL INFORMATION SERVICES.
1420 | ARCHIVIST.
1499 | LIBRARY AND ARCHIVES STUDENT TRAINEE.
1501 | GENERAL MATHEMATICS.
1510 | ACTUARIAL SCIENCE.
1515 | OPERATIONS RESEARCH.
1520 | MATHEMATICS.
1529 | MATHEMATICAL STATISTICS.
1530 | STATISTICS.
1540 | CRYPTOGRAPHY.
1541 | CRYPTANALYSIS.
1550 | COMPUTER SCIENCE.
1599 | MATHEMATICS AND STATISTICS STUDENT TRAINEE.
1601 | EQUIPMENT, FACILITIES, AND SERVICES.
1630 | CEMETARY ADMINISTRATION SERVICES.
1640 | FACILITY OPERATIONS SERVICES.
1654 | PRINTING SERVICES.
1667 | FOOD SERVICES.
1670 | EQUIPMENT SERVICES.
1699 | EQUIPMENT, FACILITIES, AND SERVICES STUDENT TRAINEE.
1701 | GENERAL EDUCATION AND TRAINING.
1702 | EDUCATION AND TRAINING.
1710 | EDUCATION AND VOCATIONAL TRAINING.
1712 | TRAINING INSTRUCTION.
1715 | VOCATIONAL REHABILITATION.
1720 | EDUCATION PROGRAM.
1725 | PUBLIC HEALTH EDUCATOR.
1730 | EDUCATION RESEARCH.
1740 | EDUCATION SERVICES.
1750 | INSTRUCTIONAL SYSTEMS.
1799 | EDUCATION STUDENT TRAINEE.
1801 | GENERAL INSPECTION, INVESTIGATION, ENFORCEMENT, AND COMPLIANCE.
1802 | COMPLIANCE INSPECTION AND SUPPORT.
1810 | GENERAL INVESTIGATION.
1822 | MINE SAFETY AND HEALTH INSPECTION.
1825 | AVIATION SAFETY.
1849 | WAGE AND HOUR INVESTIGATION.
1862 | CONSUMER SAFETY INSPECTION.
1863 | FOOD INSPECTION.
1889 | IMPORT COMPLIANCE.
1895 | CUSTOMS AND BORDER PROTECTION.
1899 | INVESTIGATION STUDENT TRAINEE.
1910 | QUALITY ASSURANCE.
1980 | AGRICULTURAL COMMODITY GRADING.
1999 | QUALITY INSPECTION STUDENT TRAINEE.
2001 | GENERAL SUPPLY.
2003 | SUPPLY PROGRAM MANAGEMENT.
2010 | INVENTORY MANAGEMENT.
2030 | DISTRIBUTION FACILITIES AND STORAGE MANAGEMENT.
2032 | PACKAGING.
2099 | SUPPLY STUDENT TRAINEE.
2101 | TRANSPORTATION SPECIALIST.
2110 | TRANSPORTATION INDUSTRY ANALYSIS.
2121 | RAILROAD SAFETY.
2123 | MOTOR CARRIER SAFETY.
2125 | HIGHWAY SAFETY.
2130 | TRAFFIC MANAGEMENT.
2150 | TRANSPORTATION OPERATIONS.
2152 | AIR TRAFFIC CONTROL.
2161 | MARINE CARGO.
2181 | AIRCRAFT OPERATIONS.
2183 | AIR NAVIGATION.
2199 | TRANSPORTATION STUDENT TRAINEE.
2210 | INFORMATION TECHNOLOGY MANAGEMENT.
2299 | INFORMATION TECHNOLOGY STUDENT TRAINEE
TECHNICAL MANAGEMENT SUPPORT (NJ)
0019 | SAFETY TECHNICIAN.
0021 | COMMUNITY PLANNING TECHNICIAN.
0102 | SOCIAL SCIENCE AID AND TECHNICIAN.
0181 | PSYCHOLOGY AID AND TECHNICIAN.
0187 | SOCIAL SERVICES.
0332 | COMPUTER OPERATION.
0342 | SUPPORT SERVICES ADMINISTRATION.
0390 | TELECOMMUNICATIONS PROCESSING.
0392 | GENERAL TELECOMMUNICATIONS.
0404 | BIOLOGICAL SCIENCE TECHNICIAN.
0421 | PLANT PROTECTION TECHNICIAN.
0455 | RANGE TECHNICIAN.
0458 | SOIL CONSERVATION TECHNICIAN.
0459 | IRRIGATION SYSTEM OPERATION.
0462 | FORESTRY TECHNICIAN.
0592 | TAX EXAMINING.
0620 | PRACTICAL NURSE.
0621 | NURSING ASSISTANT.
0622 | MEDICAL SUPPLY AIDE AND TECHNICIAN.
0625 | AUTOPSY ASSISTANT.
0646 | PATHOLOGY TECHNICIAN.
0647 | DIAGNOSTIC RADIOLOGIC TECHNOLOGIST.
0648 | THERAPEUTIC RADIOLOGIC TECHNOLOGIST.
0649 | MEDICAL INSTRUMENT TECHNICIAN.
0650 | MEDICAL TECHNICAL ASSISTANT.
0664 | RESTORATION TECHNICIAN.
0667 | ORTHOTIST AND PROSTHETIST.
0672 | PROSTHETIC REPRESENTATIVE.
0675 | MEDICAL RECORDS TECHNICIAN.
0679 | MEDICAL SUPPORT ASSISTANCE.
0681 | DENTAL ASSISTANT.
0698 | ENVIRONMENTAL HEALTH TECHNICIAN.
0802 | ENGINEERING TECHNICAL.
0809 | CONSTRUCTION CONTROL TECHNICAL.
0817 | SURVEY TECHNICAL.
0818 | ENGINEERING DRAFTING.
0856 | ELECTRONICS TECHNICAL.
0873 | MARINE SURVEY TECHNICAL.
0895 | INDUSTRIAL ENGINEERING TECHNICAL.
0962 | CONTACT REPRESENTATIVE.
0963 | LEGAL INSTRUMENTS EXAMINING.
0990 | GENERAL CLAIMS EXAMINING.
0992 | LOSS AND DAMAGE CLAIMS EXAMINING.
0995 | DEPENDENT AND ESTATES CLAIMS EXAMINING.
1016 | MUSEUM AID AND TECHNICIAN.
1152 | PRODUCTION CONTROL.
1202 | PATENT TECHNICIAN.
1211 | COPYRIGHT TECHNICIAN.
1311 | PHYSICAL SCIENCE TECHNICIAN.
1316 | HYDROLOGIC TECHNICIAN.
1341 | METEOROLOGICAL TECHNICIAN.
1371 | CARTOGRAPHIC TECHNICIAN.
1374 | GEODETIC TECHNICIAN.
1411 | LIBRARY TECHNICIAN.
1421 | ARCHIVES TECHNICIAN.
1521 | MATHEMATICS TECHNICIAN.
1531 | STATISTICAL ASSISTANT.
1658 | LAUNDRY OPERATIONS.
1702 | EDUCATION AND TRAINING TECHNICIAN.
2005 | SUPPLY CLERICAL AND TECHNICIAN.
2185 | AIRCREW TECHNICIAN
ADMINISTRATIVE SUPPORT (NK)
0029 | ENVIRONMENTAL PROTECTION ASSISTANT.
0085 | SECURITY GUARD.
0086 | SECURITY CLERICAL AND ASSISTANCE.
0105 | SOCIAL INSURANCE ADMINISTRATION.
0107 | HEALTH INSURANCE ADMINISTRATION.
0119 | ECONOMICS ASSISTANT.
0186 | SOCIAL SERVICES AID AND ASSISTANCE.
0189 | RECREATION AID AND ASSISTANCE.
0203 | HUMAN RESOURCES ASSISTANCE.
0204 | MILITARY PERSONNEL CLERICAL AND TECHNICIAN.
0303 | MISCELLANEOUS CLERK AND ASSISTANT.
0304 | INFORMATION RECEPTIONIST.
0305 | MAIL AND FILE.
0309 | CORRESPONDENCE CLERK.
0313 | WORK UNIT SUPERVISING.
0318 | SECRETARY.
0319 | CLOSED MICROPHONE REPORTING.
0322 | CLERK-TYPIST.
0326 | OFFICE AUTOMATION CLERICAL AND ASSISTANCE.
0335 | COMPUTER CLERK AND ASSISTANCE.
0344 | MANAGEMENT AND PROGRAM CLERICAL AND ASSISTANCE.
0350 | EQUIPMENT OPERATOR.
0356 | DATA TRANSCRIBER.
0357 | CODING.
0361 | EQUAL OPPORTUNITY ASSISTANCE.
0382 | TELEPHONE OPERATING.
0394 | COMMUNICATIONS CLERICAL.
0503 | FINANCIAL CLERICAL AND TECHNICIAN.
0525 | ACCOUNTING TECHNICIAN.
0530 | CASH PROCESSING.
0540 | VOUCHER EXAMINING.
0544 | CIVILIAN PAY.
0545 | MILITARY PAY.
0561 | BUDGET CLERICAL AND ASSISTANCE.
0986 | LEGAL ASSISTANCE.
0998 | CLAIMS ASSISTANCE AND EXAMINING.
1016 | MUSEUM AID.
1087 | EDITORIAL ASSISTANCE.
1105 | PURCHASING.
1106 | PROCUREMENT CLERICAL AND TECHNICIAN.
1107 | PROPERTY DISPOSAL CLERICAL AND TECHNICIAN.
1603 | EQUIPMENT, FACILITIES, AND SERVICES ASSISTANCE.
2091 | SALES STORE CLERICAL.
2102 | TRANSPORTATION CLERK AND ASSISTANT.
2131 | FREIGHT RATE.
2135 | TRANSPORTATION LOSS AND DAMAGE CLAIMS EXAMINING.
2144 | CARGO SCHEDULING.
2151 | DISPATCHING.
2154 | AIR TRAFFIC ASSISTANCE.

Appendix D

Definitions of Career Paths and Corresponding Broadband Levels

Career Path: Business Management and Technical Management Professional

Includes professional and management positions in science, engineering, medicine, and business management. These positions often have positive degree requirements.

Level I. Includes student trainees. Education and employment must be part of a formal student employment program. Specific, clear and detailed instructions and supervision are given. The level of education and experience completed is a major consideration in establishing the level of on-the-job training and work assignments.

Level II. This is the entry or developmental stage, preparing employees for the full and independent performance of their work. Specific, clear, and detailed instructions and supervision are given upon entry; recurring assignments are carried out independently. Conducts successive activities with objectives and priorities identified by supervisor or team leader; assistance given on new or unusual projects or situations. Finished work is reviewed to ensure accuracy and technical soundness.

Level III. This is the advanced developmental/target career level of this career path. Employee plans and carries out assignments independently; conceives and defines solutions to highly complex problems; analyzes, interprets, and reports findings of projects; and guides technical and programmatic work of team members in comparable junior grades. Completed work and reports are reviewed for feasibility, compatibility with other work or effectiveness in meeting requirements or expected results.

Level IV. Professionals at this level are experts within their functional areas; heads of branches or divisions; or key program administrators. Conducts or directs activities or assists higher levels on challenging and innovative program development with only general guidance on policy, resources and planning; develops solutions to highly complex problems requiring various disciplines; responsible for fulfilling program objectives. Results are authoritative and impact programs or the well-being of substantial numbers of people.

Career Path: Technical Management Support

Includes nonprofessional positions that support science and engineering activities through application of various skills in areas such as the following: engineering, physical, chemical, biological, medical, and mathematical sciences.

Level I. This includes trainees who develop technical support knowledge through actual work experience. Performs repetitive tasks using knowledge of standardized procedures and operations. Receives specific, clear and detailed instruction and supervision. Completed work is reviewed for technical soundness.

Level II. Technicians at this level require a practical knowledge of standard procedures in a technical field. Skill in applying knowledge of basic principles, concepts, and methodology of occupational and/or technical methods is required. Carries out prescribed procedures and relies heavily on precedent methods. Work is reviewed for technical adequacy and accuracy, and adherence to instructions.

Level III. This is the advanced developmental level of this career path, requiring extensive training or experience. Work requires some adapting of existing precedents or techniques. Receives outline of objectives desired and description of operating characteristics and theory involved. Completed assignments are reviewed for compliance with instructions, adequacy, judgment, and satisfaction of requirements.

Level IV. Technicians at this level are considered to have professional level knowledge of a specific field. Receives general guidance on overall objectives and resources. Conceives, recommends, and tests new techniques or methods. Completed work is reviewed for overall soundness and compliance with overall project objectives.

Career Path: Administrative Support

Includes clerical, secretarial and assistant work in nonscientific/engineering occupations.

Level I. This entry level, which includes student trainees as well as others with some experience, requires a fundamental knowledge of clerical/administrative field. Developmental assignments may be given which lead to duties at a higher group level. Performs repetitive tasks; specific, clear, and detailed instruction and supervision; with more experience utilizes knowledge of standardized procedures and operations. Assistance is given on new or unusual projects. Completed work is reviewed for technical soundness.

Level II. This is the journey level that requires knowledge of standardized rules, procedures or operations requiring considerable training. General guidance is received on overall objectives and resources. Completed assignments may be reviewed for overall soundness or meeting expected results.

Level III. This is the senior level that requires knowledge of extensive procedures and operations requiring extensive training. Receives general guidance on overall resources and objectives. Skilled in applying knowledge of basic principles, concepts and methodology of administrative occupation and/or technical methods. Results are accepted as authoritative and normally without significant change.

Appendix E

Classification Level and Appraisal Factors

AcqDemo has three distinct career paths where AcqDemo occupations with similar characteristics are grouped together to facilitate classification of positions, contribution appraisal assessments, and compensation decisions. The career paths are designated as Business Management and Technical Management Professional, Pay Plan NH; Technical Management Support, Pay Plan NJ; and Administrative Support, Pay Plan NK.

AcqDemo provides definitions for each of the career paths and corresponding broadband levels within them. Classification factors comprised of expected contribution criteria and broadband level descriptors and discriminators, as aligned to the three career paths and broadband levels, will be used for both classification of a position and assessment of an employee's contribution. While the descriptors indicate the level, scope, complexity, and difficulty of the duties and type of contribution appropriate at the upper end of each broadband level, a broadband may actually contain an array of positions with varying levels of work, responsibilities, and value. These attributes range from just above the upper end on the next lower broadband level to an employee's position to the upper end of the employee's position as defined by an organization's position management structure needed to accomplish its mission. This structure in turn would be used to set the stage for determination of position classification, contribution assessment (Overall Contribution Score (OCS) and performance appraisal), and ultimately compensation decisions.

Descriptors are not to be used individually to determine position classification or assess contributions, but rather are to be taken as a group to derive a single evaluation of each factor. The three factor evaluations when taken as a whole result in either a classification determination of broadband level for the position or an OCS and performance appraisal for contribution assessment depending on the action being addressed. The career paths and their associated broadband levels, referenced General Schedule grades, and Overall Contribution Score range are shown in the figure below as a reference tool.

Appendix F

Intervention Impact Evaluation Model

Intervention | Expected effects | Measures | Data sources
1. COMPENSATION
a. Broadbanding | Increased organizational flexibility, i.e., simplified assignment, pay setting | Perceived flexibility | • Attitude survey. • Focus groups.
| Reduced administrative workload, paper work reduction | Actual/perceived time savings | Personnel office data, program management evaluation (PME) results, attitude survey.
b. Maximum Broadband Level | Higher starting basic pay | Starting basic pay of banded v. non-banded employees | Workforce data.
c. Accelerated Compensation for Developmental Positions | More gradual basic pay progression at entry levels | Progression of new hires over time by broadband, career path, scores, deltas | Workforce data.
| Increased basic pay potential | • Mean salaries by broadband, career path and demographics | • Workforce data.
|  | • Total payroll costs | • Personnel office data.
| Increased satisfaction with advancement | Employee perceptions of advancement | Attitude survey.
| Increased basic pay satisfaction | Basic pay satisfaction, internal/external equity | Attitude survey.
| Improved recruitment of interns and recent graduates | Offer, acceptance, declination, retention ratios | Personnel office data.
d. Student Intern Relocation Incentive | Greater ability to hire students attending colleges in different geographical locations | • Offer/acceptance ratios • Percent declinations | Personnel office data.
| Elevated quality of hires | • Perceived quality of candidates/hire, i.e., experience, skills, education | • Attitude survey, focus groups, selecting official interviews.
|  | • First offer accepted | • Personnel office data.
|  | • Grade point averages | • Personnel office data.
|  | • Educational levels | • Personnel office data.
e. Conversion Buy-ins | Employee acceptance | • Employee perceptions of equity, fairness | • Attitude survey.
|  | • Cost as a percent of payroll | • Workforce data.
f. Supervisory and Team Leader Cash Differentials | • Increased incentive to accept supervisory or team leader positions | • Perceived motivational power | • Attitude survey.
| • Improved recruitment and retention of supervisors and team leaders | • Offer, acceptance, retention ratios | • Personnel office data.
| • Flatter organization | • Supervisory/non-supervisory ratios | • Workforce data.
| • Improved quality of supervisory staff | • Employee perceptions of quality of supervisory and team leader staff | • Attitude survey, focus groups.
2. CONTRIBUTION/PERFORMANCE MANAGEMENT
a. AcqDemo Contribution Rating Awards; Title 5 Special Act Awards, Honorary Awards, and Other Title 5 Awards, e.g., Time-Off | Reward/motivate contribution | Perceived motivational power | Attitude survey.
| To support fair and appropriate distribution of awards | • Amount and number of awards by type, demographics | • Workforce data.
|  | • Perceived fairness of awards | • Attitude survey.
|  | • Satisfaction with monetary and non-monetary awards | • Attitude survey.
b. | Increased basic pay/contribution-performance link | • Perceived basic pay/contribution-performance link | • Attitude survey.
|  | • Perceived fairness of scoring | • Attitude survey.
| Improved contribution/performance feedback | • Satisfaction with scoring • Employee trust in supervisors/pay pool panels • Adequacy of contribution/performance feedback | • Attitude survey. • Attitude survey. • Attitude survey.
| Decreased turnover of employees scoring in normal or undercompensated categories/Increased turnover of employees scoring in overcompensated category | Turnover by integrated pay schedule compensation categories | Workforce data.
| Alignment of organizational and individual contribution expectations, objectives, and results | Linkage of contribution expectations and objectives to strategic plans' goals | • Contribution plans. • Strategic Plans.
| Increased employee involvement in contribution planning and assessment | • Perceived involvement • Contribution management | • Attitude survey/focus groups. • Personnel/Demo regulations.
c. New Appraisal Process: Contribution-based Compensation and Appraisal System (CCAS) | Reduce administrative burden | Employee and supervisor perceptions of revised procedures | Attitude survey.
| Improved communication | Perceived fairness of process | Focus groups.
d. Contribution Plan Development | Better communication of contribution expectations, performance requirements, and objectives | Feedback and coaching procedures used | • Focus groups. • Personnel office data.
| Improved satisfaction and quality of workforce | Perceived workforce quality | • Attitude survey. • Focus groups.
3. POSITION CLASSIFICATION
a. Improved Classification System with Generic Standards | Reduction in amount of time and paperwork spent on classification | • Time spent on classification procedures | • Personnel office data.
|  | • Reduction of paperwork/number of personnel actions (classification—promotion, change to lower broadband level) | • Personnel office data.
| Simplified, automated classification applications and procedures | • Adaptable to changes; number of system change requests • Ready access; number and length of down times | • Personnel office data. • Focus groups, surveys. • Personnel office data.
|  | • Easy to use; number of user inquiries | • AcqDemo Program Office data.
| Ease of Use | • Factors, descriptors, and discriminators easy to decipher and apply to various positions at different organizational levels | • Attitude survey. • Focus groups.
|  | • Perception of managers, supervisors, administrative personnel, and HR specialists of time savings, ease of use | • Attitude survey. • Focus groups.
|  | • Number of employee classification appeals | • Personnel office data.
b. Delegation of Classification Authority | Increased supervisory authority and accountability | Perceived authority | Attitude survey.
| Decreased conflict between management and human resources staff | • Number of classification disputes/appeals pre- and post-conversion | • Personnel records.
|  | • Management satisfaction with service provided by the HR Office | • Attitude.
| No negative impact on internal pay equity | Internal pay equity | • Personnel records. • Attitude survey.
4. REDUCTION-IN-FORCE (RIF) PROCEDURES
a. Modified RIF | Minimize loss of high contributing employees | • Separated employees by demographics, overall contribution score deltas, and integrated pay schedule compensation regions | • Workforce data. • Attitude survey and focus groups.
|  | • Satisfaction with RIF process | • Attitude survey and focus groups.
| Contain cost and disruption | • Cost comparisons of traditional vs. modified RIF | • Personnel/Budget Office data.
|  | • Number and cost of separation incentives | • Personnel office data.
|  | • Time to conduct RIF | • Personnel office data.
|  | • Number of employees affected | • Personnel office data.
|  | • Number of employees outplaced | • Personnel office data.
|  | • Number of appeals/reinstatements | • Personnel office data.
5. HIRING AUTHORITIES
a. Direct Hire for the Business and Technical Management Professional Career Path positions | Improved ease and timeliness of hiring process | • Perceived flexibility in authority to hire | • Attitude survey.
|  | • Shortened timeline from initiation of action to firm offer letter/EOD | • Personnel office data.
b. Veteran Direct Hire Appointments for the Business and Technical Management Professional Career Path and Technical Management Support Career | Improved recruitment of employees for shortage category positions | • Offer/acceptance ratios • Percent declinations • Timeliness of job offers | • Personnel office data. • Personnel office data. • Personnel office data.
| Elevated quality of hires | • Perceived quality of candidates/hire, i.e., experience, skills, education | • Attitude survey, focus groups, selecting official interviews.
|  | • First offer accepted | • Personnel office data.
|  | • Grade point averages | • Personnel office data.
|  | • Educational levels | • Personnel office data.
| Reduced administrative workload/paperwork reduction | • Actual efficiencies and perceived skills | • Personnel office data • Attitude survey, focus groups.
c. Acquisition Student Intern Hiring Authority | Improved recruitment of employees for AWF positions | • Offer/acceptance ratios • Percent declinations • Timeliness of job offers | • Personnel office data. • Personnel office data. • Personnel office data.
d. Scholastic Achievement Appointment | Elevated quality of hires | • Perceived quality of candidates/hire, i.e., experience, skills, education | • Attitude survey, focus groups, selecting official interviews.
|  | • First offer accepted | • Personnel office data.
|  | • Grade point averages | • Personnel office data.
|  | • Educational levels | • Personnel office data.
e. Simplified Accelerated Processes: Name Request, Rule of Many, and List or Certificate of Eligibles | Improved ease and timeliness of hiring process | • Perceived flexibility in authority to hire • Shortened timeline from initiation of action to firm offer letter/EOD | • Attitude survey. • Personnel office data.
| Improved recruitment of employees for AWF and direct support positions | • Offer/acceptance ratios • Percent declinations • Timeliness of job offers | • Personnel office data. • Personnel office data. • Personnel office data.
| Elevated quality of hires | • Perceived quality of candidates/hire, i.e., experience, skills, education | • Attitude survey, focus groups, selecting official interviews.
|  | • First offer accepted | • Personnel office data.
|  | • Grade point averages | • Personnel office data.
|  | • Educational levels | • Personnel office data.
| Reduced administrative workload/paperwork reduction | • Actual efficiencies and perceived skills | • Personnel office data. • Attitude survey, focus groups.
f. Term Appointment Authority | Increased capability to expand and contract workforce | • Number and length of appointments by type of position | • Workforce data • Personnel office data.
|  | • Number/percentage of conversions from modified term to permanent | • Personnel office data.
6. STAFFING
a. Expanded Detail and Temporary Promotion to Higher Broadband Level | Increased capability to expand and contract workforce | • Number and length of details and temporary promotions by type of position | • Workforce data.
|  | • Number of recipients receiving permanent promotions | • Personnel office data.
|  | • Demographics of recipients | • Personnel office data.
| Increased ability to provide extended developmental assignments | • Number and length of details and temporary promotions by developmental assignment | • Workforce data. • Personnel office data.
|  | • Demographics of recipients | • Personnel office data.
|  | • Realized career growth | • Personnel office data.
b. Voluntary Emeritus Program | Encourages retirees to mentor junior professionals or serve as consultants | • Frequency of use, length of assignment, type and level of position, hours/days worked, typical salary for position | • Personnel office data.
|  | • Cost savings by virtue of volunteer service | • Personnel office data.
|  | • Volunteer and management satisfaction | • Attitude survey, focus group, interviews.
|  | • Participation by non-AcqDemo participants |
7. EXPANDED DEVELOPMENT OPPORTUNITIES
a. Sabbaticals | Expanded range of professional growth and development | • Number and type of opportunities taken | • Workforce data.
|  | • Demographics of participants | • Personnel office data.
|  | • Increased employee career progression | • Workforce data. • Personnel office data.
|  | • Employee and management satisfaction | • Attitude survey.
| Application of enhanced knowledge and skills to work product, contribution expectations | Employee and supervisor perceptions | Focus groups, interviews, attitude survey.
8. COMBINATION OF ALL INTERVENTIONS
a. All | Improved organizational effectiveness | Combination of personnel measures | All data sources.
| Improved management of workforce | Employee/Management job satisfaction (intrinsic/extrinsic) | Attitude survey.
| Improved planning | • Planning procedures | • Strategic planning documents.
|  | • Perceived effectiveness of planning procedures | • Attitude survey.
| Improved cross functional coordination | Actual/perceived coordination | Organizational charts.
| Increased product success | Customer satisfaction | Customer satisfaction surveys.
| Cost of demonstration project innovation | Project training/developmental costs (staff salaries, contract cost, training hours per employee) | • Demo Program Office records. • Contract documents.

[FR Doc. 2017-24226 Filed 11-8-17; 8:45 am]

BILLING CODE 5001-06-P